OFFICE OF PERSONNEL MANAGEMENT

2011 Career Reserved Senior Executive Positions

AGENCY: U.S. Office of Personnel Management (OPM).

ACTION: Notice.

SUMMARY: As required by section 3132(b)(4) of title 5, United States Code, this gives notice of all positions in the Senior Executive Service (SES) that were career reserved during calendar year 2011.

FOR FURTHER INFORMATION CONTACT: Phyllis Proctor, Senior Executive Resources Services, Executive Resources and Employee Development, Employee Services, 202-606-2246, SERS@opm.gov.

SUPPLEMENTARY INFORMATION: Below is a list of titles of SES positions that were career reserved at any time during calendar year 2011, regardless of whether those positions were still career reserved as of December 31, 2011. Section 3132(b)(4) of title 5, United States Code, requires that the head of each agency publish such lists by March 1 of the following year. The Office of Personnel Management is publishing a consolidated list for all agencies.

Agency | Organization | Title
ADMINISTRATIVE CONFERENCE OF THE UNITED STATES | Research Office | Research Director. General Counsel.
| Administrative Conference of the United States | General Counsel.
|  | Executive Director.
ADVISORY COUNCIL ON HISTORIC PRESERVATION | Office of the Executive Director | Executive Director.
DEPARTMENT OF AGRICULTURE | Office of Communications | Deputy Director, Creative Development.
| Office of the Chief Information Officer | Associate Chief Information Officer.
|  | Deputy Chief Information Officer.
| Office of the Chief Financial Officer | Associate Chief Financial Officer, Financial Systems Planning and Management.
|  | Associate Chief Financial Officer for Financial Policy and Planning.
|  | Deputy Chief Financial Officer.
| National Finance Center | Deputy Director, National Finance Center.
|  | Director, Financial Services Division.
|  | Director, Information Resources Management Division.
| Office of the General Counsel | Assistant General Counsel.
|  | Assistant General Counsel, Legislation, Litigation and General Law.
| Office of the Chief Economist | Director, Global Change Program Office.
|  | Director, Office of Risk Assessment and Cost-Benefit Analysis.
|  | Chairperson.
|  | Director, Office of Energy Policy and New Uses.
| Office of Human Resources Management | Provost, USDA Virtual University.
| Office of Advocacy and Outreach | Director, Office of Advocacy and Outreach.
| Office of Operations | Director, Office of Operations.
| Procurement and Property Management | Director, Procurement and Property Management.
| Rural Business Service | Deputy Administrator, Business Programs.
| Rural Housing Service | Chief Financial Officer.
|  | Administrator, Operations and Management.
|  | Director, Human Resources.
|  | Deputy Administrator, Multi-Family Housing.
|  | Budget Officer.
|  | Deputy Administrator for Operations and Management.
|  | Deputy Administrator, Centralized Servicing Center.
| Agricultural Marketing Service | Deputy Administrator, Dairy Programs.
|  | Deputy Administrator, Science and Technology Programs.
|  | Deputy Administrator, Poultry Programs.
|  | Deputy Administrator, Livestock and Seed Programs.
|  | Deputy Administrator for National Organic Programs.
|  | Deputy Administrator, Cotton and Tobacco Programs.
|  | Deputy Administrator, Compliance and Analysis.
|  | Deputy Administrator, Fruit and Vegetable Programs.
|  | Deputy Administrator, Information Technology Services.
|  | Deputy Administrator, Transportation and Marketing Programs.
|  | Associate Administrator.
| Animal and Plant Health Inspection Service | Director, Center for Veterinary Biologics.
|  | International Services Area Director (Trade).
|  | Director, Information Technology Division.
|  | Deputy Administrator, Animal Care.
|  | Deputy Administrator for Marketing and Regulatory Programs-Business Services.
|  | Director, Investigative and Enforcement Services.
|  | Director, National Wildlife Research Center.
|  | Deputy Administrator, Legislative and Public Affairs.
|  | Deputy Administrator for International Services.
|  | Deputy Administrator, Biotechnology Regulatory Programs.
|  | Associate Deputy Administrator, Veterinary Services, Emergency Programs.
|  | Director, Western Region, Wildlife Services.
|  | Director, Center for Plant Health Science and Technology.
|  | Assistant Deputy Administrator, Emergency and Domestic Programs.
|  | Associate Deputy Administrator, Wildlife Services.
|  | Senior Animal and Plant Health Inspection Service International Organization Coordinator.
|  | Director, Eastern Region, Wildlife Services.
|  | Associate Deputy Administrator for Marketing and Regulatory Programs—Business Services.
|  | Associate Deputy Administrator, Emerging and International Programs.
|  | Chief Advisor (Government, Academia and Industry Partnership).
|  | Associate Deputy Administrator for Animal Care.
|  | Executive Associate Deputy Administrator.
|  | Human Resources Officer.
| Veterinary Services | Associate Deputy Administrator, National Animal Health Policy Programs.
|  | Director, Eastern Region, Veterinary Services.
|  | Director, Western Region, Veterinary Services.
|  | Director, Center for Epidemiology and Animal Health.
|  | Deputy Administrator, Wildlife Services.
| Plant Protection and Quarantine Service | Director, Eastern Region, Plant Protection and Quarantine.
|  | Director, Western Region, Plant Protection and Quarantine.
|  | Director, Plant Health Programs, Plant Protection and Quarantine.
| Office of the Under Secretary for Food Safety | United States Manager for Codex.
| Food Safety and Inspection Service | Assistant Administrator, Office of Policy and Program Development.
|  | Assistant Administrator, Office of Catfish Inspection Programs.
|  | Executive Associate for Regulatory Operations, Office of Field Operations.
|  | Deputy Assistant Administrator, Office of Program Evaluation Enforcement and Review.
|  | Deputy Assistant Administrator, Office of Policy and Program Development.
|  | Assistant Administrator, Office of Public Affairs, Education and Outreach.
|  | Assistant Administrator, Office of Management.
|  | Assistant Administrator, Office of Data Integration and Food Protection.
|  | Deputy Assistant Administrator, Office of Data Integration and Food Protection.
|  | Assistant Administrator, Office of Program Evaluation Enforcement and Review.
|  | Deputy Assistant Administrator, Office of Management.
|  | Executive Associate for Regulatory Operations, Office of Field Operations.
|  | Executive Associate for Public Health.
|  | Executive Associate for Regulatory Operations, Office of Field Operations.
|  | Deputy Assistant Administrator, Office of International Affairs.
|  | Executive Associate for Regulatory Operations, Office of Field Operations.
|  | Executive Associate for Laboratory Services, Office of Public Health Science.
|  | Assistant Administrator, Office of International Affairs.
|  | Assistant Administrator.
|  | Deputy Assistant Administrator, Office of Field Operations.
|  | Deputy Assistant Administrator, Office of Public Health Science.
|  | Deputy Administrator.
|  | Assistant Administrator, Office of Field Operations.
|  | Chief Financial Officer.
|  | Chief Information Officer.
|  | Deputy Administrator.
| Food and Nutrition Service | Director, Office of Research, Nutrition and Analysis.
|  | Financial Manager.
|  | Program Manager (Deputy Administrator for Management).
|  | Associate Administrator for Management and Finance.
|  | Program Manager (Associate Administrator for Regional Operations and Support).
| Foreign Agricultural Service | Deputy Administrator, Office of Scientific and Technical Affairs.
|  | Associate Administrator (Chief Operating Officer).
|  | Deputy Administrator, Office of Global Analysis.
| Farm Service Agency | Director, Office of Budget and Finance.
|  | Director, Conservation Environment Programs Division.
|  | Deputy Director, Office of Budget and Finance.
|  | Assistant Deputy Administrator for Farm Programs.
|  | Deputy Administrator for Farm Loan Programs.
| Risk Management Agency | Deputy Administrator for Research and Development.
|  | Deputy Administrator for Insurance Services Division.
| Office of the Under Secretary for Research, Education, and Economics | Director, Office of the USDA Chief Scientist.
| Agricultural Research Service | Associate Deputy Administrator for Administrative and Financial Management.
|  | Chief Budget Officer.
|  | Associate Administrator, Research Operations and Management.
|  | Deputy Administrator, Animal Production and Protection.
|  | Director, Office of International Research Programs.
|  | Deputy Administrator, Food Nutrition, Safety and Quality.
|  | Deputy Administrator for Administrative and Financial Management.
|  | Director, Office of Pest Management Policy.
|  | Director, National Animal Disease Center.
|  | Assistant Administrator for Technology Transfer.
| National Program Staff Office | Deputy Administrator.
|  | Associate Administrator, National Programs.
|  | Deputy Administrator for Natural Resources and Sustainable Agriculture Systems.
| Beltsville Area Office | Director, Beltsville Human Nutrition Research Center.
|  | Associate Director, Beltsville Area.
|  | Director, Animal and Natural Resources Institute.
|  | Director, U.S. National Arboretum.
|  | Director, Plant Sciences Institute.
|  | Chief Information Officer.
|  | Director, Beltsville Area Office.
| North Atlantic Area Office | Director, North Atlantic Area.
|  | Director, Eastern Regional Research Center.
|  | Associate Director, North Atlantic Area.
| South Atlantic Area Office | Associate Director, South Atlantic Area.
|  | Director, South Atlantic Area.
| Midwest Area Office | Associate Director, Midwest Area.
|  | Director, National Center for Agriculture Utilization.
|  | Director, Midwest Area.
| Mid-south Area Office | Associate Director, Mid-South Area.
|  | Director, Southern Regional Research Center.
|  | Director, Mid-South Area.
| Southern Plains Area Office | Director, Southern Plains Area.
|  | Associate Director, Southern Plains Area.
| Northern Plains Area Office | Director, Northern Plains Area.
|  | Director, United States Meat Animal Research Center.
|  | Associate Director, Northern Plains Area Office.
| Pacific Office, West Area | Associate Director, Pacific West Area Office.
|  | Director, Western Regional Research Center.
|  | Director, Pacific West Area Office.
|  | Director, Western Human Nutrition Research Center.
| National Institute of Food and Agriculture | Assistant Director, Office of Information Technology.
|  | Assistant Director, Office of Grants and Financial Management.
|  | Assistant Director, Institute of Bioenergy, Climate and Environment.
|  | Senior Advisor to the Director.
|  | Assistant Director, Institute of Food Safety and Nutrition.
|  | Assistant Director, Institute of Food Safety and Nutrition.
| Economic Research Service | Director, Information Services Division.
|  | Administrator, Economic Research Service.
|  | Director, Market and Trade Economics Division.
|  | Budget Coordinator and Strategic Planner.
|  | Director, Food and Rural Economics Division.
|  | Director, Resource Economics Division.
|  | Associate Administrator, Economic Research Service.
| National Agricultural Statistics Service | Administrator, National Agricultural Statistics Service.
|  | Director, Research and Development Division.
|  | Deputy Chief for Programs.
|  | Director, Information Technology Division.
|  | Director, Census and Survey Division.
|  | Director, Statistics Division.
|  | Director, Eastern Field Operations.
|  | Associate Deputy Administrator (Western United States).
|  | Director, Western Field Operations.
|  | Associate Administrator.
|  | Chairperson of the U.S. Agricultural Statistics Board.
|  | Special Assistant.
|  | Director, National Operations Center.
| Natural Resources Conservation Service | Deputy Chief for Strategic Planning and Accountability.
|  | Director, Resource Conservation and Rural Lands Division.
|  | Director, Conservation Engineering Division.
|  | Director, Ecological Sciences Division.
|  | Associate Deputy Chief for Science and Technology.
|  | Director, Resource Economics, Analysis and Policy Division.
|  | Director, Conservation Planning and Technical Assistance Division.
|  | Director, Animal Husbandry and Clean Water Programs Division.
|  | Senior Advisor, Chesapeake Bay Watershed.
|  | Director, Resource Inventory Division.
|  | Director, Operations Management and Oversight.
|  | Director, Easement Programs Division.
|  | Associate Deputy Chief for Management.
|  | Chief Financial Officer.
|  | Deputy Chief for Easements and Landscape Planning.
|  | Special Assistant to Chief.
|  | Special Assistant to Chief.
|  | Director, Resource Assessment Division.
|  | Deputy Chief for Programs.
|  | Director, Financial Assistance Programs Division.
|  | Director, Soil Survey Division.
| Forest Service | Deputy Chief, Business Operations.
|  | Director, Acquisition Management.
|  | Chief Financial Officer.
|  | Associate Deputy Chief for Business Operations.
|  | Director, Law Enforcement and Investigations.
|  | Associate Deputy Chief, Research and Development.
|  | Associate Deputy Chief, Research and Development.
|  | Director, Fire and Aviation Staff.
| Research Office | Director, Science Policy, Planning and Information Staff.
|  | Director, Environmental Sciences.
|  | Director, Resource Use Sciences.
|  | Director, Vegetation Management and Protection Research Staff.
| National Forest System | Director, Ecosystem Management Coordination.
|  | Director, Minerals and Geology Management Staff.
|  | Director, Lands Management Staff.
|  | Director, Engineering.
|  | Director, Forest Management Staff.
|  | Director, Rangeland Management.
|  | Director, Water, Fish, Wasteland, Air and Rare Plants.
| State and Private Forestry | Director, Forest Health Protection.
|  | Senior Advisor to the Deputy Chief, State and Private Forestry.
|  | Director, Cooperative Forestry.
| Field Units | Northeast Area Director, State and Private Forestry.
|  | Director, Rocky Mountain Forest and Range Experiment Station (Fort Collins).
|  | Director, Pacific Southwest Forest and Range Experiment Station (Vallejo).
|  | Director, Forest Products Laboratory (Madison).
|  | Director, Southern Research Station (Asheville).
|  | Station Director, Northeastern Forest Experiment Station (Newtown Square).
|  | Director, Pacific Northwest Research Station.
| International Forest System | Director, International Institute of Tropical Forest (Rio Piedras).
DEPARTMENT OF AGRICULTURE OFFICE OF THE INSPECTOR GENERAL | Office of the Inspector General | Deputy Inspector General. Counsel to the Inspector General.
| Office of the Assistant Inspector General for Management | Assistant Inspector General for Management.
| Office of the Assistant Inspector General for Audit | Deputy Assistant Inspector General for Audit.
|  | Deputy Assistant Inspector General for Audit.
|  | Assistant Inspector General for Audit.
|  | Deputy Assistant Inspector General for Audit.
| Office of the Assistant Inspector General for Investigations | Assistant Inspector General for Investigations.
|  | Deputy Assistant Inspector General for Investigations.
AMERICAN BATTLE MONUMENTS COMMISSION | Office of the Secretary | Deputy Secretary. Director, European Region.
ARCHITECTURAL AND TRANSPORTATION BARRIERS COMPLIANCE BOARD (UNITED STATES ACCESS BOARD) | Office of the Executive Director | Executive Director. Director, Office of Technical and Information Services.
BROADCASTING BOARD OF GOVERNORS | International Broadcasting Bureau | Deputy for Network Operations.
|  | Director, Engineering and Technical Operations.
|  | Associate Director for Management.
|  | Deputy for Engineering Resource Control.
CHEMICAL SAFETY AND HAZARD INVESTIGATION BOARD | Office of the Chief Operating Officer | Chief Operating Officer.
DEPARTMENT OF COMMERCE | Office of the Secretary | Deputy Chief Financial Officer/Deputy Chief Administrative Officer.
|  | Deputy Assistant Inspector General for Auditing.
|  | General Counsel.
|  | Director, Governmental Affairs.
|  | Director, Office of Information Technology Security, Infrastructure and Technology.
|  | Director, Office of Information Technology Policy and Planning.
| Office of the Chief Information Officer | Special Assistant for Program Management.
| Office of the General Counsel | Assistant General Counsel for Finance and Litigation.
|  | Chief, Ethics Division.
|  | Director, Office of Executive Support.
| Office of the Chief Financial Office | Deputy Assistant Secretary for Resource Management.
|  | Deputy for Procurement Performance Excellence.
|  | Deputy Director, Office of Budget.
|  | Director for Administrative Services.
|  | Director for Y2K Outreach.
|  | Director, Office of Acquisition Management.
|  | Deputy Director for Financial Management.
|  | Deputy Director for Administrative Services.
|  | Deputy for Acquisition Program Management.
|  | Director of the Office of Budget.
|  | Executive Director, Commerce Connect.
|  | Director, Human Resources Operations Center.
|  | Deputy Chief Information Officer.
| Office of the Assistant Secretary for Administration | Director, Office of Security.
|  | Deputy Director for Acquisition Management.
|  | Deputy Director for Human Resources Management.
|  | Director for Human Resources Management.
| Director for Financial Management | Director for Financial Management and Deputy Chief Financial Officer.
| Office of Budget Management and Information and Chief Information Officer | Director, Office of Budget.
| Director for Executive Budgeting and Assistance Management | Director for Federal Assistant and Management Support.
| Office of Security | Deputy Director for Security.
|  | Director, Office of Security.
| Office of the Assistant Secretary for Administration | Director for Technology Management.
|  | Deputy Assistant Secretary and Director for Security.
| Office of the Inspector General | Deputy Assistant Inspector General for Economic and Statistical Program Assessment.
|  | Assistant Inspector General for Systems Evaluation.
|  | Assistant Inspector General for Administration.
| Office of Counsel to the Inspector General | Counsel to the Inspector General.
| Office of Inspections and Program Evaluation | Assistant Inspector General for Inspections and Program Evaluation.
| Office of Audits | Assistant Inspector General for Auditing.
| Office of Investigations | Assistant Inspector General for Investigations.
| Economics and Statistics Administration | Chief Financial Officer and Director for Administration.
| Bureau of the Census | Senior Advisor for Project Management.
|  | Associate Director for Administration and Chief Financial Officer.
|  | Associate Director for Research and Methodology.
|  | Assistant Director for Research and Methodology.
|  | Chief, Center for Administrative Records Research and Applications.
|  | Associate Director for 2020 Census.
|  | Chief, Decennial Research and Planning Office.
|  | Senior Advisor for Service Delivery.
|  | Assistant Director for Decennial Information Technology and Geographic Systems.
|  | Associate Director for Information Technology and Chief Information Officer.
|  | Associate Director for Strategic Planning and Innovation.
|  | Chief, Human Resources Division.
|  | Assistant Director for American Community Survey and Decennial Census.
|  | Chief, Center for Economic Studies and Chief Economist.
|  | Chief, Field Division.
|  | Comptroller.
|  | Chief, Budget Division.
|  | Chief Technology Officer.
| Office of the Director | Chief, Decennial Systems and Contracts Management Office.
|  | Associate Director for Field Operations.
| Administrative and Customer Services Division | Chief, Administrative and Customer Services Division.
| Office of the Associate Director for Finance and Administration | Chief, Acquisition Division.
| Data Preparation Division | Chief, National Processing Center.
| Office of the Associate Director for Economic Programs | Assistant Director for Economic Programs.
|  | Associate Director for Economic Programs.
| Economic Planning and Coordination Division | Chief, Economic Planning and Coordination Division.
| Economic Statistical Methods and Programming Division | Chief, Economic Programming Division.
| Agriculture and Financial Statistics Division | Chief, Company Statistics Division.
| Services Division | Chief, Service Sector Statistics Division.
| Foreign Trade Division | Chief, Foreign Trade Division.
| Governments Division | Chief, Governments Division.
| Manufacturing and Construction Division | Chief, Manufacturing and Construction Division.
| Associate Director for Decennial Census | Associate Director for Decennial Census.
|  | Chief, American Community Survey Office.
| Decennial Management Division | Chief, Decennial Management Division.
| Geography Division | Chief, Geography Division.
| Decennial Statistical Studies Division | Chief, Decennial Statistical Studies Division.
| Office of the Associate Director for Demographic Programs | Associate Director for Demographic Programs.
|  | Chief, Demographic Surveys Division.
|  | Chief, Population Division.
| Housing and Household Economic Statistics Division | Chief, Social, Economic, and Housing Statistics Division.
| Demographic Statistical Methods Division | Chief, Demographic Statistical Methods Division.
| Statistical Research Division | Chief, Statistical Research Division.
| Bureau of Economic Analysis | Chief, Balance of Payments Division.
|  | Chief Information Officer.
|  | Associate Director for Industry Accounts.
| Office of the Director | Deputy Director, Bureau of Economic Analysis.
|  | Chief Economist.
|  | Chief Statistician.
|  | Director, Bureau of Economic Analysis.
|  | Associate Director for Regional Economics.
|  | Associate Director for International Economics.
| Office of the Associate Director for National Income, Expenditure, and Wealth Accounts | Chief, National Income and Wealth Division.
|  | Associate Director for National Income, Expenditure and Wealth Accounts.
| Bureau of Industry and Security | Director, Office of Enforcement Analysis.
|  | Chief Financial Officer and Director of Administration.
| Office of the Director of Administration | Deputy Chief Financial Officer.
| Office of the Assistant Secretary for Export Enforcement | Deputy Director, Office of Export Enforcement.
|  | Deputy Assistant Secretary for Export Enforcement.
|  | Director, Office of Export Enforcement.
| Economic Development Administration | Chief Financial Officer/Director of Administration.
| Office of the Assistant Secretary for Economic Development | Chief Financial Officer/Chief Administrative Officer (Chief Financial Officer/Chief Administrative Officer).
| International Trade Administration | Executive Director for Antidumping and Countervailing Duty Operations.
|  | Director, Office of Environmental Technologies Industries.
|  | Senior Director, China/Non-Market Economy Compliance Unit.
| Office of the Under Secretary | Chief Financial Officer and Director of Administration.
| Office of the Deputy Under Secretary | Deputy Chief Administrative Officer.
| Office of the Director of Administration | Human Resources Manager.
| Office of Consumer Goods | Director, Office of Consumer Goods.
| Office of the Deputy Assistant Secretary for Market Access and Compliance | Director, Trade Compliance Center.
| Market Access and Compliance | Director, Office of Multilateral Affairs.
|  | Director, Office of China Economic Area.
| Office of the Deputy Assistant Secretary for Trade Agreements and Compliance | Associate Director for Management.
| National Oceanic and Atmospheric Administration | Deputy Chief Administrative Officer.
|  | Director, Office of Education.
|  | Chief Information Officer and Director for High Performance Computing and Communications.
|  | Chief Financial Officer.
|  | Deputy Director, Acquisition and Grants Office.
|  | Chief, Resource and Operations Management.
|  | Director, Joint Polar Satellite Systems.
|  | Deputy Chief Information Officer.
|  | Director, Acquisition and Grants Office.
|  | Deputy Director for Workforce Management.
|  | Deputy Director, Office of Marine and Aviation Operations.
|  | Director, Office of Ocean Exploration and Research.
|  | System Program Director, National Polar-Orbiting Operational Environmental Satellite System.
|  | Chief Administrative Officer.
|  | Program Executive Officer, National Polar-Orbiting Operational Environmental Satellite System.
|  | Director, Integrated Ocean Observing System.
|  | Deputy Assistant Administrator for Systems.
|  | Director, Ocean Prediction Center.
|  | Chief Financial Officer/Chief Administrator Officer.
|  | Chief Information Officer for NESDIS.
|  | Director, Space Environment Center.
| National Oceanic and Atmospheric Administration Coastal Ocean Program Office | Director, Budget Office.
| Office of Finance and Administration | Director, Finance Office/Comptroller.
|  | Director, Real Property, Facilities and Logistics Office.
|  | Director for Workforce Management.
| National Ocean Service | Director, Office of National Geodetic Survey.
|  | Technical Director.
|  | Associate Assistant Administrator for Management and Chief Financial Officer/Chief Administrative Officer.
| National Oceanic and Atmospheric Administration Coastal Services Center | Director, National Centers for Coastal Ocean Science.
| Hazardous Materials Response and Assessment Division | Director, Office of Response and Restoration.
| Office of the Assistant Administrator for Weather Services | Director, Strategic Planning and Policy Office.
| Office of the Chief Information Officer | Chief Information Officer for Weather Service.
| Office—Federal Coordinator—Meteorology | Director, Office of the Federal Coordinator for Meteorology.
| Office of Hydrologic Development | Director, Office of Hydrologic Development.
| Hydrology Laboratory | Chief, Hydrology Laboratory.
| Office of Science and Technology | Chief, Programs and Plans Division.
|  | Director, Office of Science and Technology.
| Meteorological Development Laboratory | Director, Meteorological Development Laboratory.
| Systems Engineering Center | Director, Systems Engineering Center.
| Office of Operational Systems | Director, Office of Operational Systems.
| Field Systems Operations Center | Director, Field Systems Operations Center.
| Telecommunications Operations Center | Chief, Telecommunications Operations Center.
| Maintenance, Logistics and Acquisition Division | Chief, Operations Division.
| Radar Operations Center | Director, Radar Operations Center.
| National Data Buoy Center | Director, National Data Buoy Center.
| Office of Climate, Water and Weather Services | Director, Office of Climate, Water and Weather Services.
|  | Chief, Meteorological Services Division.
| Eastern Region | Director, Eastern Region, National Weather Service.
| Southern Region | Director, Southern Region.
| Central Region | Director, Central Region.
| Western Region | Director, Western Region.
| Alaska Region | Director, Alaska Region, Anchorage.
| National Centers for Environmental Prediction | Director, National Center for Environmental Prediction.
|  | Director, Environmental Modeling Center.
|  | Director, National Severe Storms Laboratory.
|  | Director, Aviation Weather Center.
| National Centers for Environmental Prediction Central Operations | Director, Central Operations.
| Hydro-meteorological Prediction Center | Chief, Meteorological Operations Division.
| Climate Prediction Center | Director, Climate Prediction Center.
| Storm Prediction Center | Director, Storm Prediction Center.
| Tropical Prediction Center | Director, Tropical Prediction Center/National Hurricane Center.
| Office of Assistant Administrator for Fisheries | Director, Office of Management and Budget.
| National Marine Fisheries Service | Director, Seafood Inspection Program.
|  | Senior Advisor for Intergovernmental Programs.
|  | Science and Research Director, Pacific Island Region.
|  | Deputy Assistant Administrator for Regulatory Programs.
|  | Director for Habitat Conservation.
|  | Science and Research Director, Southwest Region.
|  | Director, International Affairs.
|  | Director, Office of Sustainable Fisheries.
| Office of Fisheries Conservation and Management | Director, Office of Enforcement.
|  | Director, Scientific Programs and Chief Science Advisor.
| Office of Protected Resources | Director, Office of Science and Technology.
| Northeast Fisheries Science Center | Science and Research Director, Northeast Region.
| Southeast Fisheries Science Center | Science and Research Director, Southeast Region.
| Northwest Fisheries Science Center | Science and Research Director, Northwest Region.
| Alaska Fisheries Science Center | Science and Research Director.
| Office of Assistant Administrator Satellite, Data Information Service | Chief Financial Officer/Chief Administrative Officer.
|  | System Program Director for Goes-R Program.
|  | Senior Scientist for Environmental Satellite, Data and Information Services (National Environmental Satellite, Data and Information Services).
| Office of the Director, National Polar-Orbiting Operational Environmental Satellite System Integrated Program | Systems Program Director.
| National Climatic Data Center | Director, National Climatic Data Center.
| National Oceanographic Data Center | Director, National Oceanographic Data Center.
| National Geophysical Data Center | Director, National Geophysical Data Center.
| Office of Systems Development | Director, Satellite and Ground Systems Program.
|  | Director, Office of Systems Development.
|  | Director, Requirements, Planning and System Integration Division.
| Office of Assistant Administrator, Ocean and Atmospheric Research | Chief Financial Officer/Chief Administrative Officer.
|  | Program Director for Weather Research.
|  | Deputy Assistant Administrator for Extramural Research.
|  | Director, Climate Program Office.
|  | Deputy Assistant Administrator, Laboratories and Cooperative Institutes and Director.
| Office of Oceanic Research Programs | Director, Atlantic Oceanographic and Meteorological Laboratory.
| National Sea Grant College Program | Director, National Sea Grant College Program.
| Aeronomy Laboratory | Director, Chemical Science Division.
| Air Resources Laboratory | Director, Air Resources Laboratory.
| Atlantic Oceanographic and Meteorology Laboratory | Director, Atlantic Oceanographic and Meteorological Laboratory.
| Geophysical Fluid Dynamics Laboratory | Director, Office of Geophysical Fluid Dynamics Laboratory.
| Great Lakes Environmental Research Laboratory | Director, Office of Great Lakes Environmental Research Laboratory.
| Pacific Marine Environmental Research Laboratory | Director, Office of Pacific Marine Environmental Laboratory.
| Environmental Technology Laboratory | Director, Physical Science Division.
| Forecast Systems Laboratory | Director, Global Systems Division.
| Climate Monitoring and Diagnostics Laboratory | Director, Global Monitoring Division.
| National Telecommunications and Information Administration | Chief Financial Officer and Director of Administration.
| Institute for Telecommunication Sciences | Associate Administrator for Telecommunications Science.
| Institute for Telecommunication Sciences, Systems and Networks Division | Deputy Director for Systems and Networks.
| Patent and Trademark Office | Director of Trademark Information Resources.
|  | Administrator for Policy and External Affairs.
|  | Associate Commissioner for Patent Recourses and Planning.
|  | Deputy Commissioner for Trademark Operations.
| Office of the Administrator for External Affairs | Deputy Director for Intellectual Property Policy and Enforcement.
|  | Associate Director, Education and Training.
|  | Director, Intellectual Property Policy and Enforcement.
| Office of the General Counsel | Deputy General Counsel for Intellectual Property Law and Solicitor.
| Board of Patent Appeals and Interferences | Chief Administrative Patent Judge.
|  | Chief Administrative Patent Judge.
|  | Vice Chief Administrative Patent Judge.
| Trademark Trial and Appeal Board | Chairman, Trademark Trial and Appeal Board.
| Office of the Chief Financial Officer | Chief Financial Officer.
|  | Deputy Chief Financial Officer.
| Office of the Chief Administrative Officer | Director, Human Capital Management.
| Office of the Chief Information Officer | Chief Technology Officer.
| Office of the Commissioner for Patents | Deputy Commissioner for Patent Operations.
|  | Administrator, Search and Information Resources Administration.
|  | Deputy Director for the Office of Patent Training.
|  | Director, Office of Patent Training.
| Examining Group Directors | Group Director (33 positions).
| Office of the Commissioner for Trademarks | Deputy Commissioner for Trademark Operations.
|  | Deputy Commissioner for Trademark Examination Policy.
|  | Group Director, Trademark Law Offices (2 positions).
| National Institute of Standards and Technology | Program Manager, Coordinated National Security Standards Program.
|  | Chief Safety Officer.
|  | Executive Director for Business Services and Deputy Chief Financial Officer.
|  | Boulder Laboratories Site Manager.
|  | National Coordinator for Smart Grid Interoperability.
|  | Senior Advisor for Cloud Computing.
|  | Associate Director for Innovation and Industry Services.
|  | Associate Director for Management Resources.
|  | Associate Director for Laboratory Programs.
|  | Senior Advisor for Voting Standards.
|  | Director, Standards Coordination Office.
|  | Senior Information Technology Policy Advisor.
|  | Director, Smart Grid and Cyber-Physical Systems Program Office.
|  | Chief Human Capital Officer for National Institute of Standards and Technology.
|  | Director, Law Enforcement Standards Office.
|  | Special Assistant for International Metrology.
|  | Director, National Institute of Standards and Technology Center for Neutron Research.
|  | Director, Manufacturing Engineering Laboratory.
|  | Chief of Staff for National Institute of Standards and Technology.
|  | Deputy Director, National Institute of Standards and Technology Center for Neutron Research.
|  | Director, Center for Nanoscale Science and Technology.
|  | Deputy Director, Center for Nanoscale Science and Technology.
|  | Chief Cybersecurity Advisor.
|  | Director, Technology Innovation Program.
|  | Director, Impact Analysis Office.
|  | Chief Facilities Management Officer.
|  | Deputy Director, Building and Fire Research.
|  | Deputy Director, National Institute of Standards and Technology Center for Neutron Research.
|  | Director, Information Technology and Applications Office.
|  | Chief, Optical Technology Division.
| Office of the Director, National Institute of Standards and Technology | Chief Financial Officer for NIST.
|  | Chief Information Officer for National Institute of Standards and Technology.
|  | Director, Boulder Laboratories.
|  | Executive Director, Visiting Committee on Advanced Technology Program.
|  | Director for Administration and Chief Financial Officer.
|  | Deputy Director for Safety and Facilities.
| Baldrige Performance Excellence Program | Deputy Director, Office of Quality Programs.
|  | Director, Baldrige Performance Excellence Program.
| Program Office | Director, Program Office.
|  | Deputy Director, Information Technology Laboratory.
| Office of International and Academic Affairs | Director, International and Academic Affairs.
|  | Chief Financial Officer.
| Manufacturing Extension Partnership Program | Director, Manufacturing Extension Partnership Program.
|  | Deputy Director, Manufacturing Extension Partnership Program.
|  | Associate Director for National Programs.
| Director's Office, Technology Innovation | Director, Office of Technology Evaluation and Assessment.
| Director's Office, Advanced Technology Program | Director, Electronics and Photonics Technology Office.
|  | Director, Materials and Manufacturing Technology Office.
|  | Director, Information Technology Laboratory.
|  | Deputy Director, Advanced Technology Program.
|  | Associate Director for Policy and Operations.
| Electronics and Electrical Engineering Laboratory | Chief, Optoelectronics Division.
|  | Director, Office of Microelectronics Programs.
|  | Director, Electronics and Electrical Engineering Laboratory.
|  | Deputy Director for Measurement Services.
| Manufacturing Engineering Laboratory | Deputy Director for Manufacturing.
|  | Deputy Director, Manufacturing Engineering Laboratory.
|  | Chief, Office of Manufacturing Programs.
| Precision Engineering Division | Chief, Precision Engineering Division.
| Intelligent Systems Division | Chief, Intelligent Systems Division.
| Chemical Science and Technology Laboratory Office | Director, Material Measurement Laboratory.
|  | Chief, Process Measurements Division.
|  | Deputy Director, Chemical Scientist and Technology Laboratory.
| Physical and Chemical Properties Division | Chief, Physical and Chemical Properties Division.
| Analytical Chemistry Division | Chief, Analytical Chemistry Division.
| Physics Laboratory Office | Manager, Fundamental Constants Data Center.
|  | Director, Physical Measurement Laboratory.
|  | Deputy Director, Physics Laboratory.
| Electron and Optical Physics Division | Chief, Electron and Optical Physics Division.
| Atomic Physics Division | Chief, Atomic Physics Division.
|  | Chief, Quantum Metrology Division.
| Time and Frequency Division | Chief, Time and Frequency Division.
| Quantum Physics Division | Chief, Quantum Physics Division.
|  | Senior Scientist and Fellow of Joint Institute for Laboratory Astrophysics.
|  | Senior Scientist and Fellow of Joint Institute for Laboratory Astrophysics.
| Materials Science and Engineering Laboratory Office | Director, Materials Scientist and Engineering Laboratory.
| Ceramics Division | Chief, Ceramics Division.
| Materials Reliability Division | Chief, Materials Reliability Division.
| Reactor Radiation Division | Chief, National Institute of Standards and Technology Center for Neutron Research.
|  | Chief, Reactor Operations and Engineering.
| Building and Fire Research Laboratory | Chief, Fire Safety Engineering Division.
|  | Director, Engineering Laboratory.
|  | Chief, Fire Safety Engineering Division.
| Building Materials Division | Chief, Building Materials Division.
| Building Environment Division | Chief, Building Environment Division.
| Fire Science Division | Chief, Fire Science Division.
| Computer Systems Laboratory Office | Associate Director for Program Implementation.
| Advanced Network Technologies Division | Chief, Advanced Network Technologies Division.
| Computing and Applied Mathematics Laboratory Office | Associate Director for Computing.
|  | Chief, High Performance Systems and Services Division.
| National Technical Information Service | Deputy Director, National Technical Information Service.
| Office of the Assistant Director for Financial and Administrative Management | Associate Director for Finance and Administration.
| Information Technology Laboratory | Deputy Director, Information Technology Laboratory.
|  | Director, Information Technology Laboratory.
| Office of the Chief Financial Officer | Director, Office of Budget and Planning.
DEPARTMENT OF COMMERCE OFFICE OF THE INSPECTOR GENERAL | Office of the Inspector General | Deputy Inspector General.
| Office of Audit and Evaluation | Principal Assistant Inspector General for Audit and Evaluation.
| Office of Economic and Statistical Program Assessment | Assistant Inspector General for Economic and Statistical Program Assessment.
| Office of Systems Acquisitions and IT Security | Assistant Inspector General for Systems Acquisitions and IT Security.
| Office of Audit | Assistant Inspector General for Audit.
| Office of Program Assessment | Deputy Assistant Inspector General for Program Assessment.
| Office of Investigations | Assistant Inspector General for Investigations.
| Office of Counsel | Counsel to the Inspector General.
CONSUMER PRODUCT SAFETY COMMISSION | Office of Executive Director | Assistant Executive Director for Information and Tech Services.
|  | Director, Office of International Programs and Intergovernmental Affairs.
|  | Assistant Executive Director for Compliance and Administrative Litigation.
| Office of Hazard Identification and Reduction | Assistant Executive Director for Hazard Identification and Reduction.
|  | Associate Executive Director for Economic Analysis.
|  | Associate Executive Director for Epidemiology.
|  | Deputy Assistant Executive Director for Hazard Identification and Reduction.
|  | Associate Executive Director for Engineering Sciences.
COURT SERVICES AND OFFENDER SUPERVISION AGENCY FOR THE DISTRICT OF COLUMBIA | Office of the Associate Director | Associate Director for Special Criminal Justice Programs. Attorney (General Counsel).
|  | Associate Director of Human Resources.
|  | Director.
|  | Deputy Director.
|  | Associate Director, Legislative, Intergovernmental and Public Affairs.
|  | Associate Director for Research and Evaluation.
|  | Associate Director for Management and Administration.
|  | Chief Information Officer.
|  | Associate Director for Community Supervision.
|  | Associate Director for Community Justice Programs.
|  | Chief Financial Officer.
| Pretrial Services Agency | Director of Finance and Administration.
|  | Deputy Director.
|  | Director.
|  | Operations Director.
OFFICE OF THE SECRETARY OF DEFENSE | Office of the Secretary | Assistant to the Secretary of Defense for Intelligence Oversight.
| Office of the Under Secretary of Defense, Policy | Deputy Assistant Secretary of Defense (Defense Continuity and Crisis Management).
|  | Foreign Relations and Defense Policy Manager (3 positions).
| Office of Special Operations, Low Intensity Conflict and Interdependent Capabilities | Director, Resources Management Office.
| Office of Director, Operational Test and Evaluation | Deputy Director for Live Fire Test and Evaluation.
| Office of Inspector General | Assistant Inspector General for Investigative Policy and Oversight.
|  | Assistant Inspector General for Inspections and Evaluations.
|  | Deputy Director, Defense Criminal Investigative Service.
|  | Assistant Inspector General, Defense Financial Auditing Service.
|  | Principal Deputy Assistant Inspector General, Defense Financial Auditing Service.
|  | Assistant Inspector General, Office of Communications and Congressional Liaison.
|  | Principal Audit Inspector General for Auditing.
|  | General Counsel and Assistant Inspector General for the Office of Legal Counsel.
|  | Deputy Inspector General for Intelligence.
|  | Deputy Inspector General for Inspections and Policy and Oversight.
|  | Assistant Inspector General for Audit Policy and Oversight.
|  | Deputy Inspector General for Auditing.
|  | Assistant Inspector General for Administrative Investigations.
|  | Assistant Inspector General for Administration and Management.
|  | Director, Defense Criminal Investigative Service—Assistant Inspector General for Investigations.
|  | Assistant Inspector General for Readiness and Operations Support.
|  | Principal Deputy Inspector General.
|  | Deputy Inspector General for Investigations.
|  | Assistant Inspector General for Acquisition and Contract Management.
| Office of the Under Secretary of Defense, Personnel and Readiness | Chief of Staff.
| Office of the Assistant Secretary of Defense, Health Affairs | Regional Director, Tricare Regional Office—North.
|  | Deputy Chief, Tricare Acquisitions Directorate.
|  | General Counsel.
|  | Director, Information Management, Technology and Reengineering/Military Health System Chief Information Officer.
|  | Regional Director, Tricare Regional Office—South.
| Office of the Assistant Secretary of Defense, Reserve Affairs | Principal Director (Manpower and Personnel).
| Office of the Assistant Secretary of Defense, Public Affairs | Deputy Director, American Forces Information Service. Director, Armed Forces Radio and Television Service.
|  | Director, Defense Media Activity.
| Office of the Under Secretary of Defense (Comptroller) | Deputy Chief Financial Officer. Deputy Director for Operations.
|  | Deputy Director for Program and Financial Control.
|  | Assistant Deputy Chief Financial Officer.
|  | Director, Program and Financial Control.
| Washington Headquarters Services | Director, Human Resources Directorate.
|  | Director, Freedom of Information and Security Review.
|  | Director, Acquisition and Procurement Office.
|  | Director, Human Resources Directorate.
|  | Deputy Director, Human Resources Directorate.
|  | Deputy Director, Defense Facilities Directorate.
| Pentagon Force Protection Agency | Assistant Director, Law Enforcement.
|  | Principal Deputy Director, Pentagon Force Protection Agency.
|  | Director, Pentagon Force Protection Agency.
| Office of the General Counsel | Deputy General Counsel (Inspector General).
|  | Director, Office of Litigation.
|  | Director, Defense Office of Hearings and Appeals.
| Office of the Assistant Secretary (Networks and Information Integration) | Deputy Chief Information Officer (Information and Identity Assurance).
| Office of the Under Secretary of Defense (Acquisition, Technology, and Logistics) | Deputy Director, Enterprise Information and OSD Studies.
|  | Director, Pacific Armaments Cooperation.
|  | Director (Planning and Analysis).
|  | Director, Environmental Readiness and Safety.
|  | Director, Acquisition Resources and Analysis.
|  | Deputy Director, Resource Analysis.
|  | Principal Deputy, Acquisition Resources and Analysis.
|  | Director for Administration.
|  | Director, Defense Procurement and Acquisition Policy.
|  | Deputy Director, Enterprise Information and OSD Studies.
|  | Deputy Director, Acquisition Management.
|  | Director for Administration.
|  | Director, Treaty Compliance and Homeland Defense.
| Office of Acquisition and Technology | Deputy Director, Land Warfare and Munitions.
|  | Special Assistant, Concepts and Plans.
|  | Deputy Director, Treaty Compliance.
|  | Deputy Director, Program Acquisition and Contingency Contracting.
|  | Director, Defense Procurement and Acquisition Policy.
|  | Deputy Director, Acquisition Management.
|  | Assistant Director, Land Systems.
|  | Deputy Director, Contract Policy and International Contracting.
|  | Deputy Director, Acquisition Workforce and Career Management.
|  | Deputy Director, Naval Warfare.
|  | Deputy Director for Cost, Price and Finance.
|  | Assistant Deputy Under Secretary of Defense (Acquisition Process and Policies).
|  | Deputy Director, Strategic Sourcing.
|  | Deputy Director, Air Warfare.
|  | Deputy Director, Assessments and Support.
|  | Deputy Director, Developmental Test and Evaluation.
|  | Deputy Director, Defense Acquisition Regulations System.
|  | Technical Director, Force Development.
| Office of the Assistant to the Secretary of Defense for Nuclear and Chemical and Biological Defense Programs | Deputy Assistant to the Secretary of Defense (Nuclear Matters).
| Office of the Director of Defense Research and Engineering | Director, Human Performance, Training and Biosystems.
|  | Assistant Deputy Under Secretary of Defense (Full Dimensional Protection).
|  | Director for Weapons Systems.
|  | Director, Space and Sensor Technology.
|  | Director for Information Technology.
|  | Director, Plans and Programs.
|  | Principal Deputy Director, Defense Research and Engineering/Director, Plans and Programs.
|  | Director for Science and Technology Plans and Programs.
| Defense Advanced Research Projects Agency | Director, Advanced Technology Office.
|  | Deputy Director, Defense Advanced Research Project Agency.
|  | Director, Support Services Office.
|  | Director, Contracts Management Office.
|  | Deputy Director, Defense Advanced Research Projects Agency/Director, Defense Science Office.
|  | Director, Information Processing Technology Office.
|  | Deputy Director, Tactical Technology Office.
|  | Joint Applications Study Group Program Manager.
|  | Deputy Director, Advanced Technology Office.
|  | Director, Special Projects Office.
| Office of the Joint Chiefs of Staff | Vice Assistant Deputy Director, Joint Development.
|  | Assistant Deputy Director, Synchronization and Integration.
|  | Vice Deputy Director for Joint and Coalition Warfighting.
|  | Executive Director, Force Generation.
|  | Assistant Deputy Director for Command and Control.
| Missile Defense Agency | Program Director for Battle Management, Command and Control.
|  | Program Director, Ground-Based Midcourse Defense.
|  | Chief Engineer, Ground-Based Midcourse Defense.
|  | Program Director, Ground Missile Defense.
|  | Director for Advanced Technology.
|  | Program Director, Multiple Kill Vehicle.
|  | Executive Director.
|  | Deputy for Acquisition Management.
|  | Deputy for Engineering.
|  | Director for Systems Engineering and Integration.
|  | Program Director, Targets and Countermeasures.
|  | Director, Contracting.
|  | Deputy Program Director for Battle Management, Command and Control.
|  | Deputy Director, Joint National Integration Center.
|  | Deputy Program Director, BC.
|  | Deputy Program Manager for Assessment and Integration, Ballistic Missile Defense System.
| Defense Contract Audit Agency | Deputy Director, Defense Contract Audit Agency.
|  | Special Assistant.
|  | Assistant Director, Policy and Plans.
|  | Assistant Director, Operations.
|  | Director, Field Detachment.
|  | Deputy Regional Director, Western Region.
|  | Director, Defense Contract Audit Agency.
| Regional Managers | Regional Director, Mid-Atlantic.
|  | Deputy Regional Director, Mid-Atlantic Region.
|  | Deputy Regional Director, Eastern Region.
|  | Deputy Regional Director, Northeastern Region.
|  | Regional Director, Eastern.
|  | Assistant Director, Integrity and Quality Control.
|  | Regional Director, Western.
|  | Regional Director, Central.
|  | Regional Director, Northeastern.
|  | Deputy Regional Director, Central Region.
| Defense Logistics Agency | Deputy Director, Acquisition Management.
|  | Vice Director, Defense Logistics Agency.
|  | Executive Director, Enterprise Solutions.
|  | Deputy Director, Defense Energy Support Center.
|  | Director, Defense Reutilization and Marketing Services.
|  | Deputy Director, Customer Operations and Readiness.
|  | Executive Director, BRAC Implementation.
|  | Deputy Commander, Defense Supply Center, Columbus.
|  | Deputy Commander, Defense Supply Center, Richmond.
|  | Deputy Commander, Defense Supply Center, Philadelphia.
|  | Deputy General Counsel (Administration).
|  | Deputy Commander, Defense Distribution Center.
|  | Chief Financial Officer.
|  | Executive Director, Aviation Contracting and Acquisition Management.
|  | Director, Defense Logistics Agency Accountability Office.
|  | Director, Information Operations/Chief Technical Officer.
|  | Executive Director, Human Resources.
|  | General Counsel.
|  | Deputy Director, Information Operations/Chief Technical Officer.
|  | Principal Deputy Comptroller.
|  | Program Executive Officer.
|  | Executive Director, Material Policy, Process and Assessment.
|  | Deputy Director, Logistics Operations and Readiness.
|  | Director, Defense Energy Support Center.
| Defense Human Resources Activity | Chief Actuary. Director, Civilian Personnel Management Service.
|  | Deputy Director, Defense Manpower Data Center.
|  | Director, Defense Manpower Data Center.
|  | Deputy Director for Advisory Services, Defense Human Resources Activity.
| Defense Contract Management Agency | Director, Defense Contract Management Agency West.
|  | Director, Defense Contract Management Agency East.
|  | Deputy Director, Defense Contract Management Agency District Boston.
|  | Director, Defense Contract Management Agency District Los Angeles.
|  | Executive Director, Financial and Business Operations and Comptroller.
|  | Director, Defense Contract Management Agency.
|  | Executive Director, Naval Sea Systems Division, Boston.
|  | Executive Director, Ground Systems and Munitions Division.
|  | Deputy Director, Defense Contract Management Agency.
|  | Deputy Executive Director, Contract Management Operations.
|  | Executive Director, Contract Management Operations.
|  | Chief Information Officer.
|  | Executive Director, Program Support and Customer Relations.
|  | Defense Acquisition Regulations Counsel.
|  | General Counsel.
| Defense Information Systems Agency | Chief Financial Executive/Comptroller.
|  | Director for Strategic Planning and Information.
|  | Inspector General.
|  | Congressional Liaison Officer.
|  | Professor of Information Science.
|  | Chief Engineer, Information Systems Security.
|  | Chief Executive for Information Technology.
|  | Principal Director for Network Services.
|  | Deputy Chief Financial Executive/Comptroller.
|  | Chief Technology Officer.
|  | Director for Manpower, Personnel and Security.
|  | Chief, Center for Network Services.
|  | Director, Enterprise Engineering.
|  | Chief Information Officer.
|  | Vice Principal Director, Operations.
|  | Deputy Director, Net Centric Enterprise Services.
|  | Vice Director for Computing Services.
|  | Vice Chief Information Officer.
|  | Director for Network Services.
|  | Principal Director, Operations Director.
|  | Test and Evaluation Executive.
|  | Component Acquisition Executive.
|  | BRAC Transition Executive.
|  | Program Executive Officer, Satcom, Teleport and Services.
|  | Director for Procurement and Chief, Defense Information Technology Contracting Organization.
|  | Program Executive Officer, Information Assurance Networks Operations.
|  | Program Executive Officer, Communication.
|  | Vice Director for Network Services.
|  | Vice Director for Procurement and Vice Chief Defense Information Technology Contracting Office.
|  | Vice Component Acquisition Executive.
|  | Principal Director for Computing Services.
|  | Chief, Corporate Planning and Mission Integration.
| Defense Threat Reduction Agency | Associate Director, Business Enterprise.
|  | Director, On-Site Inspections Directorate.
|  | Deputy Associate Director, Business Enterprise.
|  | Associate Director, Operations Enterprise.
|  | Director, Counter Weapons of Mass Destruction Technologies.
|  | Director, System Applications Division.
|  | Director, Chemical-Biological Defense Technologies Directorate.
|  | Director, Nuclear Technologies Directorate.
|  | Chief, Operational Applications Division.
|  | Deputy Director, Operations Directorate.
|  | Director for Electronics and Systems.
|  | Chief, Simulation and Test Division.
|  | Director, Counter proliferation Support and Operations.
| Defense Security Cooperation Agency | Chief Information Officer/Principal Director for Information Technology.
|  | Principal Director for Strategy.
DEPARTMENT OF THE AIR FORCE | Office of the Secretary | Liaison to the Department of the Interior.
|  | Director of Communications and Information.
|  | Director, Installations, Logistics and Mission Support.
|  | Director of Staff, Legislative Liaison.
|  | Director, Air Force Rapid Capabilities Office.
|  | Deputy and Technical Director, Rapid Capabilities Office.
| Office of the Under Secretary | Deputy Under Secretary of the Air Force (Space Programs).
| Deputy Under Secretary (International Affairs) | Director, Strategy, Operations, and Resources.
|  | Deputy Under Secretary (International Affairs).
|  | Director of Policy, International Affairs.
| Office of Administrative Assistant to the Secretary | Administrative Assistant. Director, Headquarters Air Force Information Management.
|  | Deputy Administrative Assistant.
| Office of Small and Disadvantaged Business Utilization | Director, Office of Small and Disadvantaged Business Utilization.
| Office of Public Affairs | Deputy Director, Public Affairs.
| Office of the Auditor General | Auditor General of the Air Force.
|  | Assistant Auditor General, Field Offices Directorate.
| Air Force Audit Agency (Field Operating Agency) | Assistant Auditor General (Acquisition and Logistics Audits).
|  | Assistant Auditor General (Financial and Systems Audits).
|  | Assistant Auditor General (Support and Personnel Audits).
| Air Force Office of Special Investigations (Field Operating Agency) | Executive Director. Executive Director, Defense Cyber Crime Center (Defense Cyber Crime Center).
| Office of the General Counsel | Deputy General Counsel (Installations and Environmental Law).
|  | Deputy General Counsel (International Affairs).
|  | Deputy General Counsel (Acquisition).
| Office of Assistant Secretary of the Air Force for Financial Management and Comptroller | Chief Information Officer.
| Office of the Deputy Assistant Secretary for Budget | Assistant Deputy Comptroller, Budget. Director, Budget Investment. Director, Budget Management and Execution.
| Office of the Deputy Assistant Secretary (Cost and Economics) | Deputy Assistant Secretary (Cost and Economics). Associate Deputy Assistant Secretary (Cost and Economics).
| Office of the Deputy Assistant Secretary (Financial Operations) | Deputy Assistant Secretary, Plans, Systems and Analysis.
|  | Associate Deputy Assistant Secretary, Financial Operations and Technology.
| Office of the Assistant Secretary of the Air Force for Acquisition | Associate Deputy Assistant Secretary, Contracting. Deputy Assistant Secretary, Science, Technology and Engineering.
|  | Deputy Assistant Secretary, Management Policy and Program Integration.
|  | Program Executive Officer for Space Launch.
|  | Director of Contracting (Special Access Programs).
|  | Deputy Air Force Program Executive Officer (Combat and Mission Support).
|  | Director, Information Dominance Programs.
|  | Associate Deputy Assistant Secretary, Acquisition Integration.
| Office of the Deputy Assistant Secretary (Contracting) | Associate Deputy Assistant Secretary, Contracting.
| Directorate of Space and Nuclear Deterrence | Associate Director, Nuclear Weapons and Counter proliferation.
|  | Deputy Assistant Chief of Staff, Strategic Deterrence and Nuclear Integration.
| Office of the Assistant Secretary of the Air Force for Manpower and Reserve Affairs | Chief Financial Officer, Air Force Review Board Agency.
| Air Force Review Boards Agency (Air Force Review Boards Agency)—Field Operating Agency | Deputy for Air Force Review Boards.
| Office of the Assistant Secretary of the Air Force, Installations, Environment, and Logistics | Deputy Assistant Secretary, Energy. Deputy Assistant Secretary, Logistics.
| Air Force Base Conversion Agency (Field Operating Agency) | Director, Air Force Real Property Agency.
| Office of the Deputy Assistant Secretary (Installations) | Deputy Assistant Secretary, Installations.
| Office of the Chief of Staff | Deputy Director of Staff.
|  | Director, Quadrennial Defense Review Organization.
|  | Director, Air Force History and Museums Policy and Programs.
| Air Force Office of Safety and Air Force Safety Center (Field Operating Agency) | Deputy Chief of Safety.
| Judge Advocate General | Director, Administrative Law.
| Test and Evaluation | Deputy Director, Test and Evaluation.
|  | Director, Test and Evaluation.
| Air Force Studies and Analyses Agency (Direct Reporting Unit (DRU)) | Principal Deputy Director, Studies and Analyses, Assessments and Lessons Learned.
|  | Director, Air Force Studies and Analyses, Assessments and Lessons Learned.
| Deputy Chief of Staff, Warfighting Integration | Director, Architecture and Operational Support Modernization.
|  | Assistant Deputy Chief of Staff for Warfighting Integration.
|  | Deputy Director, Information Services and Integration.
| Deputy Chief of Staff, Installations and Logistics | Director, Global Combat Support. Deputy Director, Security Forces. Assistant Deputy Chief of Staff, Installation and Logistics.
| Office of the Civil Engineer | Deputy Civil Engineer.
| Office of the Civil Engineer for Maintenance | Deputy Director of Logistics.
| Office of the Civil Engineer for Logistics Readiness | Associate Deputy Director of Logistics.
| Office of the Civil Engineer for Resources | Deputy Director of Resources. Chief, Weapon Systems Sustainment Division.
| Office of the Civil Engineer for Innovation and Transformation | Director, Innovation and Transformation.
| Air Force Center for Environmental Excellence (Field Operating Agency) | Director of the Air Force Center for Engineering and the Environment.
| Deputy Chief of Staff, Plans and Programs | Assistant Deputy Chief of Staff, Strategic Plans and Programs.
|  | Deputy Director of Strategic Planning.
|  | Associate Director, Programs.
| Deputy Chief of Staff, Personnel | Director of Services. Director, Airman Development and Sustainment.
|  | Deputy Director, Force Management Policy.
|  | Assistant Deputy Chief of Staff for Personnel.
|  | Director, Plans and Integration.
|  | Director, Air Force Culture, Region and Language Program Office.
|  | Deputy Director, Air Force Manpower, Organization and Resources.
|  | Deputy Director, Airman Development and Sustainment.
|  | Deputy Director of Services.
| Air Force Personnel Center (Field Operating Agency) | Director, Civilian Force Integration. Executive Director, Air Force Personnel Center.
| Office of the Deputy Chief of Staff, Air and Space Operations | Deputy Director, Operational Planning, Policy and Strategy.
|  | Deputy Director of Operational Planning, Policy and Strategy.
|  | Deputy for Operations.
|  | Director, Irregular Warfare.
|  | Director of Weather.
|  | Associate Deputy Chief of Staff for Operations, Plans and Requirements.
| Office of the Deputy Chief of Staff for Intelligence, Surveillance and Reconnaissance | Director of Intelligence, Surveillance, Reconnaissance, Innovations and Unmanned Aerial Systems Task Force.
| Air Force Operational Test and Evaluation Center (Direct Reporting Unit) | Executive Director, Air Force Operational Test and Evaluation Center.
| Air Force Materiel Command | Director, Manpower, Personnel and Services.
|  | Director, National Museum of the United States Air Force.
|  | Director, Communications, Installations and Mission Support.
|  | Executive Director, AFNWC.
|  | Executive Director, Air Force Materiel Command.
|  | Program Executive Officer, Cyber-Metacentric Programs.
|  | Director of Engineering, ASC.
|  | Director, Enterprise Sourcing Group.
|  | Deputy Director, Manpower, Personnel and Services.
|  | Executive Director, AFGLSC.
| Office of the Director of Engineering, Contracting | Director, Contracting, Air Force Materiel Command.
| Office of the Director for Logistics | Deputy Director for Logistics, Air Force Materiel Command.
| Office of Engineering and Technical Management | Director, Engineering and Technical Management, Air Force Materiel Command.
| Office of Financial Management and Comptroller | Deputy Director, Financial Management and Comptroller, Air Force Materiel Command.
| Officer of Requirements | Deputy Director, Intelligence, Surveillance, Reconnaissance and Requirements.
| Operations Directorate | Deputy Director, Air, Space and Information Operations.
| Staff Judge Advocate | Principal Deputy Staff Judge Advocate.
| Air Force Materiel Command Law Office | Director, Air Force Materiel Command Law Office.
| Air Force Office of Scientific Research | Director, Air Force Office of Scientific Research.
|  | Deputy Director, Transformational Communications and Chief Technical Adviser.
|  | Director of Physics and Electronics Sciences.
| Electronic Systems Center | Program Executive Officer, C2ISR.
|  | Executive Director, Electronic Systems Center.
|  | Director, Contracting, Electronic Systems Center.
|  | Director, Engineering and Technical Management, Electronic Systems Center.
| Aeronautical Systems Center | Director Financial Management and Comptroller, Aeronautical Systems Center.
|  | Program Executive Officer, Mobility Aircraft.
|  | Program Executive Officer for Agile Combat Support.
|  | Director of Engineering, Joint Strike Fighter.
|  | Executive Director, Aeronautical Systems Center.
|  | Director, Contracting, Aeronautical Systems Center.
| Engineering Directorate | Director, Engineering, Aeronautical Systems Center.
| Air Force Research Laboratory | Director, Plans and Programs, Air Force Research Laboratory.
|  | Executive Director, Air Force Research Laboratory.
|  | Director, Human Performance Wing.
| Air Vehicles Directorate | Associate Director for Air Platforms.
| Air Force Research Laboratory- Munitions Directorate | Director, Munitions, AAC.
| Space Vehicles Directorate | Associate Director for Space Technology.
| Information Directorate | Director, Information.
| Directed Energy Directorate | Director, Directed Energy.
| Materials and Manufacturing Directorate | Director, Materials and Manufacturing.
| Sensors Directorate | Director, Sensors.
| Human Effectiveness Directorate | Director, Human Effectiveness Directorate.
| Air Force Flight Test Center | Executive Director, Air Force Flight Test Center.
| Air Logistics Center, Oklahoma City | Executive Director, Oklahoma City Air Logistics Center.
|  | Director, Contracting, OC-ALC.
|  | Director, Engineering and Technical Management, OC-ALC.
|  | Director, 448th Combat Sustainment Wing.
|  | Executive Director.
|  | Deputy Director, 76th Maintenance Wing.
| Air Logistics Center, Warner Robins | Deputy Director, 402nd Maintenance Wing.
|  | Director, Contracting, Air Logistics Center, Warner Robins.
|  | Executive Director, Air Logistics Center, Warner Robins.
| Air Logistics Center, Ogden | Director Contracting, Oo-ALC.
|  | Deputy Director, 309th Maintenance Wing.
|  | Director, Engineering and Technical Management, Oo-ALC.
|  | Executive Director, Oo-ALC.
| Air Armament Center | Director, Armament Systems Wing.
|  | Executive Director, Air Logistics Center.
| Air Combat Command | Deputy Director of Logistics, Air Logistics Center.
|  | Director, Air Force Global Cyberspace Integration Center.
|  | Director, Acquisition Management and Integration Center.
| Air Mobility Command | Deputy Director, Installations, Mission Support and Air Mobility Command.
|  | Deputy Director of Logistics, Air Mobility Command.
| Air Education and Training Command | Director, Center for Systems Engineering.
|  | Director, International Training and Education.
|  | Director, Logistics, Installations, Mission Support, Air Education and Training Command.
| Air Force Reserve Command | Air Commander, 22nd Air Force.
|  | Director of Staff.
|  | Air Commander, 4th Air Force.
|  | Director, Plans.
| United States Central Command | Director of Resources, Requirements, Budget and Assessment.
|  | Deputy Director, Logistics and Engineering, Uscentcom.
|  | Deputy Director of Operations Interagency Action Group (IAG).
| Air Force Space Command | Director, Space Protection Program Office.
|  | Director of Installations and Logistics, Air Force Space Command.
| United States Special Operations Command | Director, Financial Management and Comptroller, United States Special Operations Command.
|  | Deputy Director, Center for Special Operations Acquisition and Logistics.
|  | Director of Acquisition, United States Special Operations Command.
|  | Director, Interagency Task Force, United States Special Operations Command.
|  | Director, Plans, Policy and Strategy, United States Special Operations Command.
|  | Director and Chief Information Officer for Special Operations Networks and Communications Center.
| Air Force Special Operations Command | Director of Financial Management and Comptroller, Air Force Special Operations Command.
| Space and Missile Systems Center | Director, Milsatcom Systems Wing.
|  | Deputy Director and Chief Technical Advisor.
| United States Strategic Command | Director, Capability and Resource Integration.
|  | Deputy Director, Plans and Policy, United States Strategic Command.
|  | Director, Command, Control, Command Computer Systems.
|  | Director, Joint Exercises and Training, United States Strategic Command.
|  | Associate Director, Capability and Resource Integration.
|  | Director, Global Innovation Strategy Center.
|  | Special Command Advisor, Information Assurance and Cyber Security.
| United States Transportation Command | Deputy Director, Strategies and Policy, United States Transportation Command.
|  | Deputy Director of Command, Control Communications and Computer Systems.
|  | Director, Program Analysis and Financial Management.
|  | Director, Acquisition.
| Joint Staff | President, Joint Special Operations University.
| United States Northern Command | Domestic Policy Advisor. Director, Programs and Resources, United States Northern Command.
|  | Director, Interagency Coordination, United States Northern Command.
|  | Deputy Commander, Joint Forces Headquarters—National Capital Region.
|  | Director, Joint Exercises and Training, United States Northern Command.
DEPARTMENT OF THE ARMY | Office of the Secretary | Deputy Joint Program Executive Officer for Chemical and Biological Defense.
|  | Deputy G-5/7 for Operations and Plans.
|  | Director for Forces, Resources and Assessments (J8).
|  | Director of Resource Integration.
|  | Director for Partnering.
|  | Deputy Program Executive Officer, Intelligence, Electronic Warfare and Sensors.
|  | Director, Capability Development Integration Directorate (CDID).
|  | Deputy to the Commanding General, ARNORTH.
|  | Assistant Deputy Chief of Staff, G-6.
|  | Director, Soldier and Family Legal Services.
|  | Deputy to the Commanding General of the Family, Morale, Welfare and Recreation Command.
|  | Deputy Director of Operations, J3.
|  | Executive Director, U.S. Army Information Technology Agency.
|  | Deputy Program Executive Officer, Enterprise Information Systems.
|  | Executive Director, U.S. Army Headquarters Services.
|  | Deputy Program Executive Officer (Simulation, Training and Instrumentation).
|  | Superintendent, Arlington National Cemetery.
|  | Deputy Director for Partnership Strategy.
|  | Executive Director of the Army National Cemeteries Program.
|  | Director, Human Capital Strategy/Deputy to Deputy Under Secretary of the Army.
|  | Director, Test and Evaluation Office.
| Office of the Under Secretary | Special Assistant to the Under Secretary of the Army.
|  | Director, Business Assessment Directorate.
|  | Director, Business Transformation Directorate.
|  | Deputy Chief Management Officer.
| Office of the Deputy Under Secretary of the Army, Operations Research | Director, Civilian Senior Leader Management Office.
| Office of the Administrative Assistant to the Secretary of the Army | Administrative Assistant to the Secretary of the Army. Deputy Administrative Assistant to the Secretary of the Army/Director for Shared Services.
|  | Executive Director, U.S. Army Resources and Program Agency.
| Office of the General Counsel | Deputy General Counsel, Ethics and Fiscal.
| Office of the Assistant Secretary of the Army, Civil Works | Deputy Assistant Secretary of the Army, Management and Budget.
| Office of the Assistant Secretary of the Army, Financial Management and Comptroller | Director of Investment. Deputy Assistant Secretary of the Army, Financial Operations.
|  | Director for Business Resources.
|  | Deputy Assistant Secretary of the Army, Cost and Economics.
|  | Director of Operations and Support.
|  | Director, Programs and Strategy.
|  | Deputy Director and Senior Advisor for Army Budget (DDSA (Budget)).
|  | Director for Accountability and Audit Readiness.
|  | Director of Management and Control.
|  | Director, Financial Information Management.
|  | Director, Programs and Strategy, Advisory.
| Office of the Assistant Secretary of the Army, Installations and Environment | Deputy Assistant Secretary of the Army (Strategic Infrastructure).
| Office of the Assistant Secretary Army, Manpower and Reserve Affairs | Deputy Assistant Secretary of the Army, Equal Employment Opportunity and Civil Rights.
|  | Deputy Assistant Secretary of the Army, Diversity and Leadership.
|  | Director, Strategic Initiatives Group.
|  | Deputy Assistant Secretary of the Army, Civilian Personnel/Quality of Life.
|  | Deputy Assistant Secretary of the Army, Military Personnel.
|  | Director, Reserve Affairs Integration Office.
|  | Deputy Assistant Secretary of the Army, Army Review Boards Agency.
| Office of the Assistant Secretary of the Army, Acquisition, Logistics and Technology | Deputy Program Executive Officer, Ground Combat Systems. Director, Army Contracting Agency.
|  | Deputy Assistant Secretary of the Army for Services.
|  | Deputy Program Manager (Platform) Program Manager, Future Combat System (Brigade Combat Team).
|  | Special Assistant to the Assistant Secretary of the Army, Acquisition, Logistics and Technology.
|  | Deputy Program Executive Officer, Missiles and Space (Fires).
|  | Director of Systems Engineering.
|  | Deputy Assistant Secretary of the Army for Integrated Logistics Support.
|  | Deputy Assistant Secretary of the Army, Elimination of Chemical Weapons.
|  | Deputy Assistant Secretary for Research and Technology/Chief Scientist.
|  | Deputy Assistant Secretary of the Army, Policy and Procurement.
|  | Deputy Assistant Secretary of the Army for Plans, Programs and Resources.
|  | Director for Research and Laboratory Management.
|  | Director for Technology.
|  | Program Executive Officer, Ground Combat Systems.
| Army Acquisition Executive | Deputy Program Executive Officer, Command Control and Communications Tactical.
|  | Program Executive Officer, Enterprise Information Systems.
|  | Deputy Program Executive Officer, Ammunition.
|  | Deputy Program Executive Officer for Soldier.
|  | Program Executive Officer for Simulation, Training and Instrumentation.
|  | Program Executive Officer, Aviation.
|  | Director, Combined Test Organization, Program Manager, Future Combat System (Brigade Combat Team).
|  | Deputy Joint Program Executive Officer, Joint Tactical Radio System.
|  | Deputy Program Executive Officer, Combat Support and Combat Service Support.
|  | Program Executive Officer, Ammunition.
| Army Contracting Agency | Deputy Director, Army Contracting Command.
|  | Director, Southern Region, United States Army Contracting Agency.
|  | Director, Information Technology, Electronic Commerce and Contracting Center.
|  | Director, Northern Region, United States Army Contracting Agency.
| Office of the Inspector General | Principal Director for Inspections.
| Chief Information Officer/G-6 | Director for Army Architecture Integration Cell.
|  | Director, Governance, Acquisition/Chief Knowledge Officer.
|  | Deputy Chief Information Officer/G-6.
| Office of the Chief of Public Affairs | Principal Deputy Chief of Public Affairs/Director, Soldiers Media Center.
| Army Audit Agency | Deputy Auditor General, Forces and Financial Audits.
|  | Deputy Auditor General, Financial Management Audits.
|  | Deputy Auditor General, Policy and Operations Management.
|  | Deputy Auditor General, Acquisition and Logistics Audits.
|  | Principal Deputy Auditor General.
|  | Auditor General, U.S. Army.
|  | Deputy Auditor General, Manpower and Training Audits.
| Office of the Chief of Staff | Director, Enterprise Systems Technology Activity.
| U.S. Army Test and Evaluation Command | Executive Director, Operational Test Command.
|  | Director of Test Management, Developmental Test Command.
|  | Director, Army Evaluation Center.
|  | Executive Director, White Sands.
| Office of the Chief Army Reserve | Assistant Chief of the Army Reserve.
|  | Director of Resource Management.
| Office of the Assistant Chief of Staff for Installation Management | Deputy Assistant Chief of Staff for Installation Management.
|  | Director, Installation Services.
|  | Director of Logistics.
|  | Regional Director (West).
|  | Executive Director/Director of Services.
|  | Chief Information Technology Officer (OACSLIM/LMCOM).
|  | Regional Director (Northeast).
|  | Regional Director (Europe).
|  | Regional Director (Pacific).
|  | Regional Director (Southeast).
| Office of the Deputy Chief of Staff, G-4 | Director for Maintenance Policy, Programs and Processes.
|  | Director, Logistics Innovation Agency.
|  | Director for Supply Policy, Programs and Processes.
|  | Director, Force Projection and Distribution.
|  | Assistant Deputy Chief of Staff, G-4.
| Office of the Deputy Chief of Staff, G-8 | Assistant Deputy Chief of Staff, G-8.
|  | Director of Modernization.
| Office of the Deputy Chief of Staff, G-3 | Deputy Director for Force Management.
|  | Assistant Deputy Chief of Staff for Operations.
|  | Technical Advisor to the Deputy Chief of Staff, G-3.
|  | Director, Army Model and Simulation Office.
|  | Deputy Director for Plans and Policy.
| Office of the Deputy Chief of Staff, G-1 | Assistant Deputy Chief of Staff, G-1.
|  | Deputy Assistant G-1, Civilian Personnel Policy.
|  | Director, Military Human Resources Integration.
|  | Director, United States Army Research Institute and Chief Psychologist.
|  | Assistant Deputy Chief of Staff, G-1, Advisory.
|  | Director, MANPRINT Directorate.
|  | Director of Plans, Resources and Operations.
|  | Assistant G-1, Civilian Personnel Policy.
| Office of the Surgeon General | Chief of Staff, Health System Admin.
| United States Army Medical Research and Materiel Command | Principal Assistant for Research and Technology. Principal Assistant for Acquisition.
| United States Army Medical Department Center and School | Deputy to the Commanding General.
| United States Army Space and Missile Defense Command | Director, Space and Cyberspace Technology. Principal Assistant Responsible for Contracting.
|  | Chief Technology Officer.
|  | Director, Technology Integration and Interoperability for Space and Missile Defense.
|  | Director, Advanced Technology Directorate.
|  | Director, Space and Missile Defense Battle Laboratory.
|  | Deputy to the Commander, Research, Development and Acquisition.
| United States Army Training and Doctrine Command (TRADOC) | Deputy to the Commanding General, Combined Arms Support Command.
|  | Deputy to the Commanding General Fires/Director, Capabilities, Development and Integration.
|  | Deputy Chief of Staff G-1/4, Personnel and Logistics.
|  | Assistant Deputy Chief of Staff for Combat Development.
|  | Assistant Deputy Chief of Staff G-3/5/7, TRADOC/RADOC/DEP G-3 for Training.
|  | President, Army Civilian University.
|  | Director, Capabilities Development and Integration.
|  | Deputy to the Commanding General, Signal Center of Excellence.
|  | Deputy to the Commanding General, Combined Arms Center.
| United States Army Training and Doctrine Command Analysis Center | Director of Operations. Director.
|  | Director of Operations.
| Military Surface Deployment Distribution Command | Executive Director, Transportation Engineering Agency/Director Joint Distribution Process Analysis Center.
|  | Deputy to the Commander, Surface Deployment and Distribution Command.
| United States Army Forces Command | Deputy Chief of Staff for Resource Management.
|  | Assistant Deputy Chief of Staff for Logistics and Readiness.
|  | Chief Executive Officer.
|  | Assistant Deputy Chief of Staff, G1.
|  | Assistant Deputy Chief of Staff G-3/5/7.
| United States Army Network Enterprise Technology Command/9th Army Signal Command | Deputy for Cyber Operations/Director of Operations. Deputy to Commander/Senior Technical Director/Chief Engineer.
| United States Army Corps of Engineers | Division Programs Director.
|  | Division Programs Director.
|  | Director, Real Estate.
|  | Director of Corporate Information.
|  | Regional Business Director.
|  | Director of Contracting.
|  | Director, Research and Development and Director, Engineering Research and Development Center.
|  | Director, Information Technology Laboratory.
|  | Division Programs Director.
|  | Division Programs Director.
|  | Director of Human Resources.
|  | Chief Military Programs Integration Division.
|  | Division Programs Director.
|  | Division Programs Director, Transatlantic Division.
|  | Regional Business Director, Mississippi Valley Division.
|  | Director of Resource Management.
|  | Director, Task Force Hope.
| Directorate of Research and Development | Deputy Director.
| Directorate of Civil Works | Chief, Planning and Policy Division/Community of Practice.
|  | Director of Civil Works.
|  | Chief, Engineering and Construction Community of Practice.
|  | Chief, Programs Management Division.
|  | Chief, Operations Division and Regulatory Community of Practice.
| Directorate of Military Programs | Chief, Interagency and International Services Division.
|  | Chief, Installation Support Division.
|  | Chief, Environmental Community of Practice.
|  | Director of Military Programs.
| Directors of Programs Management | Division Programs Director (3 positions).
| Directors of Engineering and Technical Services | Regional Business Director. (5 positions).
| Engineer Research and Development Center | Director, Environmental Laboratory.
|  | Deputy Director, Engineer Research and Development Center.
|  | Director, Coastal and Hydraulics Laboratory.
|  | Director, Geotechnical and Structures Laboratory.
| Engineer Topographic Laboratories, Center of Engineers | Director, Army Geospatial Center.
| Construction Engineering Research Laboratory Champaign, Illinois | Director, Construction Engineering Research Laboratories.
| Cold Regions Research and Engineering Laboratory Hanover, New Hampshire | Director, Cold Regions Research and Engineering Laboratory.
| United States Army Materiel Command | Deputy to the Commander, United States Army Expeditionary Contracting Command.
|  | Director, Communications-Electronics Life Cycle Management Command Logistics and Readiness Center.
|  | Executive Director, Munitions Engineering Technology Center, ARDEC.
|  | Deputy Chief of Staff for Business Transformation, G-7.
|  | Executive Director, Weapons and Software Engineer Center.
|  | Deputy G-3 for Current Operations.
|  | Director, Chemical Materials Agency.
|  | Director for Contracting.
|  | Deputy Chief of Staff for Corporate Information/Chief Information Officer.
|  | Deputy to the Commander/Deputy Director, Mission and Installation Command.
|  | Deputy to the Commanding General/Director, Logistics and Readiness Center.
|  | Assistant Deputy Chief of Staff, G-4 for Support Operations.
| Office of the Deputy Chief of Staff for Logistics and Operations | Principal Deputy G-3 for Operations/Executive Deputy, Supply Chain and Industrial Operations.
|  | Deputy G-3 for Enterprise Integration.
|  | Deputy Chief of Staff G-5 for Strategy and Concepts.
| Office of the Deputy Commanding General | Executive Deputy to the Commanding General.
| Office of the Deputy Chief of Staff for Personnel | Deputy Chief of Staff for Personnel.
| Office of the Deputy Chief of Staff for Resource Management | Assistant Deputy Chief of Staff for Resource Management, G-8/Executive Director for Business.
|  | Deputy Chief of Staff for Resource Management.
| United States Army Security Assistance Command | Deputy United States Army Security Assistance Command.
| United States Army Sustainment Command | Executive Director for Ammunition.
|  | Executive Director for LOGCAP.
|  | Executive Director for Field Support.
|  | Executive Director Rock Island Contracting Center.
|  | Deputy to the Commander.
| Natick Soldier Center | Director, Natick Soldier Research and Development Engineering Center.
| United States Army Soldier and Biological Command | Director, Engineering Directorate. Director, Research and Technology Directorate.
|  | Executive Director, Research Development and Engineering Command, Acquisition Center.
|  | Technical Director.
|  | Director for Programs Integration.
| United States Army Communications Election Command Center | Director, Communications Election Command Acquisition Center.
| Communications Electronics Command Research, Development and Engineering Center | Director, Command and Control Directorate. Director, Software Engineering Directorate. Director, Night Vision/Electromagnetics Sensors Directorate.
|  | Director Research, Development and Engineering/Army Systems Engineer.
|  | Director, Intelligence and Information Warfare Directorate.
|  | Director, Space and Terrestrial Committee Directorate.
| United States Army Research Laboratory | Director, United States Army Research Laboratory.
|  | Director, Human Dimension Simulations and Training Directorate.
|  | Director, Computational and Information Sciences Directorate.
| Survivability/Lethality Analysis Directorate | Director, Survivability/Lethality Analysis Directorate.
| Army Research Office | Director, Engineering Sciences Directorate.
|  | Director, Army Research Office.
| Sensors and Electron Devices Directorate | Director.
| Weapons and Material Research Directorate | Director, Weapons and Materials Research Directorate.
| United States Army Aviation and Missile Command (Army Materiel Command) | Executive Director, Acquisition Center. Director for Test Measurement, Diagnostic Equipment Activity.
|  | Deputy to the Commander.
|  | Executive Director, Aviation and Missile Command G-3 (Operations).
|  | Director for Engineering.
|  | Executive Director, Integrated Material Management Center.
| Missile Research Development and Engineering Center | Director for Missile Guidance. Technology Director for Missiles and Development, Research, Development and Engineering Center.
|  | Associate Director for Aviation and Missile Systems.
|  | Director for Systems Simulation and Development.
|  | Director for Aviation Development.
| Aviation Research, Development and Engineering Center | Associate Director for Technical Applied/Director of Special Program.
|  | Director of Aviation Engineering.
| Research, Development and Engineering Command | Director for Army Research, Development, and Engineering Command.
|  | Deputy to the Commander.
| Tank-Automotive and Armaments Command (Tank-Automotive and Armaments Command) | Director of Acquisition Center. Deputy to the Commander. Executive Director, Integrated Logistics Support Center.
| Tank-Automotive Research, Development and Engineering Center (Tank-Automotive Research, Development and Engineering Center) | Director, Research, Technology Development and Integration. Executive Director for Product Development. Executive Director for Engineering. Director.
| United States Army Armament Research, Development and Engineering Center (Armament Research, Development and Engineering Center) | Director for Armament Research, Development and Engineering. Executive Director, Enterprise and Systems Integration Center.
| United States Army Simulation, Training and Instrumentation Command | Deputy to the Commander.
| U.S. Army Joint Munitions Command | Deputy to the Commander, Joint Munitions Command.
| United States Army Materiel Systems Analysis Activity | Director, Army Materiel Systems Analysis Activity.
|  | Technical Director.
| Headquarters, United States Army, Europe | Deputy Chief of Staff, G1.
|  | Deputy Chief of Staff, G-8.
|  | Deputy Director, Logistics and Security Assistance.
|  | Director, European Security and Defense Policy Defense Advisor to U.S. Mission to the European Union.
| United States Army Military District of Washington | Director of Cemetery Operations.
| United States Southern Command | Executive Director for Resources and Assessments.
|  | Director, Enterprise Support (ESD).
|  | Deputy Director, Strategy and Policy.
| United States European Command | Director, Joint Interagency Coordination Group.
|  | Deputy Director, Security Cooperation (DJ5).
|  | Director, Interagency Partnering, J9.
| United States Africa Command | Director of Resources, United States Africa Command.
|  | Deputy Director of Resources, J1/J8.
DEPARTMENT OF THE NAVY | Office of the Secretary | Director, Sexual Assault Prevention and Response.
|  | Director, Operations Directorate.
|  | Director, Office of Program and Process Assessment.
|  | Assistant for Administration.
| Office of the Under Secretary of the Navy | Director, Operations Integration Group.
|  | Principal Deputy Under Secretary of the Navy for Business Operations and Transformation).
|  | Senior Director for Intelligence.
|  | Senior Director for Policy.
|  | Director, Maritime Domain Awareness.
| Office of the Naval Inspector General | Deputy Naval Inspector General.
| Office of the Auditor General | Auditor General of the Navy.
|  | Deputy Auditor General of the Navy.
|  | Assistant Auditor General for Financial Management and Comptroller Audits.
|  | Assistant Auditor General for Manpower and Reserve Affairs Audits.
|  | Assistant Auditor General for Installation and Environment Audits.
|  | Assistant Auditor General for Research, Development, Acquisition and Logistics Audits.
| Office of the Assistant Secretary of Navy, Manpower and Reserve Affairs | Assistant General Counsel, Manpower and Reserve Affairs.
|  | Deputy Assistant Secretary of the Navy, Civilian Human Resources.
|  | Deputy Assistant Secretary of the Navy, Reserve Affairs.
| Office of Civilian Human Resources | Director, Human Resources Operations and Customer Engagement.
|  | Director, Human Resources Policy and Program Department.
|  | Director, Human Resources Systems, Processes and Productivity.
|  | Director, Office of Civilian Human Resources.
| Office Assistant Secretary of Navy, Energy, Installations and Environment | Deputy Assistant Secretary of the Navy, Energy.
|  | Assistant General Counsel, Energy, Installations and Environment.
|  | Director, Joint Guam Program Office.
| Office of the Assistant Secretary of the Navy, Research, Development and Acquisition | Executive Director, Navy International Programs Office.
|  | Deputy Assistant Secretary of the Navy, C4i/Space.
|  | Deputy for Test and Evaluation.
|  | Chief Systems Engineer.
|  | Executive Director, Integrated Warfare Systems.
|  | Deputy Assistant Secretary of the Navy, Ships.
|  | Chief of Staff/Policy.
|  | Principal Civilian Deputy Assistant Secretary of the Navy, Acquisition Workforce.
|  | Executive Director, F-35, Joint Program Office.
|  | Director, Program Analysis and Business Transformation.
|  | Assistant General Counsel, Research, Development and Acquisition.
|  | Deputy Assistant Secretary of the Navy, C4I/Space.
| Program Executive Officers | Executive Director, Program Executive Officers for Aircraft Carriers.
|  | Deputy Program Executive Officers for Space Systems and Executive Director, Space and Naval Warfare Systems Command, Space Field Activity.
|  | Deputy Program Executive Officers for Tactical Air Programs.
|  | Program Executive Officer, Land Systems.
|  | Technical Director, Program Executive Officer, Submarines.
|  | Joint Program Executive Officers for Joint Tactical Radio Systems.
|  | Executive Director, Amphibious, Auxiliary and Sealift Ships, Program Executive Officers Ships.
|  | Executive Director, Combatants, Program Executive Officers Ships.
|  | Executive Director, Program Executive Office for Space Systems.
|  | Deputy Program Executive Officer for Unmanned Aviation Programs.
|  | Executive Director, Program Executive Office Submarines.
|  | Deputy Program Executive Officers Air Assault and Special Mission.
|  | Director for Above Water Sensors Directorate.
|  | Executive Director for Command, Control, Communications, Computers and Intelligence (C4i).
|  | Director for Integrated Combat Systems for Integrated Warfare Systems.
|  | Executive Director, Program Executive Officer Littoral and Mine Warfare.
|  | Program Executive Officer, Littoral and Mine Warfare.
|  | Executive Director, Program Executive Officers for Integrated Warfare Systems.
|  | Deputy Program Executive Officers for Strike Weapons.
| Strategic Systems Programs | Counsel, Strategic Systems Programs.
|  | Branch Head, Reentry Systems Branch.
|  | Assistant for Systems Integration and Compatibility.
|  | Director, Integrated Nuclear Weapons Safety and Security and Director, Strategic Systems Programs.
|  | Technical Plans and Payloads Integration Officer.
|  | Head, Resources Branch Comptroller and Deputy Director, Plans and Program Division.
|  | Assistant for Missile Engineering Systems.
|  | Branch Head, Reentry Systems Branch.
|  | Assistant for Shipboard Systems.
|  | Director, Plans and Programs Division.
|  | Chief Engineer.
|  | Principal Deputy, Strategic Systems Programs.
|  | Assistant for Missile Production, Assembly and Operations.
| Office of the Assistant Secretary of Navy, Financial Management and Comptroller | Principal Deputy Assistant Secretary of the Navy, Financial Management and Comptroller.
|  | Deputy Assistant Secretary of the Navy for Cost and Economics.
|  | Director, Program/Budget Coordination Division.
|  | Deputy Assistant Secretary of the Navy for Financial Operations.
|  | Director, Budget and Policy and Procedures Division.
|  | Director, Investment and Development Division.
|  | Assistant General Counsel, Financial Management and Comptroller.
|  | Associate Director, Office of Budget/Fiscal Management Division.
|  | Director, Civilian Resources and Business Affairs Division.
|  | Deputy Director, Financial Operations.
|  | Deputy Assistant Secretary of the Navy for Cost and Economics.
| Office of the General Counsel | Assistant General Counsel, Intelligence Law.
|  | Special Counsel for Litigation.
| Naval Criminal Investigative Service | Criminal Investigator, Executive Assistant Director for Criminal Operations.
|  | Criminal Investigator, Executive Assistant Director for Management and Administration.
|  | Criminal Investigator, Deputy Director, Naval Criminal Investigative Service.
|  | Criminal Investigator, Executive Assistant Director for Pacific Operations.
|  | Criminal Investigator, Executive Assistant Director for Global Operations.
|  | Criminal Investigator, Director, Naval Criminal Investigative Service.
|  | Criminal Investigator, Executive Assistant Director for Atlantic Operations.
| Office of the Chief of Naval Operations | Director, Research, Modeling and Analysis Division.
|  | Assistant Deputy Chief of Naval Operations, Manpower, Personnel, Training and Education.
|  | Deputy Director, Afloat Readiness and Maintenance Division (N43).
|  | Special Assistant to Principal Deputy Undersecretary of Defense, Personnel and Readiness.
|  | Head, Campaign Analysis Branch.
|  | Director, Naval History and Heritage Command.
|  | Technical Director, Oceanographer of the Navy.
|  | Assistant Deputy Chief of Naval Operations of Logistics.
|  | Assistant Deputy Chief of Naval Operations for Integration of Capabilities and Resources, N8b.
|  | Director, Special Programs Division.
|  | Financial Manager and Chief Resources Officer for Manpower, Personnel, Training and Education.
|  | Director, Logistics Planning and Innovation.
|  | Deputy Director, Environmental Readiness Division.
|  | Assistant Deputy Chief of Naval Operations for Information Dominance (N2/N6b).
|  | Director, Strategic Sealift Division.
|  | Director, Assessment and Compliance.
|  | Deputy Director for Strategy and Policy.
| Commander, Navy Installations Command | Deputy Commander.
|  | Counsel, Commander Navy Installations Command.
|  | Comptroller.
|  | Director, Total Force Manpower.
|  | Deputy Regional Commander, Mid-Atlantic Region.
|  | Region Executive Director.
| Bureau of Medicine and Surgery | Director, Total Force.
|  | Comptroller/Deputy Chief of Staff for Resource Management.
| Military Sealift Command | Counsel, Military Sealift Command.
|  | Comptroller.
|  | Executive Director.
|  | Director, Military Sealift Command Manpower and Personnel.
|  | Director, Contractor Operated Ships.
|  | Director, Government Operations NFAF and Special Mission Ships.
|  | Director, Naval Fleet Auxiliary Force and Special Mission Ships.
|  | Director, Strategic Sealift and Prepositioning.
| Naval Meteorology and Oceanography Communications, Stennis Space Center, Mississippi | Technical/Deputy Director.
| Office of Commander, United States Fleet Forces Command/Joint Forces Command | Director, Fleet Manpower and Personnel. Deputy for Naval Air and Missile Defense Command.
|  | Executive Director, Joint Warfare Analysis Center.
|  | Director, Joint Deployment, Employment, and Sustainment.
|  | Enterprise Business Director.
|  | Executive Director, Joint Capability Development (Forward).
|  | Executive Director, Joint Warfighting Center.
|  | Deputy Director, Joint Concept Development and Experimentation.
|  | Deputy Director, Joint Operations and Global Force Management.
|  | Executive Director, Joint Requirements and Integration Directorate.
|  | Deputy Director, Fleet Warfare Programs.
|  | Chief of Staff.
|  | Deputy Director, Fleet Readiness and Training.
| Office of the Commander, Naval Surface Forces | Executive Director, Naval Surface Forces.
| Office of the Commander, Naval Air Forces | Executive Director, Naval Air Forces.
| Office of the Commander, Submarine Forces | Executive Director, Submarine Forces.
| Office of the Commander, Naval Expeditionary Combat Command | Executive Director, Navy Expeditionary Combat Command.
| Navy Cyber Forces | Deputy Commander, Navy Cyber Forces.
| Office of the Commander, United States Pacific Command | Chief Information Officer. Director, Pacific Outreach Directorate.
|  | Director for Forces Resources and Management.
| Office of the Commander, United States Pacific Fleet | Executive Director, Total Force Management. Executive Director, Fleet Command, Control, Communications and Computer Systems and Command Information Officer.
|  | Executive Director, Pacific Fleet Plans and Policy.
|  | Executive Director, Fleet Warfare Requirements, Resources and Force Structure.
|  | Deputy for Naval Mine and Anti-Submarine Warfare Command.
| Naval Air Systems Command Headquarters | Principal Assistant for Air Warfare Acquisition Analysis and Planning.
|  | Assistant Commander for Contracts.
|  | Deputy Commander, Naval Air Systems Command.
|  | Deputy Assistant Commander for Research and Engineering.
|  | Assistant Commander for Acquisition Processes and Execution.
|  | Director, Tactical Aircraft and Missiles Contracts Department.
|  | Director, Air Anti-Submarine Warfare, Assault and Special Mission Programs Contracts Department.
|  | Director, Strike Weapons, Unmanned Aviation, Naval Air Programs Contracts Department.
|  | Deputy Counsel, Office of Counsel.
|  | Director, Propulsion and Power.
|  | Director, Design Interface and Maintenance Planning.
|  | F-35 Joint Strike Fighter, Director of Logistics and Sustainment.
|  | Director, Cost Analysis Department.
|  | Director, Industrial Operations.
|  | Director, Air Platform Systems.
|  | Director, Enterprise Analysis and Planning.
|  | Director, Aviation Readiness and Resource Analysis.
|  | Deputy Assistant Commander for Logistics and Industrial Operations.
|  | Comptroller.
|  | Assistant Commander, Corporate Operations and Total Force.
|  | Command Information Officer.
|  | Principal Assistant for Air Warfare Acquisition Analysis and Planning.
|  | Counsel, Naval Air Systems Command.
|  | Director, Systems Engineering Department.
|  | Director, Avionics Department.
|  | Director, Air Vehicles and Unmanned Air Vehicles.
|  | Director, Logistics Management Integration.
| Naval Air Warfare Center Aircraft Division | Director, Flight Test Engineering.
|  | Director, Battlespace Simulation.
|  | Deputy Assistant Commander for Test and Evaluation/Executive Director Naval Air Warfare Center Aircraft Division/Director, Test and Evaluation NAWCAD.
|  | Director, Aircraft Launch and Recovery Equipment/Support Equipment.
|  | Director, Integrated Systems Evaluation Experimentation and Test Department.
| Naval Air Warfare Center Weapons Division, China Lake, California | Director, Weapons and Energetics Department.
|  | Director, Electronic Warfare/Combat Systems.
|  | Director, Range Department.
|  | Director, Software Engineering.
|  | Executive Director, Naval Air Warfare Center Weapons Division/Director, Research Engineering.
| Naval Air Warfare Center Training Systems Division | Director, Human Systems Department.
| Space and Naval Warfare Systems Command | Director, Corporate Operations/Command Information Officer.
|  | Counsel, Space and Naval Warfare Systems Command.
|  | Director, Contracts.
|  | Comptroller, Business Resources Manager.
|  | Director, Readiness/Logistics Directorate.
|  | Deputy Commander.
|  | Deputy Chief Engineer.
| Space and Naval Warfare Systems Center | Executive Director.
|  | Head, Intelligence, Surveillance, and Reconnaissance and Information Operations Department.
|  | Director, Science, Technology, and Engineering.
|  | Head, Communication and Information Systems Department.
|  | Head, Command and Control Department.
|  | Head, Research and Applied Sciences Department.
| Space and Naval Warfare Systems Center, Charleston | Executive Director.
| Naval Facilities Engineering Command | Assistant Commander/Chief Management Officer.
|  | Executive Director.
|  | Comptroller.
|  | Program Manager, Base Realignment and Closure Management Office.
|  | Director of Assets Management.
|  | Director, Special Venture Acquisition.
|  | Counsel, Naval Facilities Engineering Command.
|  | Director of Contracts Support.
|  | Chief Engineer.
|  | Director of Environment.
|  | Director, Navy Crane Center.
| Naval Sea Systems Command | Director, Reactor Refueling Division.
|  | Deputy Commander/Comptroller.
|  | Deputy Director, Advanced Undersea Systems Program Office.
|  | Assistant Deputy Commander, Regional Maintenance Centers.
|  | Assistant Deputy Commander, Maintenance, Modernization, Environment and Safety.
|  | Director of Radiological Controls.
|  | Executive Director, Ship Design, and Engineering Directorate.
|  | Deputy Director, Advanced Aircraft Carrier System Division.
|  | Director, Fleet Readiness Division.
|  | Command Information Officer.
|  | Executive Director.
|  | Director, Surface Systems Contracts Division.
|  | Deputy Counsel, Naval Sea Systems Command.
|  | Director for Aircraft Carrier Design and Systems Engineering.
|  | Deputy Director for Advanced Submarine Reactor Servicing and Spent Fuel Management.
|  | Director for Ship Survivability and Structural Integrity.
|  | Director for Machinery Systems.
|  | Head, Advanced Reactor Branch.
|  | Executive Director, Surface Warfare Directorate.
|  | Director, Undersea Systems Contracts Division.
|  | Director, Nuclear Components Division.
|  | Counsel, Naval Sea Systems Command.
|  | Director for Contracts.
|  | Director, Reactor Materials Division.
|  | Director for Surface Ship Design and Systems Engineering.
|  | Director, Cost Engineering and Industrial Analysis.
|  | Director, Shipbuilding Contracts Division.
|  | Assistant Deputy Commander for Industrial Operations.
|  | Deputy for Weapons Safety.
|  | Executive Director, Warfare Systems Engineering/Battle Force Systems Engineer.
|  | Deputy Commander, Corporate Operations Directorate.
|  | Executive Director for Logistics Maintenance and Industrial Operations Directorate.
|  | Executive Director, Undersea Warfare Directorate.
|  | Director, Reactor Plant Components and Auxiliary Equipment Division.
|  | Director, Surface Ship Systems Division.
|  | Director, Reactor Safety and Analysis Division.
|  | Director for Submarine/Submersible Design and Systems Engineering.
|  | Program Manager for Commissioned Submarines.
|  | Director, Office of Resource Management.
|  | Deputy Commander, Human Systems Integration Directorate.
| Naval Shipyards | Nuclear Engineering and Planning Manager, Puget Sound Naval Shipyard.
|  | Nuclear Engineering and Planning Manager; Portsmouth Naval Shipyard.
|  | Nuclear Engineering and Planning Manager; Pearl Harbor Naval Shipyard.
|  | Naval Shipyard Nuclear Engineering and Planning Manager, Norfolk Naval Shipyard.
| Naval Surface Warfare Center | Technical Director.
| Naval Undersea Warfare Center | Technical Director.
|  | Division Technical Director, Naval Undersea Warfare Center.
| Naval Surface Warfare Center, Crane Division | Division Technical Director, Naval Surface Warfare Center, Crane, Indiana.
| Naval Undersea Warfare Center Division, Keyport, Washington | Division Technical Director, Naval Undersea Warfare Center, Keyport Division.
| Naval Surface Warfare Center, Port Hueneme Division | Division Technical Director, Naval Surface Warfare Center, Port Hueneme Division.
| Naval Surface Warfare Center, Corona Division | Division Technical Director, Naval Surface Warfare Center, Corona Division.
| Naval Surface Warfare Center, Indian Head Division | Division Technical Director, Naval Surface Warfare Center, Indian Head Division.
| Naval Surface Warfare Center, Carderock Division | Division Technical Director, Naval Surface Warfare Center, Carderock Division.
| Naval Surface Warfare Center, Dahlgren Division | Division Technical Director, Naval Surface Warfare Center, Dahlgren Division.
|  | Division Technical Director, Naval Surface Warfare Center, Panama City Division.
| Naval Undersea Warfare Center Division, Newport, Rhode Island | Netwar/Forcenet Enterprise Executive. Corporate Business Executive.
| Naval Supply Systems Command Headquarters | Counsel, Naval Supply Systems Command. Deputy Commander, Financial Management/Comptroller.
|  | Deputy Commander, Acquisition, Naval Supply Systems Command.
|  | Deputy Commander, Corporate Operations.
|  | Director, Defense Technology Analysis Office.
|  | Executive Director, Office of Special Projects.
|  | Senior Acquisition Logistician/Enterprise Resource Planning Program Manager.
|  | Vice Commander.
| Naval Inventory Control Point | Vice Commander, Naval Inventory Control Point.
| Fleet and Industrial Supply Centers | Deputy Commander, Fleet and Industrial Supply Centers.
| United States Marine Corps Headquarters Office | Assistant Deputy Commandant for Manpower and Reserve Affairs.
|  | Assistant Deputy Commandant for Aviation.
|  | Marine Corps Business Enterprise Director.
|  | Deputy Assistant Deputy Commandant, Installations and Logistics (Facilities).
|  | Director, Manpower Plans and Policy Division.
|  | Assistant Deputy Commandant, Installations and Logistics (E-Business and Contracts).
|  | Counsel for the Commandant.
|  | Deputy Counsel for the Commandant.
|  | Assistant Deputy Commandant for Plans, Policies and Operations (Security).
|  | Assistant Deputy Commandant for Programs and Resources Director, Fiscal Division.
|  | Assistant Deputy Commandant, Installations and Logistics.
|  | Assistant Deputy Commandant for Programs and Resources.
|  | Director, Program Assessment and Evaluation Division.
| Marine Corps Systems Command | Deputy Commander, Command, Control, Communications, Computer, Intelligence, Surveillance and Reconnaissance.
|  | Executive Director.
|  | Deputy for Financial Management.
| Marine Corps Logistics Command Albany, Georgia | Executive Deputy, Marine Corps Logistics Command.
| Office of Naval Research | Patent Counsel of the Navy.
|  | Executive Director for Acquisition Management.
|  | Head, Sea Warfare and Weapons Science and Technology Department.
|  | Director, Hybrid Complex Warfare Sciences Division.
|  | Director of Transition.
|  | Head, Ocean, Battlespace Sensing Science and Technology Department.
|  | Head, Command, Control, Communications, Intelligence, Surveillance, and Reconnaissance (C4isr) Science and Technology Department.
|  | Head, Warfighter Performance Science and Technology Department.
|  | Executive Director.
|  | Counsel, Office of Naval Research.
|  | Comptroller.
|  | Head, Air Warfare and Weapons Science and Technology Department.
|  | Head, Expeditionary Warfare and Combating Terrorism Science and Technology Department.
|  | Director, Electronics, Sensors, and Networks Research Division.
|  | Director, Life Sciences Research Division.
|  | Director, Undersea Weapons and Naval Materials Science and Technology Division.
|  | Director, Ocean, Atmosphere and Space Science and Technology Processes and Prediction Division.
|  | Director of Innovation.
|  | Director, Ship Systems and Engineering Division.
|  | Director, Mathematical, Computer, and Information Sciences Division.
|  | Director for Aerospace Science Research Division.
| Naval Research Laboratory | Superintendent, Materials Science and Technology Division.
|  | Superintendent, Oceanography Division.
|  | Associate Director of Research for Business Operations.
|  | Associate Director of Research for Ocean and Atmospheric Science and Technology.
|  | Superintendent, Optical Sciences Division.
|  | Superintendent, Marine Geosciences Division.
|  | Superintendent, Chemistry Division.
|  | Associate Director of Research for Material Science and Component Technology.
|  | Director of Research.
|  | Superintendent, Center for Bio-Molecular Science and Engineering.
|  | Superintendent, Marine Meteorology Division.
|  | Superintendent, Remote Sensing Division.
|  | Chief Scientist, Laboratory for Computational Physics and Fluid Dynamics.
|  | Superintendent, Information Technology Division.
|  | Superintendent, Electronics Science and Technology Division.
|  | Superintendent, Plasma Physics Division.
|  | Superintendent, Radar Division.
|  | Superintendent, Space Sciences Division.
|  | Superintendent, Information Technology Division.
|  | Superintendent, Acoustics Division.
|  | Director, Naval Center for Space Technology.
|  | Superintendent, Space Systems Development Department.
|  | Associate Director of Research for Systems.
|  | Superintendent, Spacecraft Engineering Department.
|  | Superintendent, Tactical Electronic Warfare Division.
| The Joint Staff | Assistant Deputy Director, Synchronization and Integration.
|  | Executive Director, Force Generation.
|  | Vice Assistant Deputy Director, Joint Development.
|  | Vice Deputy Director, Joint and Coalition Warfighting.
|  | Assistant Deputy Director for Command and Control.
OFFICE OF THE SECRETARY OF DEFENSE/OFFICE OF THE INSPECTOR GENERAL | Office of the Inspector General | Principal Deputy Inspector General.
| Office of the General Counsel | General Counsel.
| Office of Communications and Congressional Liaison | Assistant Inspector General, Office of Communications and Congressional Liaison.
| Office of the Deputy Inspector General for Auditing | Deputy Inspector General for Auditing.
| Office of the Principal Deputy Inspector General for Auditing | Principal Assistant Inspector General for Auditing.
| Acquisition and Contract Management | Assistant Inspector General for Acquisition and Contract Management.
| Defense Business Operations | Assistant Inspector General for Payments and Accounting Operations.
|  | Assistant Inspector General for Financial Management and Reporting.
| Office of Readiness, Operations and Support | Assistant Inspector General for Readiness, Operations and Support.
| Office of the Deputy Inspector General for Investigations | Deputy Inspector General for Investigations.
| Defense Criminal Investigative Service | Assistant Inspector General for Investigations.
|  | Assistant Inspector General for Investigative Operations.
| Office of the Executive Assistant Director, Defense Criminal Investigative Service | Executive Assistant Director, Defense Criminal Investigative Service.
| Defense Criminal Investigative Service | Assistant Inspector General for International Operations.
| Administrative Investigations | Deputy Inspector General for Administrative Investigations.
| Office of the Deputy Inspector General for Policy and Oversight | Deputy Inspector General for Policy and Oversight.
| Audit Policy and Oversight | Assistant Inspector General for Audit Policy and Oversight.
| Investigative Policy and Oversight | Assistant Inspector General for Investigative Policy and Oversight.
| Office of the Deputy Inspector General for Intelligence | Deputy Inspector General for Intelligence.
| Office of Administration and Management | Assistant Inspector General for Administration and Management.
| Office of the Deputy Inspector General for Administrative Investigations | Deputy Inspector General for Special Plans and Operations.
DEFENSE NUCLEAR FACILITIES SAFETY BOARD | Defense Nuclear Facilities Safety Board | Technical Director. Deputy Technical Director.
|  | Deputy General Counsel.
|  | Deputy General Manager.
|  | Group Lead for Nuclear Weapon Programs.
|  | Group Lead for Nuclear Facility Design and Infrastructure.
|  | Group Lead for Nuclear Materials Processing and Stabilization.
|  | Group Lead for Nuclear Programs and Analysis.
|  | Technical Advisor for Engineering Studies.
DEPARTMENT OF EDUCATION | Office of the Chief Financial Officer | Director, Financial Improvement and Post Audit Operations.
|  | Director, Contracts and Acquisitions Management.
|  | Deputy Chief Financial Officer.
|  | Executive Assistant to the Chief Financial Officer.
|  | Chief Information Officer.
| Office of Management | Director, Human Resources Services.
|  | Chairperson, Education Appeal Board.
| Office of the General Counsel | Assistant General Counsel for Educational Equity.
|  | Assistant General Counsel for Postsecondary Education and Education Research Division.
|  | Assistant General Counsel for Business and Administration Law.
| Institute of Education Sciences | Associate Commissioner for Assessment.
| Federal Student Aid | Chief Financial Officer.
DEPARTMENT OF EDUCATION OFFICE OF THE INSPECTOR GENERAL | Office of the Inspector General | Counsel to the Inspector General. Deputy Inspector General.
|  | Assistant Inspector General for Audit Services.
|  | Deputy Assistant Inspector General for Audit Services.
|  | Assistant Inspector General for Information Technology Audits and Computer Crime Investigations.
|  | Assistant Inspector General for Evaluation, Inspection and Management Services.
|  | Assistant Inspector General for Investigative Services.
DEPARTMENT OF ENERGY | Office of the Secretary | Assistant Manager for Science.
|  | Associate Chief Information Officer for Operations.
| Loan Programs Office | Director for Portfolio Management.
| National Nuclear Security Administration | Chief of Defense Nuclear Counterintelligence.
|  | Director of Congressional, Intergovernmental and Public Affairs.
|  | Deputy Chief Information Officer for Information Technology.
| Office of the Associate Administrator for Acquisition and Project Management | Director, Office of Acquisition and Supply Management.
| National Nuclear Security Administration Service Center | Director, Office of Field Financial Management.
| Office of Management and Budget | Director, Diskless Workstation Task Force Office.
|  | Director, Office of Human Capital Management Programs.
| Office of the Deputy Administrator for Defense Programs | Manager, Savannah River Site Office. Manager, Sandia Site Office.
|  | Deputy Manager, Technical Programs.
|  | Senior Advisor for Complex 2030 Implementation.
|  | Deputy Manager, Pentax Site Office.
|  | Principal Assistant Deputy Administrator for Defense Program.
|  | Manager, Livermore Site Office.
|  | Manager, Nevada Site Office.
| Office of the Deputy Administrator for Defense Nuclear Nonproliferation | Director, Office of International Cooperation.
| Office of the Deputy Administrator for Naval Reactors | Deputy Director for Naval Reactors. Director, Instrumentation and Control Division.
|  | Director of Regulatory Affairs.
|  | Senior Naval Reactors Representative, Puget Sound Naval Ship.
|  | Senior Naval Reactors Representative.
|  | Manager, Naval Reactors Laboratory Field Office.
|  | Program Manager for Surface Ship Nuclear Propulsion.
|  | Deputy Director, Nuclear Technology Division.
|  | Senior Naval Reactors Representative, Yokosuka, Japan.
|  | Director, Advanced Submarine Systems Division.
| Office of Infrastructure and Environment | Director, Office of Nuclear Materials Integration.
|  | Director, Office of Infrastructure and Environment.
| National Nuclear Security Administration Field Site Offices | Chief Counsel.
| Office of Security | Deputy Director, Office of Security Affairs.
| Office of the Chief Information Officer | Associate Chief Information Officer for Cyber Security.
|  | Associate Chief Information Officer for Information Technology Support Services.
|  | Chief Information Officer.
| Office of Human Capital Management | Director, Office of Headquarters and Executive Personnel Services.
|  | Director, Office of Headquarters and Executive Human Resources.
| Office of Management | Director, Office of Administration.
|  | Deputy Director, Office of Management, Budget and Evaluation/Deputy Chief Finance Officer.
|  | Director, Project Management Systems and Assessments.
| Office of the Chief Financial Officer | Deputy Chief Financial Officer.
|  | Director, Financial Policy.
|  | Deputy Chief Financial Officer.
|  | Director, Office of Budget.
| Office of Electricity Delivery and Energy Reliability | Deputy Assistant Secretary for Permitting, Siting and Analysis.
|  | Director, Office of Energy Assurance.
| Office of Independent Oversight and Performance Assurance | Director, Office of Security Oversight.
| Office of Safeguards and Security Evaluations | Deputy Director, Office of Independent Oversight and Performance.
| Office of Security and Safety Performance Assurance | Director, Office of Safeguards and Security Evaluations.
|  | Director, Office of Safeguards and Security Training.
|  | Deputy Director, Office of Headquarters Security Operations.
|  | Director, Office of Independent Oversight and Performance.
|  | Director, Office of Headquarters Security Operations.
|  | Director, Office of Security and Safety Performance.
| Assistant Secretary for Energy Efficiency and Renewable Energy | Program Manager. Director, Regional Office and Deployment Operations.
|  | Program Manager.
|  | Manager, Golden Field Office.
|  | Program Manager, Office of Geothermal Technologies Program.
|  | Deputy Manager, Golden Field Office.
|  | Program Manager.
| Assistant Secretary for Environment, Safety and Health | Director, Office of Regulatory Liaison. Director, Office of Nuclear Safety, Policy and Standards.
| Energy Information Administration | Director, Energy Markets and Contingency Information Division.
|  | Director, Office of Oil and Gas.
|  | Director, Petroleum Division.
|  | Director, Coal, Nuclear and Renewables Division.
|  | Director, Electric Power Division.
|  | Director, Coal and Electric Power Division.
|  | Director, Office of Energy Consumption and Energy Efficiency Analysis.
|  | Director, Office of Integration Analysis and Forecasting.
|  | Director, Electrical Power Division.
|  | Director, Natural Gas Division.
|  | Director, Office of Petroleum and Biofuels Statistics.
|  | Director, Office of Oil, Gas and Coal Supply Statistics.
|  | Director, Office of Electricity, Coal Nuclear and Renewables.
|  | Assistant Administrator for Energy Analysis.
|  | Assistant Administrator for Resources and Technology Management.
|  | Assistant Administrator for Communications.
|  | Director, Office of Integrated and International Energy Analysis.
|  | Director, Office of Petroleum Gas and Biofuels Analysis.
| Office of Environmental Management | Science Advisor.
|  | Director, Office of Safeguard and Security/Emergency Management.
| Environmental Management Consolidated Business Center | Deputy Manager.
| Office of Science | Director, High Energy Physics Division.
|  | Site Office Manager, Fermi.
|  | Director, Facilities Division.
|  | Director, Financial Management Division.
|  | Associate Director, Office of Resource Management.
|  | Director, Health Effects and Life Scientist Research Division.
| Office of Fossil Energy | Director, Materials Partnerships Research Center.
| Albuquerque Operations Office | Assistant Manager for Management and Administration.
|  | Carlsbad Area Office Manager.
|  | Director, Weapons Programs Division.
|  | Director, Transportation Safeguards Division.
| Chicago Operations Office | Director, New Brunswick Laboratory.
|  | Assistant Manager, Acquisition and Assistance.
|  | Deputy Manager, Chicago Office.
| Idaho Operations Office | Chief Financial Officer/Chief Operating Officer.
| Ohio Field Office | Deputy Manager, Ohio Field Office.
|  | Manager, Ohio Field Office.
| Oakland Operations Office | Associate Manager for Site Management.
| Oak Ridge Operations Office | Chief Financial Officer.
|  | Assistant Manager for Administration.
| Rocky Flats Office | Assistant Manager for Administration and Transition.
| Office of General Counsel | Assistant General Counsel for General Law.
| Office of Hearings and Appeals | Director of Hearings and Appeals.
|  | Deputy Director for Legal Analysis.
|  | Deputy Director for Financial Analysis.
|  | Deputy Director for Economic Analysis.
| Office of Nuclear Energy, Science and Technology | Director, Office of Light Water Reactor Deployment.
|  | Associate Director for Nuclear Facilities Management.
| Western Area Power Administration | Chief Financial Officer.
|  | Transmission Infrastructure Program Manager.
|  | Chief Operating Officer.
DEPARTMENT OF ENERGY OFFICE OF THE INSPECTOR GENERAL | Office of the Inspector General | Deputy Inspector General for Investigations. Counsel to the Inspector General.
|  | Deputy Inspector General Management and Administration.
|  | Assistant Inspector General for Inspections.
|  | Principal Deputy Inspector General.
|  | Assistant Inspector General for Financial, Technology and Corporate Audits.
|  | Director, National Nuclear Security Administration and Science Audits Division.
|  | Deputy Inspector General for Investigations and Inspections.
|  | Director, Environment Technology Corporate and Financial Audits Division.
|  | Assistant Inspector General for Audits.
|  | Director, Energy Audits Division.
|  | Deputy Inspector General for Audits and Inspections.
ENVIRONMENTAL PROTECTION AGENCY | Environmental Appeals Board | Environmental Appeals Judge (4 Positions).
| Office of Homeland Security | Director, Office of Homeland Security.
| Office of Executive Support | Director, Office of Executive Services.
| Office of the Chief Financial Officer | Associate Chief Financial Officer.
|  | Senior Advisor.
|  | Deputy Chief Financial Officer.
| Office of Planning, Analysis and Accountability | Director, Office of Planning, Analysis and Accountability.
| Center for Environmental Finance | Director, Center for Environmental Finance.
| Office of Budget | Director, Office of Budget.
| Office of Financial Management | Director, Office of Financial Management.
| Office of Financial Services | Director, Office of Financial Services.
| Office of Technology Solutions | Director, Office of Technology Solutions.
| Office of Technology Operations and Planning | Director, National Computer Center.
| Office of the Assistant Administrator for Administration and Resources Management | Deputy Assistant Administrator for Administration and Resources Management.
|  | Senior Policy Advisor.
| Office of Policy and Resource Management | Director, Office of Policy and Resource Management.
| Office of Administration | Deputy Director, Office of Administrative Services.
|  | Director, Facilities Management and Services Division.
|  | Director, Safety, Health and Environmental Management Division.
|  | Director, Office of Administration.
| Office of Human Resources | Deputy Director, Office of Human Resources.
|  | Director, Executive Resources Division.
|  | Director, Office of Human Resources.
| Office of Acquisition Management | Deputy Director, Office of Acquisition Management.
|  | Director, Superfund/Resource Conservation and Recovery Act Regional Procurement Operations Division.
|  | Director, Office of Acquisition Management.
| Office of Grants and Debarment | Director, Office of Grants and Debarment.
|  | Director, Grants Administration Division.
|  | Deputy Director, Office of Grants and Debarment.
| Office of Administration and Resources Management—Cincinnati Ohio | Director, Office of Administration and Resources Management.
| Office of Administration and Resources Management—Research Triangle Park, North Carolina | Director, Office of Administration and Resources Management.
| Federal Facilities Enforcement Office | Director, Federal Facilities Enforcement Office.
| Office of Environmental Justice | Director, Office of Environmental Justice.
| Office of Compliance | Director, Office of Compliance.
|  | Director, Enforcement Targeting and Data Division.
|  | Deputy Director, Office of Compliance.
|  | Director, National Enforcement Training Institute.
|  | Director, Compliance Assessment and Media Programs Division.
| Office of Criminal Enforcement, Forensics and Training | Director, Office of Criminal Enforcement, Forensics and Training.
|  | Director, National Enforcement Investigations Center.
|  | Director, Criminal Investigation Division.
|  | Deputy Director, Office of Criminal Enforcement, Forensics Training.
|  | Assistant Director, Office of Criminal Enforcement, Forensics and Training.
| Office of Federal Activities | Director, International Compliance Assurance Division.
| Office of Civil Enforcement | Director, Air Enforcement Division.
|  | Director, Office of Civil Enforcement.
|  | Deputy Director, Office of Civil Enforcement.
| Office of Site Remediation Enforcement | Deputy Director, Office of Site Remediation Enforcement.
|  | Director, Office of Site Remediation Enforcement.
| Office of Deputy General Counsel | Director, Resources Management Office.
| Office of the Inspector General | Counsel to the Inspector General.
|  | Deputy Inspector General.
| Office of Audit | Assistant Inspector General for Audits.
| Office of Investigations | Assistant Inspector General for Investigations.
| Office of Program Evaluation | Assistant Inspector General for Program Evaluation.
| Office of Human Capital | Assistant Inspector General for Human Capital.
| Office of Mission Systems | Assistant Inspector General for Mission Systems.
| Office of Planning, Analysis and Results | Assistant Inspector General for Planning, Analysis and Results.
| Office of Congressional and Public Liaison | Assistant Inspector General for Congressional and Public Liaison.
| Office of Ground Water and Drinking Water | Director, Standards and Risk Management Division.
|  | Director, Drinking Water Protection Division.
| Office of Science and Technology | Director, Standards and Health Protection.
|  | Director, Engineering and Analysis Division.
|  | Director, Health and Ecological Criteria Division.
| Office of Waste Water Management | Director, Water Permits Division.
|  | Director, Municipal Support Division.
| Office of Wetlands, Oceans and Watersheds | Director, Assessment and Watershed Protection Division.
|  | Director, Wetlands Division.
|  | Director, Oceans and Coastal Protection Division.
| Office of the Assistant Administrator for Solid Waste and Emergency Response | Director, Land Revitalization Staff.
| Office of Superfund Remediation and Technology Innovation | Director, Technology Innovation and Field Services Division.
|  | Director, Assessment and Remediation Division.
|  | Director, Resources Management Division.
| Office of Resource Conservation and Recovery | Director, Program Implementation and Information Division.
|  | Director, Materials Recovery and Waste Management Division.
|  | Director, Resource Conservation and Sustainability Division.
| Office of the Assistant Administrator for Air and Radiation | Senior Policy Advisor (Agriculture). Senior Advisor.
|  | Director, Office of Policy Analysis and Review.
| Office of Air Quality Planning and Standards | Deputy Director, Office of Air Quality Planning and Standards.
|  | Director, Outreach and Information Division.
|  | Director, Sector Policies and Programs Division.
|  | Director, Health and Environmental Impacts Division.
|  | Director, Air Quality Assessment Division.
|  | Associate Office Director for Program Integration and International Air Quality Issues.
|  | Director, Air Quality Policy Division.
| Office of Transportation and Air Quality | Director, Advanced Technology Division.
|  | Director, Transportation and Regional Programs Division.
|  | Director, Assessment and Standards Division.
|  | Director, Compliance and Innovative Strategies Division.
| Office of Radiation and Indoor Air | Director, Indoor Environments Division.
|  | Deputy Director, Office of Radiation and Indoor Air.
|  | Director, Radiation Protection Division.
| Office of Atmospheric Programs | Director, Climate Protection Partnership Division.
|  | Director, Climate Change Division.
|  | Director, Clean Air Markets Division.
| Office of Program Management Operations | Associate Assistant Administrator.
| Office of Pesticide Programs | Director, Information Technology and Resources Management Division.
|  | Director, Biopesticides and Pollution Prevention Division.
|  | Director, Biological and Economic Analysis Division.
|  | Director, Registration Division.
|  | Director, Special Review and Reregistration Division.
|  | Director, Environmental Fate and Effects Division.
|  | Director, Health Effects Division.
|  | Director, Antimicrobials Division.
|  | Director, Field and External Affairs Division.
| Office of Pollution Prevention and Toxics | Director, Pollution Prevention Division.
|  | Director, Risk Assessment Division.
|  | Director, Information Management Division.
|  | Director, Chemical Control Division.
|  | Director, Economics Exposure and Technology Division.
|  | Director, National Program Chemicals Division.
|  | Director, Environmental Assistance Division.
| Office of the Assistant Administrator for Research and Development | Director for Ecology. Chief Innovation Officer.
|  | Director, Office of Scientific Information Management.
| National Homeland Security Research Center | Deputy Director for Management, National Homeland Security Research Center.
|  | Director, National Homeland Security Research Center.
| Office of Resources Management and Administration | Director, Office of Resources Management and Administration.
| National Health and Environmental Effects Research Laboratory | Associate Director for Health. Director, National Health and Environmental Effects Research Laboratory.
|  | Deputy Director for Management.
|  | Associate Director for Ecology.
| Atlantic Ecology Division | Director, Atlantic Ecology Division.
| Western Ecology Division | Director, Western Ecology Division.
| Gulf Ecology Division | Director, Gulf Ecology Division.
| Mid-Continent Ecology Division | Director, Mid-Continent Ecology Division.
| Human Studies Division | Director, Human Studies Division.
| National Exposure Research Laboratory | Director, Microbiological and Chemical Assessment Research Division.
|  | Director, National Exposure Research Laboratory.
|  | Deputy Director for Management.
| Environmental Sciences Division | Director, Environmental Sciences Division.
| Ecosystems Research Division | Director, Ecosystems Research Division.
| Human Exposure and Atmospheric Sciences Division | Director, Human Exposure and Atmospheric Science Division.
| National Risk Management Research Laboratory | Director, National Risk Management Research Laboratory.
|  | Deputy Director for Management.
| Air Pollution Prevention and Control Division | Director, Air Pollution Prevention and Control Division.
| Ground Water Ecosystems Restoration Division | Director, Ground Water Ecosystems Restoration Division.
| Water Supply and Water Resources Division | Director, Water Supply and Water Resources Division.
| National Center for Environmental Assessment | Deputy Director for Management. Director, National Center for Environmental Assessment.
|  | Associate Director for Ecology.
| National Center for Environmental Assessment, Washington, DC | Director, National Center for Environmental Assessment.
| National Center for Environmental Assessment, Research Triangle Park, North Carolina | Director, National Center for Environmental Assessment.
| National Center for Environmental Assessment, Cincinnati, Ohio | Director, National Center for Environmental Assessment.
| National Center for Environmental Research | Director, National Center for Environmental Research.
|  | Deputy Director for Management.
| Office of Administrative and Research Support | Director, Office of Administrative and Research Support.
|  | Deputy Director, Office of Administrative and Research Support.
| Region 1, Boston, Massachusetts | Director, Office of Environmental Stewardship.
|  | Assistant Regional Administrator for Administration and Resources Management.
|  | Director, Office of Site Remediation Restoration.
|  | Director, Office of Ecosystem Protection.
| Office of Regional Counsel | Regional Counsel.
| Region 2, New York, New York | Director, Office of Emergency and Remedial Response.
|  | Director, Environmental Planning and Protection Division.
|  | Director, Environmental Science and Assessment Division.
|  | Assistant Regional Administrator for Policy and Management.
|  | Director, Enforcement and Compliance Assistance Division.
|  | Director, Caribbean Environmental Protection Division.
| Office of Regional Counsel | Regional Counsel.
| Region 3, Philadelphia, Pennsylvania | Assistant Regional Administrator for Policy and Management.
|  | Director, Chesapeake Bay Program Office.
|  | Director, Water Protection Division.
|  | Director, Air Protection Division.
|  | Director, Environmental Assessment and Innovation Division.
|  | Director, Waste and Chemical Management Division.
|  | Director, Hazardous Site Cleanup Division.
| Office of Regional Counsel | Regional Counsel.
| Region 4, Atlanta, Georgia | Director, Science and Ecosystem Support Division.
|  | Director, Superfund Division.
|  | Director, Gulf of Mexico Program.
|  | Director, Water Management Division.
|  | Assistant Regional Administrator for Policy and Management.
|  | Director, Resource Conservation and Recovery Act Division.
|  | Director, Air, Pesticides and Toxics Management Division.
| Office of Regional Counsel | Regional Counsel.
| Region 5, Chicago, Illinois | Director, Great Lakes National Program Office.
|  | Director, Superfund Division.
|  | Director, Land and Chemicals Division.
|  | Director, Water Division.
|  | Director, Air and Radiation Division.
|  | Assistant Regional Administrator for Resources Management.
| Office of Regional Counsel | Regional Counsel.
| Region 6, Dallas, Texas | Assistant Regional Administrator for Management.
|  | Director, Compliance Assurance and Enforcement Division.
|  | Director, Superfund Division.
|  | Director, Water Quality Protection Division.
|  | Director, Multimedia Planning and Permitting Division.
| Office of Regional Counsel | Regional Counsel.
| Region 7, Kansas City, Kansas | Assistant Regional Administrator for Policy and Management.
|  | Director, Superfund Division.
|  | Director, Environmental Services Division.
|  | Director, Air, Resource Conservation and Recovery Act and Toxics Division.
|  | Director, Water, Wetlands and Pesticides Division.
| Office of Regional Counsel | Regional Counsel.
| Region 8, Denver, Colorado | Assistant Regional Administrator for Ecosystems Protection and Remediation.
|  | Assistant Regional Administrator for Partnerships and Regulatory Assistance.
|  | Assistant Regional Administrator for Technical and Management Services.
| Office of Regional Counsel | Regional Counsel.
| Region 9, San Francisco, California | Director, Superfund Division.
|  | Assistant Regional Administrator for Management and Technical Services.
|  | Director, Waste Management Division.
|  | Director, Water Management Division.
|  | Director, Air Division.
|  | Director, Office of Public Affairs.
|  | Director, Cross Media Division.
| Office of Regional Counsel | Regional Counsel.
| Region 10, Seattle, Washington | Director, Office of Air, Waste and Toxics.
|  | Director, Office of Compliance and Enforcement.
|  | Director, Office of Water and Watersheds.
|  | Director, Office of Ecosystems, Tribal and Public Affairs.
|  | Director, Office of Environmental Cleanup.
|  | Assistant Regional Administrator for Management Programs.
|  | Senior Advisor.
| Office of Regional Counsel | Regional Counsel.
ENVIRONMENTAL PROTECTION AGENCY OFFICE OF THE INSPECTOR GENERAL | Office of the Inspector General | Assistant Inspector General for Audits. Deputy Inspector General.
|  | Assistant Inspector General for Congressional and Public Liaison, and Management.
|  | Counsel to the Inspector General.
|  | Chief of Staff.
|  | Assistant Inspector General for Investigations.
|  | Assistant Inspector General for Program Evaluations.
|  | Assistant Inspector General for Mission Systems.
|  | Assistant Inspector General for Homeland Security and Customer Liaison.
| Office of Cyber Investigation and Homeland Security | Assistant Inspector General for Cyber Investigation and Homeland Security.
EQUAL EMPLOYMENT OPPORTUNITY COMMISSION | Office of the Inspector General | Inspector General.
| Office of Field Programs | District Director, Indianapolis.
|  | District Director, Atlanta.
|  | District Director, Houston.
|  | District Director, Detroit.
|  | District Director, San Francisco.
|  | District Director, Dallas.
|  | District Director, Chicago.
|  | District Director, St Louis.
|  | District Director, Miami.
|  | District Director, Memphis.
|  | District Director, Los Angeles.
|  | District Director, Denver.
|  | District Director, Birmingham.
|  | District Director, New Orleans.
|  | District Director, Phoenix.
|  | District Director, San Antonio.
|  | District Director, Charlotte.
|  | National Mediation Executive Advisor.
|  | District Director, Cleveland.
|  | District Director, Philadelphia.
|  | District Director, Baltimore.
|  | District Director, New York.
|  | Program Manager.
|  | District Director, Milwaukee.
| Field Management Programs | Director, Field Management Programs.
| Field Coordination Programs | Director, Field Coordination Programs.
FEDERAL COMMUNICATIONS COMMISSION | Office of Inspector General | Inspector General.
FEDERAL ENERGY REGULATORY COMMISSION | Office of Energy Projects | Director, Division of Dam Safety and Inspection.
| Office of Administrative Litigation | Director, Legal Division.
| Office of Enforcement | Chief Accountant and Director, Division of Financial Regulations.
FEDERAL LABOR RELATIONS AUTHORITY | Office of the Chairman | Senior Advisor.
|  | Chief Counsel.
|  | Solicitor.
|  | Director, Policy and Performance Management.
| Office of Member | Chief Counsel.
|  | Chief Counsel.
| Federal Service Impasses Panel | Executive Director, Federal Service Impasses Panel.
| Office of the Executive Director | Executive Director.
| Office of the General Counsel | Deputy General Counsel (2 positions).
| Office of the General Counsel Regional Offices | Regional Director, Denver. Regional Director, Boston.
|  | Regional Director, Dallas.
|  | Regional Director, Chicago.
|  | Regional Director, San Francisco.
|  | Regional Director, Atlanta.
|  | Regional Director, Washington, DC.
FEDERAL MARITIME COMMISSION | Office of the Secretary | Secretary.
| Office of the General Counsel | Deputy General Counsel for Reports Opinions and Decisions.
| Bureau of Certification and Licensing | Director, Bureau of Certification and Licensing.
| Bureau of Trade Analysis | Director, Bureau of Trade Analysis.
| Bureau of Enforcement | Director, Bureau of Enforcement.
|  | Deputy Director, Bureau of Enforcement.
| Office of Administration | Director of Administration.
FEDERAL MEDIATION AND CONCILIATION SERVICE | Office of the Director | National Representative. Chief of Staff.
| Office of the Deputy Director | Director of Field Operations.
FEDERAL RETIREMENT THRIFT INVESTMENT BOARD | Federal Retirement Thrift Investment Board | Chief Financial Officer. Director, Office of Research and Strategic Planning.
|  | Associate Director of Publications.
|  | Chief Investment Officer.
|  | Director of Participant Services.
|  | Associate General Counsel.
|  | Chief Information Officer.
FEDERAL TRADE COMMISSION | Office of International Affairs | Deputy Director for International Consumer Protection.
| Office of the Executive Director | Chief Information Officer.
|  | Deputy Executive Director.
| Bureau of Competition | Deputy Director, Bureau of Competition.
FEDERAL TRADE COMMISSION OFFICE OF THE INSPECTOR GENERAL | Office of the Inspector General | Inspector General.
GENERAL SERVICES ADMINISTRATION | Office of Emergency Response and Recovery | Chief, Emergency Response and Recovery Officer.
| Office of Citizen Services and Communications | Director, Federal Citizen Information Center.
| Office of the Chief People Officer | Chief Information Officer.
|  | Director of Human Resources Services.
|  | Director of Human Capital Management.
|  | Chief Human Capital Officer.
|  | Deputy Chief Information Officer.
| Office of Governmentwide Policy | Deputy Associate Administrator for Technology Strategy.
|  | Director of Governmentwide Acquisition Policy.
|  | Deputy Associate Administrator for Travel, Transportation and Asset Management.
|  | Deputy Associate Administrator for Real Property Management.
|  | Director of the Federal Acquisition Institute.
| Office of the Chief Acquisition Officer | Director of Acquisition Integrity.
|  | Deputy Chief Acquisition Officer.
|  | Director of Acquisition Systems.
| Office of Inspector General | Principal Deputy Assistant Inspector General for Auditing.
|  | Counsel to the Inspector General.
|  | Assistant Inspector General for Investigations.
|  | Deputy Assistant Inspector General for Investigations.
|  | Assistant Inspector General for Administration.
|  | Assistant Inspector General for Auditing.
|  | Deputy Inspector General.
| Office of the Chief Financial Officer | Chief Financial Officer.
|  | Director of Financial Management Systems.
|  | Director of Financial Policy and Operations.
|  | Director of Budget.
| Public Buildings Service | Deputy Assistant Commissioner for Real Property Disposal.
|  | Assistant Commissioner for Facilities Management and Services Programs.
|  | Director of Federal High-Performance Green Buildings.
|  | Program Executive.
|  | Assistant Commissioner for Real Property Asset Management.
|  | Assistant Commissioner for Leasing.
|  | Assistant Commissioner for Budget and Financial Management.
|  | Assistant Commissioner for Construction Programs.
|  | Assistant Commissioner for National Customer Services Management.
|  | Deputy Assistant Commissioner for Vendor Alliance and Vendor Acquisition.
|  | Assistant Commissioner for Organizational Resources.
|  | Deputy Assistant Commissioner for Real Estate Portfolio Management.
| Office of the Chief Information Officer | Director of Enterprise Management Services.
|  | Director of Enterprise Infrastructure.
|  | Senior Agency Information Security Officer.
| Federal Acquisition Service | Director of Motor Vehicle Management.
|  | Director of Supply Operations.
|  | Deputy Assistant Commissioner for General Supplies and Services.
|  | Director of Travel and Transportation Services.
|  | Assistant Commissioner for Acquisition Management.
|  | Assistant Commissioner for Assisted Acquisition Services.
|  | Chief Information Officer.
|  | Director of Acquisition.
|  | Controller.
|  | Assistant Commissioner for Customer Accounts and Research.
|  | Assistant Commissioner for Travel, Motor Vehicle and Card Services.
|  | Assistant Commissioner for General Supplies and Services.
|  | Deputy Assistant Commissioner for Integrated Technology Services.
|  | Director of Network Services Programs.
|  | Assistant Commissioner for Integrated Technology Services.
|  | Assistant Commissioner for Strategic Business Planning and Process Improvement.
|  | Director of Governmentwide Acquisition Contracts and Information Technology Schedule Programs.
|  | Deputy Chief Information Officer.
| New England Region | Regional Commissioner for Federal Acquisition Service, Region I.
|  | Regional Commissioner for Public Buildings Service.
| Northeast and Caribbean Region | Regional Commissioner for Public Buildings Service.
|  | Regional Commissioner for Federal Acquisition Service.
| Mid-Atlantic Region | Regional Counsel.
|  | Regional Commissioner for Public Buildings Service.
|  | Regional Commissioner for Federal Acquisition Service.
| National Capital Region | Director of Facilities Management and Services Programs.
|  | Principal Deputy Regional Commissioner for Public Buildings Service.
|  | Director of Leasing.
|  | Project Executive for Real Estate Development.
|  | Regional Commissioner for Federal Acquisition Service.
|  | Director of Project Delivery.
|  | Director of Portfolio Management.
|  | Principal Deputy Regional Commissioner for Projects and Real Property Asset Management.
|  | Regional Commissioner for Public Buildings Service.
| Southeast Sunbelt Region | Regional Commissioner for Public Buildings Service.
|  | Regional Commissioner for Federal Acquisition Service.
|  | Deputy Regional Commissioner for Real Estate Design, Construction and Development.
| Great Lakes Region | Regional Commissioner for Public Buildings Service.
| the Heartland Region | Regional Commissioner for Public Buildings Service.
|  | Regional Commissioner for Federal Acquisition Service.
| Greater Southwest Region | Regional Commissioner for Federal Acquisition Service.
|  | Regional Commissioner for Public Buildings Service.
| Rocky Mountain Region | Regional Commissioner for Public Buildings Service.
|  | Regional Commissioner for Federal Acquisition Service, Region VIII.
| Pacific RIM Region | Assistant Regional Administrator, Federal Acquisition Service.
|  | Assistant Regional Administrator for Federal Supply Service.
|  | Principal Deputy Regional Commissioner for Public Buildings Service.
|  | Regional Commissioner for Public Buildings Service.
| Northwest/Arctic Region | Regional Commissioner for FAS, Region X.
|  | Regional Commissioner for Public Buildings Service.
DEPARTMENT OF HEALTH AND HUMAN SERVICES | Office of Security and Strategic Information | Associate Director for Strategic Information. Director, Division of Physical Security.
|  | Associate Director for Personnel and Classified Information Security.
| Office of the Assistant Secretary for Administration | Director, Atlanta Human Resources Center.
|  | Director, Office of Small and Disadvantaged Business Utilization.
| Office of the Deputy Assistant Secretary for Finance | Director, Office of Financial Policy and Reporting.
|  | Deputy Assistant Secretary, Finance.
| Office of the Deputy Assistant Secretary for Information Resources Management | Deputy Chief Information Officer.
| Office of the Assistant Secretary for Planning and Evaluation | Associate Deputy Assistant Secretary for Planning and Evaluation (Health Services Policy).
| Office of the Assistant Secretary for Health | Director, Office of Research Integrity.
|  | Director, Office of Human Immunodeficiency Virus/Acquired Immunodeficiency Syndrome Policy.
| Associate General Counsel Divisions | Associate General Counsel, General Law Division.
|  | Deputy Associate General Counsel, Business and Administrative Law Division.
|  | Deputy Associate General Counsel for Claims and Employment Law.
| Office of the Inspector General | Deputy Inspector General for Legal Affairs.
|  | Deputy Inspector General for Management and Policy.
|  | Principal Deputy Inspector General.
| Office of the Deputy Inspector General for Investigations | Assistant Inspector General for Investigative Operations.
|  | Assistant Inspector General for Investigations (2 positions).
|  | Deputy Inspector General for Investigations.
| Office of the Deputy Inspector General for Audit Services | Assistant Inspector General for Financial Management and Regional Operations.
|  | Assistant Inspector General for Medicare and Medicaid Service Audits.
|  | Deputy Inspector General for Audit Services.
|  | Assistant Inspector General for Audit Management and Policy.
|  | Assistant Inspector General for Grants and Internal Activities.
| Office of the Deputy Inspector General for Evaluation and Inspections | Deputy Inspector General for Evaluation and Inspections.
| Program Support Center | Deputy Assistant Secretary for Program Support.
|  | Director, Information Systems Management Service.
| Office of Financial Management Service | Director, Financial Management Service.
| Office of Program Support | Director, Office of Financial Management.
| Office of Public Engagement | Deputy Director, Office of External Affairs.
| Office of the Actuary | Director, Office of the Actuary (Chief Actuary).
|  | Director, Parts C and D Actuarial Group.
|  | Director, Medicare and Medicaid Cost Estimates Group.
|  | Director, National Health Statistics Group.
| Center for Medicare | Director, Medicare Contractor Management Group.
| Center for Program Integrity | Director, Medicaid Integrity Group.
|  | Director, Medicare Program Integrity Group.
| Office of Acquisitions and Grants Management | Deputy Director for Policy. Deputy Director, Office of Acquisition and Grants Management.
|  | Director, Office of Acquisitions and Grants Management.
| Office of Information Services | Deputy Director, Office of Information Services.
|  | Director, Office of Information Services (Chief Information Officer).
|  | Deputy Director, Office of Information Services.
| Office of Financial Management | Director, Financial Services Group.
|  | Director, Accounting Management Group.
|  | Director, Office of Financial Management.
|  | Deputy Director, Office of Financial Management.
| Office of Policy, Planning and Budget | Associate Administrator for Policy and Programs Coordinator.
| Center for Mental Health Services | Director, Division of State and Community Systems Development.
|  | Director, Center for Mental Health Services.
| Centers for Disease Control and Prevention | Chief Management Officer, Coordinating Office for Terrorism Preparedness and Emergency Response.
|  | Issues Analysis and Coordination Officer.
|  | Director, Procurement and Grants Office.
|  | Chief Learning Officer.
|  | Chief Management Officer, Office of the Director.
|  | Director, Procurement and Grants Office.
|  | Chief Management Officer, Information Resources Management Office.
|  | Chief Management Officer, Office of Terrorism Preparedness and Emergency Response.
|  | Director, Financial Management Office.
|  | Chief Financial Officer.
|  | Director, Buildings and Facilities Office.
|  | Director, Information Technology Services Office.
| National Institute for Occupational Safety and Health | Deputy Director for Management.
| National Center for Chronic Disease Prevention and Health Promotion | Director, Office on Smoking and Health. Director, Division of Adult and Community Health.
| Coordinating Center for Health Information and Services | Chief Management Officer, Coordinating Center for Health Information and Services.
| Office of Global Health | Chief Management Officer, Office of Global Health.
| Coordinating Center for Infectious Diseases | Chief Management Officer, Coordinating Center for Infectious Diseases.
| Office of Surveillance, Epidemiology, and Laboratory Services | Chief Management Officer, Office of Workforce and Career Development.
| Coordinating Center for Health Promotion | Chief Management Officer, Coordinating Center for Health Promotion.
| Coordinating Center for Environmental Health, Injury Prevention, and Occupational Health | Chief Management Officer, Coordinating Center for Environmental Health, Injury Prevention, and Occupational Health.
| Office of Chief Counsel | Associate Deputy Chief Counsel for Drugs and Biologics.
|  | Associate Deputy Chief Counsel for Devices, Foods and Veterinary Medicine.
|  | Deputy Chief Counsel for Program Review.
| Office of Management | Director, Office of Acquisitions and Grants Services.
| Office of Regulatory Affairs | Regional Food and Drug Director, Central Region.
|  | Deputy Director for Investigations.
|  | District Food and Drug Director, Los Angeles District.
|  | Deputy Associate Commissioner for Regulatory Affairs.
|  | Regional Food and Drug Director, Southeast Region.
|  | Regional Food and Drug Director, Northeast Region.
|  | Associate Commissioner for Regulatory Affairs.
|  | Regional Food and Drug Director, Southwest Region.
|  | Director, Office of Criminal Investigations.
|  | Associate Director of Investigations.
|  | District Food and Drug Director, New York District.
| Center for Biologics Evaluation and Research, Food and Drug Administration | Associate Director for Compliance and Biologic Quality.
|  | Director, Office of Compliance and Biologics Quality.
| Center for Drug Evaluation and Research, Food and Drug Administration | Director, Office of Management. Director, Office of Epidemiology and Biostatistics.
|  | Director, Office of New Drug Quality Assessment.
|  | Director, Division of Medical Imaging Surgical and Dental Products.
|  | Senior Advisor for Policy.
|  | Director, Office of Compliance.
|  | Director, Office of Generic Drugs.
| Center for Devices and Radiological Health | Director, Office of Science and Technology.
|  | Director, Office of Compliance.
|  | Director, Office of Device Evaluation.
|  | Director, Office of System and Management.
| Center for Food Safety and Applied Nutrition, Food and Drug Administration | Director, Office of Field Programs. Director, Office of Plant and Dairy Foods and Beverages.
|  | Director, Office of Regulations and Policy.
|  | Director, Office of Seafood.
|  | Director, Office of Premarket Approval.
| Center for Veterinary Medicine, Food and Drug Administration | Director, Office of Science. Director, Office of Surveillance and Compliance.
| Special Programs Bureau | Associate Administrator, Special Programs Bureau.
| HIV/AIDS Bureau | Director, Office of Science and Epidemiology.
| Indian Health Service | Director, Office of Environmental Health and Engineering.
| National Institutes of Health | Director.
|  | Associate Director for Management.
|  | Associate Director for Administrative Management.
|  | Director, Office of Research Information Systems.
| Office of the Director | Associate Director for Security and Emergency Response.
|  | Director, Office of Research Facilities Development and Operations.
|  | Director, Office of Reports and Analysis.
|  | Senior Advisor for Policy.
|  | Associate Director for Disease Prevention.
|  | Director, Office of Medical Applications of Research.
|  | Director, Office of Policy for Extramural Research Administration.
|  | Director, Office of Contracts Management.
|  | Associate Director for Administration.
|  | Scientific Advisor for Capacity Development.
|  | Associate Director for Extramural Affairs.
|  | Director, Office of Strategic Planning for Administration.
|  | Senior Policy Officer (Ethics).
|  | Special Advisor to the Director.
|  | Director, Office of Financial Management.
|  | Deputy Director for Science, Outreach, and Policy.
| National Heart, Lung and Blood Institute | Director, Epidemiology and Biometry Program.
|  | Director, National Center for Sleep Disorders.
|  | Director, Division of Extramural Affairs.
|  | Associate Director for International Programs.
|  | Deputy Director, Division of Heart Vascular Diseases.
|  | Deputy Director, Division of Epidemiology and Clinical Application.
|  | Director, Division of Lung Diseases.
|  | Director, Division of Blood Diseases and Resources.
|  | Director, Office of Biostatics Research.
|  | Director, Division of Heart and Vascular Diseases.
| Intramural Research | Chief, Laboratory of Biochemical Genetics.
|  | Chief, Laboratory of Biochemistry.
|  | Chief, Laboratory of Biophysical Chemistry.
|  | Chief, Laboratory of Cardiac Energetics.
|  | Chief, Intermediary Metabolism and Bioenergetics Section.
|  | Chief, Metabolic Regulation Section.
|  | Chief, Laboratory of Kidney and Electrolyte Metabolism.
|  | Chief, Macromolecules Section.
| National Cancer Institute | Associate Director, Cancer Diagnosis Program.
|  | Associate Director for Budget and Financial Management.
|  | Associate Director, Referral Review and Program Coordination.
|  | Deputy Director for Administrative Operations.
|  | Associate Director for Intramural Management.
|  | Associate Director for Extramural Management.
|  | Deputy Director for Management.
| Division of Cancer Biology, Diagnosis and Centers | Deputy Director, Division of Cancer Biology Diagnosis and Centers.
|  | Chief, Dermatology Branch, Intramural Research Program.
|  | Chief, Cell Mediated Immunity Section.
|  | Chief, Laboratory of Tumor and Biological Immunology, Intramural Research Programs.
|  | Associate Director, Extramural Research Program.
|  | Associate Director, Centers Training and Resources Program.
|  | Chief, Microbial Genetics and Biochemistry Section, Laboratory of Biochemistry.
|  | Chief, Laboratory of Biochemistry Intramural Research Program.
|  | Director, Division of Cancer Biology Diagnosis and Centers.
| Division of Cancer Etiology | Chief, Laboratory of Biology.
|  | Director, Division of Cancer Etiology.
|  | Chief, Laboratory of Experimental Pathology.
|  | Chief, Laboratory of Molecular Carcinogenesis.
| Division of Cancer Prevention and Control | Associate Director, Surveillance Research Program.
|  | Associate Director, Early Development and Conchology Program.
|  | Deputy Director, Division of Cancer Prevention and Control.
| Division of Extramural Activities | Director, Division of Extramural Activities.
|  | Deputy Director, Division of Extramural Activities.
| Division of Cancer Treatment | Associate Director, Cancer Therapy Evaluation Program.
|  | Chief, Radiation Conchology Branch.
| National Institute of Diabetes and Digestive and Kidney Diseases | Associate Director for Management. Director, Division Kidney Urologic and Hematologic Diseases.
|  | Deputy Director for Management and Operations.
|  | Associate Director for Management.
|  | Chief, Laboratory of Molecular and Cellular Biology.
|  | Director, Division of Extramural Activities.
| Intramural Research | Chief, Oxidation Mechanisms Section Laboratory of Bioorganic Biochemistry.
|  | Chief, Section on Biochemical Mechanisms.
|  | Chief, Section on Metabolic Enzymes.
|  | Chief, Section on Physical Chemistry.
|  | Chief, Section on Molecular Structure.
|  | Clinical Director and Chief, Kidney Disease Section.
|  | Chief, Laboratory of Bio-Organic Chemistry.
|  | Chief, Section Carbohydrates Laboratory of Chemistry/National Institute of Diabetes and Digestive and Kidney Diseases.
|  | Chief, Laboratory of Neuroscience, National Institute of Diabetes and Digestive and Kidney Diseases.
|  | Chief, Laboratory of Medicinal Chemistry.
|  | Chief, Laboratory of Biochemistry and Metabolism.
|  | Chief, Morphogenesis Section.
|  | Chief, Theoretical Biophysics Section.
|  | Chief, Section on Molecular Biophysics.
| National Institute of Arthritis and Musculoskeletal and Skin Diseases | Deputy Director. Director, Extramural Program.
|  | Associate Director for Management and Operations.
| National Library of Medicine | Associate Director for Extramural Programs.
|  | Deputy Director, National Library of Medicine.
|  | Deputy Director for Research and Education.
|  | Associate Director for Library Operations.
|  | Associate Director for Extramural Programs.
|  | Director, Information Systems.
|  | Deputy Director, Lister Hill National Center for Biomedical Commissioners.
|  | Director, National Center for Biotechnology Information.
|  | Associate Director for Health and Information Programs Development.
|  | Associate Director for Administrative Management.
|  | Director, Lister Hill National Center for Biomedical Community.
| National Institute of Allergy and Infectious Diseases | Director, Division of Allergy/Immunology/Transplantation.
|  | Chief, Laboratory of Microbial Structure and Function.
|  | Director, Office of Communications and Government Relations.
|  | Chief, Laboratory of Molecular Microbiology.
|  | Chief, Biological Resources Branch.
|  | Head, Lymphocyte Biology Section.
|  | Chief, Laboratory of Infectious Diseases.
|  | Deputy Director, Division of Acquired Immunodeficiency.
|  | Head, Epidemiology Section.
|  | Director, Division of Acquired Immunodeficiency Syndrome.
|  | Director, Division of Intramural Research.
|  | Chief, Laboratory of Malaria Research.
|  | Deputy Chief, Laboratory of Immunology and Head, Lymphocyte Biology Section.
|  | Director, Division of Microbiology/Infectious Diseases.
|  | Chief, Laboratory of Immunogenetics.
|  | Director, Division of Extramural Activities.
|  | Chief, Laboratory of Parasitic Diseases.
| National Institute on Aging | Scientific Director, Gerontology Research Center.
|  | Clinical Director and Chief, Clinical Physiology Branch.
|  | Director of Management.
|  | Associate Director, Biology of Aging Program.
|  | Director of Behavioral and Social Research Program.
|  | Associate Director, Epidemiology, Demography, and Biometry Program.
|  | Associate Director, Office of Planning, Analysis and International Activities.
|  | Director of Neuroscience and Neuropsychology of Aging Program.
|  | Director, of Office of Extramural Affairs.
| National Institute of Child Health and Human Development | Chief, Laboratory of Molecular Genetics. Chief, Section on Molecular Endocrinology.
|  | Chief, Section Neuroendocrinology.
|  | Chief, Section on Microbial Genetics.
|  | Chief, Laboratory of Comparative Ethology.
|  | Associate Director for Administration.
|  | Director, Center for Research for Mothers and Children.
|  | Chief, Section on Growth Factors.
|  | Associate Director for Prevention Research.
|  | Chief, Laboratory of Mammalian Genes and Development.
|  | Director, National Center for Medical Rehabilitation Research.
|  | Chief, Endocrinology and Reproduction Research Branch.
|  | Director, Center for Population Research.
| National Institute of Dental and Craniofacial Research | Chief, Laboratory of Immunology. Associate Director for Management.
|  | Director, Extramural Program.
|  | Associate Director for Management.
|  | Associate Director for Program Development.
|  | Associate Director for International Health.
| National Institute of Environmental Health Sciences | Associate Director for Management. Chief, Laboratory of Molecular Carcinogenesis.
|  | Director, National Institute of Environmental Health Science.
|  | Senior Scientific Advisor.
|  | Director, Environmental Toxicology Program.
|  | Chief, Laboratory of Pulmonary Pathobiology.
|  | Head, Mutagenesis Section.
|  | Head, Mammalian Mutagenesis Section.
| National Institute of General Medical Sciences | Deputy Director, National Institute of General Medical Sciences.
|  | Associate Director for Extramural Activities.
|  | Director, Genetics Program.
|  | Director, Biophysics Physiological Sciences Program Branch.
|  | Director, Division of Pharmacology, Physiology, and Biological Chemistry.
|  | Director, Minority Opportunities In Research Program Branch.
|  | Associate Director for Administration and Operations.
| National Institute of Neurological Disorders and Stroke | Associate Director for Administration. Director, Basic Neuroscientist Program/Chief/Laboratory of Neurochemistry.
|  | Director, Division of Fundamental Neurosciences.
|  | Chief, Laboratory of Molecular and Cellular Neurobiology.
| Intramural Research | Chief Stroke Branch.
|  | Chief, Laboratory of Neural Control.
|  | Chief, Neuroimaging Branch.
|  | Chief, Development and Metabolic Neurology Branch.
|  | Deputy Chief, Laboratory of Central Nervous System Studies.
|  | Chief, Brain Structural Plasticity Section.
|  | Chief, Laboratory of Neurobiology.
|  | Chief, Laboratory of Central Nervous System Studies.
| National Eye Institute | Chief, Laboratory of Sensorimotor Research.
|  | Chief, Laboratory of Molecular and Development Biology.
|  | Chief, Laboratory of Retinal Cell and Molecular Biology.
| National Institute on Deafness and Other Communication Disorders | Chief, Laboratory of Cellular Biology. Associate Director for Administration.
|  | Director, Division of Extramural Research.
|  | Director, Division of Human Communication.
| National Institutes of Health Clinical Center | Chief Financial Officer.
|  | Associate Director for Planning.
|  | Chief Operating Officer.
|  | Associate Chief, Positron Emission Tomography and Radiochemistry.
|  | Deputy Director for Management and Operations.
| Center for Information Technology | Associate Director, Office of Computing Resources Services.
|  | Senior Advisor to Director, Center for Information Technology.
|  | Deputy Director.
|  | Chief, Computer Center Branch.
|  | Director, Center for Information Technology.
|  | Director, Division of Computer System Services.
| John E Fogarty International Center for Advanced Study in the Health Sciences | Deputy Director, Fogarty International Center. Associate Director for International Advanced Studies.
|  | Special Advisor to the Fogarty International Center Director.
| National Center for Research Resources | Associate Director for Biomedical Technology.
|  | Associate Director for Research Infrastructure.
|  | Deputy Director, National Center for Research Resources.
|  | Director, General Clinical Research Center for Research Resources.
|  | Director, National Center for Research Resources.
|  | Associate Director for Comparative Medicine.
| Center for Scientific Review | Director, Division of Biologic Basis of Disease.
|  | Senior Scientific Advisor.
|  | Associate Director for Statistics and Analysis.
|  | Associate Director for Referral and Review.
|  | Director, Division of Physiological Systems.
|  | Director, Division of Clinical and Population-Based Studies.
|  | Director, Division of Molecular and Cellular Mechanisms.
| National Institute of Nursing Research | Director, National Center for Nursing Research.
|  | Deputy Director/Director, Division of Extramural Activities.
| National Human Genome Research Institute | Associate Director for Management.
|  | Director, Division of Intramural Research, National Center Human Genome Research.
|  | Chief, Laboratory of Genetic Disease Research, National Center for Human Genome Research Institute.
|  | Chief, Diagnosis Development Branch, National Center for Human Genome Research Institute.
|  | Deputy Director.
|  | Director, Office of Population Genomics.
| National Institute on Drug Abuse | Associate Director for Clinical Neuroscience and Medical Affairs, Division of Treatment Research and Development.
|  | Senior Advisor and Counselor for Special Initiatives.
|  | Chief, Neuroscience Research Branch.
|  | Director, Medications Development Division.
|  | Director, Division of Clinical Research.
|  | Director, Office of Extramural Program Review.
|  | Associate Director for Management and Operations.
| National Institute of Mental Health | Chief, Section on Histopharmacology.
|  | Chief, Laboratory of Clinical Science.
|  | Chief, Biological Psychiatry Branch.
|  | Chief, Child Psychiatry Branch.
|  | Chief, Neuropsychiatry Branch.
|  | Director, Division of Neuroscience and Behavioral Scientist.
|  | Director, Office of Legislative Analysis and Coordinator.
|  | Executive Officer, National Institute of Mental Health.
|  | Associate Director for Prevention.
|  | Associate Director for Special Populations.
|  | Deputy Director, National Institute of Mental Health.
|  | Director, Division of Mental Disorders, Behavioral Research and Acquired Immunodeficiency Syndrome.
|  | Director, Office on Acquired Immunodeficiency Syndrome.
|  | Director, Division of Services and Intervention Research.
|  | Chief, Section on Cognitive Neuroscience.
|  | Chief, Section on Clinical and Experimental Neuropsychology.
| National Institute on Alcohol Abuse and Alcoholism | Associate Director for Administration. Director, Division of Basic Research.
| Agency for Healthcare Research and Quality | Executive Officer.
DEPARTMENT OF HEALTH AND HUMAN SERVICES OFFICE OF THE INSPECTOR GENERAL | Office of the Inspector General | Principal Deputy Inspector General.
| Office of the Counsel to the Inspector General | Assistant Inspector General for Legal Affairs.
|  | Chief Counsel to the Inspector General.
| Office of Audit Services | Assistant Inspector General for Grants and Internal Activities.
|  | Assistant Inspector General for Audit Management and Policy.
|  | Deputy Inspector General for Audit Services.
|  | Assistant Inspector General for Medicare and Medicaid Service Audits.
|  | Assistant Inspector General for Financial Management and Regional Operations.
| Office of Evaluation and Inspections | Assistant Inspector General for Evaluation and Inspections.
|  | Deputy Inspector General for Evaluation and Inspections.
| Office of Investigations | Assistant Inspector General for Investigations (3 positions).
|  | Deputy Inspector General for Investigations.
| Office of Management and Policy | Assistant Inspector General for Management and Policy (Chief Operating Officer).
|  | Deputy Inspector General for Management and Policy.
|  | Assistant Inspector General for Information Technology (Chief Information Officer).
DEPARTMENT OF HOMELAND SECURITY | Ombudsman, Citizenship and Immigration Services | Deputy Director, Ombudsman.
| National Cybersecurity Center | Chief Technology Officer.
| Office of the Executive Secretary for Operations and Administration | Deputy Executive Secretary, Operations and Administration.
| Office of Operations Coordination and Planning Directorate | Senior Department of Homeland Security Advisor to the Commander, U.S. Northern Command/North American Aerospace Defense Command.
| Office of the General Counsel | Associate General Counsel for Ethics.
|  | Assistant General Counsel for Acquisition and Procurement.
|  | Deputy Associate General Counsel for General Law.
| Office of Civil Rights and Civil Liberties | Deputy Civil Rights and Civil Liberties Officer, Programs and Compliance.
|  | Deputy Civil Rights and Civil Liberties Officer, Equal Employment Opportunity and Diversity Director.
|  | Director, Civil Rights and Civil Liberties Programs Division.
| Domestic Nuclear Detection Office | Assistant Director, Transformational and Applied Research Directorate.
|  | Assistant Director, National Technical Nuclear Forensics Center.
|  | Assistant Director, Product Acquisition and Deployment Directorate.
|  | Assistant Director, Architecture and Plans Directorate.
|  | Chief of Staff.
|  | Assistant Director, Operations Support Directorate.
|  | Deputy Director.
| Office of the Assistant Secretary for Policy | Department of Homeland Security Attache to Mexico.
|  | Associate Director, Identity Management.
| United States Citizenship and Immigration Services | Associate Director, Customer Service. Deputy Chief Counsel for Field Management.
|  | Deputy Associate Director, Office of Management.
|  | Chief, Office of Transformation Coordination.
|  | Deputy Director, Office of Security and Integrity.
|  | Deputy Director, Service Center, Saint Albans, Vermont.
|  | Associate Director, Field Operations.
|  | Chief, Administrative Appeals.
|  | Chief, Verification Division.
|  | District Director, Field Services, Boston, Massachusetts.
|  | District Director, Field Services, Chicago, Illinois.
|  | Deputy Chief, Office of Transformation Coordination.
|  | District Director, Field Services, Tampa, Florida.
|  | District Director, Field Services, Newark, New Jersey.
|  | District Director, Field Services, Atlanta, Georgia.
|  | Chief, Office of Security and Integrity.
|  | Associate Director, Enterprise Services Division.
|  | Deputy Associate Director, Refugee, Asylum and International Operations.
|  | Associate Director, Service Center Operations.
|  | Director, Los Angeles Asylum Office.
|  | Director, National Records Center.
|  | Deputy Director, Service Center, Laguna Niguel, California.
|  | Deputy Director, Service Center, Dallas, Texas.
|  | Chief, International Operations.
|  | Deputy Director, Service Center, Lincoln, Nebraska.
|  | Chief Financial Officer.
|  | District Director, Field Services, Miami, Florida.
|  | Chief, Office of Administration.
|  | Director, National Benefits Center.
|  | District Director, Field Services, Los Angeles California.
|  | District Director, Field Services, San Francisco California.
|  | Regional Director, Southeast Region.
|  | Associate Director, Fraud Detection and National Security.
|  | Chief, Office of Public Engagement.
|  | Director, Office of Refugee Affairs.
|  | Chief, Performance and Quality.
|  | Chief Information Officer.
|  | Associate Director, Office of Management.
|  | Director, Service Center, Lincoln, Nebraska.
|  | Director, Service Center, Laguna Niguel, California.
|  | Director, Service Center, Dallas, Texas.
|  | Director, Service Center, Saint Albans, Vermont.
|  | Central Regional Director (Dallas, Texas).
|  | Western Regional Director, Laguna Niguel, California.
|  | Eastern Regional Director, Burlington, Vermont.
|  | Chief, Intake and Document Production.
|  | Deputy General Counsel.
|  | Associate Director, Refugee, Asylum and International Operations.
|  | Chief, Asylum.
|  | Deputy Associate Director, Service Center Operations.
|  | District Director, Field Services, New York, New York.
|  | Deputy Associate Director, Enterprise Services Division.
|  | Deputy Associate Director, Office of Field Operations.
|  | Chief, Human Capital and Training.
| United States Secret Service | Special Agent In Charge, Vice Presidential Protective Division.
|  | Special Agent In Charge, Technical Security Division.
|  | Special Agent In Charge, Philadelphia Field Office.
|  | Chief Counsel.
|  | Director, United States Secret Service.
|  | Special Agent In Charge, Los Angeles Field Office.
|  | Deputy Director, United States Secret Service.
|  | Assistant Director, Investigations.
|  | Assistant Director, Protective Operations.
|  | Assistant Director, Office of Technical Development and Mission Support.
|  | Assistant Director, Office of Administration.
|  | Assistant Director, Office of Professional Responsibility.
|  | Deputy Assistant Director, Protective Operations.
|  | Special Agent In Charge, Presidential Protective Division.
|  | Special Agent In Charge, New York Field Office.
|  | Assistant Director, Human Resources and Training.
|  | Deputy Assistant Director, Office of Investigations.
|  | Deputy Assistant Director, Office of Protective Operations.
|  | Chief Financial Officer.
|  | Special Agent In Charge, San Francisco Field Office.
|  | Special Agent In Charge, Dallas Field Office.
|  | Deputy Chief Counsel.
|  | Special Agent In Charge, Dignitary Protective Division.
|  | Deputy Assistant Director, Administration.
|  | Deputy Special Agent In Charge, Presidential Protective Division.
|  | Deputy Assistant Director, Human Resources and Training.
|  | Deputy Assistant Director, Investigations.
|  | Special Agent In Charge, Houston Field Office.
|  | Deputy Assistant Director, Rowley Training Center.
|  | Deputy Assistant Director, Technical Development and Mission Support.
|  | Deputy Special Agent In Charge, White House Complex.
|  | Chief Information Officer.
|  | Deputy Special Agent In Charge, Vice Presidential Protective Division.
|  | Special Agent In Charge, Atlanta Field Office.
|  | Special Agent In Charge, Honolulu Field Office.
|  | Special Agent In Charge, Washington Field Office.
|  | Component Acquisition Executive.
|  | Special Agent In Charge, Criminal Investigative Division.
|  | Special Agent In Charge, Rowley Training Center.
|  | Special Agent In Charge, Rome Field Office.
|  | Special Agent In Charge, Special Operations Division.
|  | Deputy Assistant Director, Office of Government and Public Affairs.
|  | Deputy Assistant Director, Office of Investigations.
|  | Deputy Assistant Director, Technical Development and Mission Support.
|  | Special Agent In Charge, Chicago Field Office.
|  | Assistant Director, Office of Government and Public Affairs.
|  | Chief of Staff.
|  | Special Agent In Charge, Protective Intelligence and Assessment Division.
|  | Chief Management Officer.
|  | Assistant Director, Office of Strategic Intelligence and Information.
|  | Deputy Assistant Director, Office of Professional Responsibility.
|  | Deputy Special Agent In Charge (White House Complex).
|  | Deputy Assistant Director, Strategic Intelligence and Information.
| United States Coast Guard | Deputy Director of Acquisition Programs.
|  | Deputy Chief Financial Officer.
|  | Director, Marine Transportation System Management.
|  | Director, Coast Guard Investigative Service.
|  | Chief Procurement Law Counsel and Chief Trial Attorney.
|  | Director, Command, Control, Communications, Computers (C4) and Information Technology Service Center.
|  | Senior Procurement Executive/Head of Contracting Activity.
|  | Deputy Assistant Commandant for Acquisition/Director of Acquisition Services.
|  | Director, Global Maritime Operational Threat Response Coordination Center.
|  | Director, National Pollution Funds Center.
|  | Deputy Assistant Commandant for Intelligence and Criminal Investigations.
|  | Director, Incident Management and Preparedness Policy.
|  | Director of Financial Operations/Comptroller.
| Office of the Under Secretary for National Protection and Programs Directorate | Assistant Director, Program Integration and Mission Services Division.
|  | Director, National Communications System.
|  | Director, Federal Protective Service.
|  | Director, Infrastructure Partnerships Division.
|  | Director, National Cyber Security Division.
|  | Deputy Director, United States, Visit Program.
|  | Director, Protective Security Coordination.
|  | Deputy Assistant Secretary for Infrastructure Protection.
|  | Deputy Manager, National Communications System.
|  | Chief Operating Officer.
|  | Assistant Director, Office of Resource Management.
|  | Director, Sector Specific Agency Executive Management Office.
|  | Assistant Director for Field Operations (East), Federal Protective Service.
|  | Deputy Director, National Cyber Security Division.
|  | Director, Critical Infrastructure Cyber Protection and Awareness.
|  | Deputy Assistant Secretary for Cyber Security.
|  | Director, Office of Emergency Communications.
|  | Director, Infrastructure Security Compliance Division.
|  | Director, Budget, Finance and Acquisition.
|  | Deputy Director, Infrastructure Security Compliance Division.
|  | National Protection and Programs Directorate, Chief Information Officer.
|  | Deputy Director, National Cybersecurity Center.
|  | Director, Federal Network Security.
|  | Director, Office of Compliance and Security.
|  | Director, Management.
|  | Director, Human Resources Management.
|  | Chief Technology Officer, Cyber Security and Communications.
|  | Principal Deputy Assistant Secretary for Infrastructure Protection.
|  | Director, United States Computer Emergency Readiness Team (Cert) Operations.
|  | Assistant Director, Office of Resource Management, Federal Protective Service.
|  | Assistant Director, Office of Training and Career Development, Federal Protective Service.
|  | Senior Counselor to the Under Secretary for National Protection and Programs Directorate.
|  | Assistant Director of Operations, Federal Protective Services.
|  | Assistant Director for Field Operations, National Capital Region, Federal Protective Services.
|  | Assistant Director of Field Operations (West), Federal Protective Services.
|  | Assistant Director of Field Operations (Central), Federal Protective Services.
|  | Director, Global Cyber Security Management.
|  | Director, Network Security Deployment.
|  | Deputy Assistant Secretary, Communications.
|  | Director, National Cybersecurity and Communications Integration Center (NCCIC).
|  | Chief Technology Officer, United States Visit Program.
| Office of the Under Secretary for Intelligence and Analysis | Director for Strategy, Plans, and Policy. Director, Mission Support Division.
|  | Principal Deputy Director, Terrorist Screening Center.
|  | Director, Production Management Division.
|  | Director, Cyber, Infrastructure, and Science Division.
|  | Chief of Staff.
|  | Director, Collection Requirements Division.
|  | Principal Deputy Counter Terrorism Coordinator.
|  | Director, Border Intelligence Fusion Section.
| Assistant Secretary for Health Affairs and Chief Medical Officer | Principal Deputy Assistant Secretary for Health Affairs/Deputy Chief Medical Officer.
|  | Associate Chief Medical Officer.
| United States Immigration and Customs Enforcement | Special Agent In Charge, Phoenix. Special Agent In Charge, El Paso.
|  | Special Agent In Charge, Miami.
|  | Deputy Assistant Director, National Security Investigations.
|  | Special Agent In Charge, New York.
|  | Deputy Director, Office of Homeland Security Investigations.
|  | Senior Management Counsel.
|  | Deputy Assistant Secretary, Operations.
|  | Assistant Director, Diversity and Civil Rights.
|  | Deputy Assistant Director, Critical Infrastructure, Protection, and Fraud.
|  | Director, Office of Budget and Program Performance.
|  | Senior Policy Administrator, Brussels.
|  | Deputy Assistant Director, Mission Support.
|  | Director of Enforcement and Litigation.
|  | Director, Office of Enforcement and Removal Operations.
|  | Special Agent In Charge, Seattle.
|  | Deputy Assistant Director, Financial, Narcotics and Public Safety.
|  | Director, International Affairs.
|  | Director, Intelligence.
|  | Special Agent In Charge, Chicago.
|  | Special Agent In Charge, Houston.
|  | Special Agent In Charge, Los Angeles.
|  | Special Agent In Charge, New Orleans.
|  | Special Agent In Charge, San Antonio.
|  | Special Agent In Charge, San Diego.
|  | Director, Office of Professional Responsibility.
|  | Special Agent In Charge, Dallas.
|  | Special Agent In Charge, San Francisco.
|  | Chief Information Officer.
|  | Assistant Director for Secure Communities and Enforcement, Office of Enforcement and Removal Operations.
|  | Director, Office of Procurement.
|  | Chief Financial Officer.
|  | Assistant Director for Management, Office of Enforcement and Removal Operations.
|  | Director, Financial Management.
|  | Special Agent In Charge, Atlanta.
|  | Director, Office of Homeland Security Investigations.
|  | Deputy Principal Legal Advisor.
|  | Assistant Director, Human Resources Management.
|  | Deputy Director, Office of Professional Responsibility.
|  | Assistant Director for Investigations, Office of Professional Responsibility.
|  | Director, Office of Training and Career Development.
|  | Field Office Director, Office of Enforcement and Removal Operations, San Diego, California.
|  | Field Office Director, Office of Enforcement and Removal Operations, San Antonio, Texas.
|  | Assistant Director, Detention Management, Office of Enforcement and Removal Management.
|  | Deputy Director, Medical Affairs, Office of Enforcement and Removal Operations.
|  | Deputy Principal Legal Advisor for Management.
|  | Deputy Principal Legal Advisor for Field Operations.
|  | Deputy Principal Legal Advisor for Headquarters.
|  | Deputy Director, Enforcement and Removal Operations.
|  | Special Agent In Charge, Washington, DC.
|  | Deputy Director, International Affairs.
|  | Deputy Chief Financial Officer.
|  | Assistant Director for Field Operations, Office of Enforcement and Removal Operations.
|  | Executive Director, State and Local Coordination.
|  | Chief Counsel, New York City.
|  | Chief Counsel, Los Angeles.
|  | Executive Director, Law Enforcement Information Sharing Initiative.
|  | Special Agent In Charge, Detroit.
|  | Deputy Chief Information Officer.
|  | Assistant Director for Enforcement, Office of Enforcement and Removal Operations.
|  | Director, Intellectual Property Enforcement Operations.
|  | Deputy Assistant Director, Homeland Security Investigative Services.
|  | Assistant Director, Operations.
|  | Deputy Assistant Secretary for Management.
|  | Assistant Director, Mission Support, Office of Enforcement and Removal Operations.
|  | Deputy Assistant Director, Criminal Alien Division, Office of Enforcement and Removal Operations.
|  | Assistant Director for Detention Oversight and Inspections.
|  | Deputy Assistant Director, Domestic Operations.
|  | Field Office Director, Office of Enforcement and Removal Operations, Phoenix, Arizona.
|  | Field Office Director, Office of Enforcement and Removal Operations, Los Angeles, California.
|  | Field Office Director, Office of Enforcement and Removal Operations, New York City, New York.
|  | Special Agent In Charge, Saint Paul, Minnesota.
|  | Special Agent In Charge, Tampa, Florida.
|  | Special Agent In Charge, Newark, New Jersey.
|  | Special Agent In Charge, Boston, Massachusetts.
|  | Special Agent In Charge, Philadelphia, Pennsylvania.
|  | Special Agent In Charge, Buffalo, New York.
|  | Deputy Director, Office of Detention Policy and Planning.
|  | Special Agent In Charge, San Juan, Puerto Rico.
|  | Director, Federal Export Enforcement Coordination Center.
|  | Special Agent In Charge, Denver.
|  | Assistant Director, Homeland Security Investigative Programs.
|  | Field Office Director, Office of Enforcement and Removal Operations, Miami, Florida.
| United States Customs and Border Protection | Director, Field Operations, Tucson.
|  | Executive Director, Enterprise Data Management and Engineering.
|  | Deputy Assistant Commissioner, Internal Affairs.
|  | Chief, Northern Border and Coastal Division.
|  | Executive Director, Mission Support, Office of Customs and Border Protection Air and Marine.
|  | Deputy Assistant Commissioner, Technology Innovation and Acquisition.
|  | Executive Director, Trade Policy and Programs.
|  | Executive Director, Operations, Air and Marine.
|  | Chief Patrol Agent, Rio Grande Valley.
|  | Executive Director, Mission Support.
|  | Executive Director, Enterprise Networks and Technology Support.
|  | Chief, Southwest Border Division.
|  | Director, Field Operations (Atlanta).
|  | Executive Director, Cargo and Conveyance Security.
|  | Deputy Director, Policy and Planning.
|  | Assistant Commissioner, Air and Marine.
|  | Chief Patrol Agent, Del Rio.
|  | Executive Director, Admissibility and Passenger Programs.
|  | Chief Patrol Agent, Yuma, Arizona.
|  | Executive Director, Agriculture Programs and Trade Liaison.
|  | Executive Director, Mission Support.
|  | Assistant Commissioner, Administration.
|  | Executive Director, Procurement.
|  | Port Director, San YSIDRO.
|  | Executive Director, Equal Opportunity.
|  | Chief, Operations Planning and Analysis Division.
|  | Deputy Assistant Commissioner, Office of Intelligence and Operations Coordination.
|  | Port Director, Laredo.
|  | Executive Director, Financial Operations.
|  | Executive Director, Commercial Targeting and Enforcement.
|  | Executive Director, Human Resources Operations, Programs and Policy.
|  | Executive Director, Training, Safety and Standards.
|  | Executive Director, National Air Security Operations, Office of Customs and Border Protection Air and Marine.
|  | Deputy Chief, Southwest Border Division.
|  | Executive Director, Cargo Systems Programs Office.
|  | Executive Director, Field Support.
|  | Executive Director, Targeting and Analysis Systems.
|  | Deputy Director, El Paso Intelligence Center.
|  | Deputy Assistant Commissioner, International Affairs.
|  | Director, Border Enforcement Coordination Cell, El Paso.
|  | Executive Director, Passenger Systems Program Office.
|  | Director of Operations, Southwest Border, Office of Customs and Border Protection Air and Marine.
|  | Executive Director, Intelligence and Targeting.
|  | Director, Air and Marine Operations Center, Riverside, Office of Customs and Border Protection Air and Marine.
|  | Director of Operations, Southeastern Border, Miami, Florida, Office of Customs and Border Protection Air and Marine.
|  | Director of Operations, Northern Border, Detroit, Michigan, Office of Customs and Border Protection Air and Marine.
|  | Deputy Commissioner.
|  | Executive Director, Program Management Office.
|  | Deputy Chief Patrol Agent, San Diego.
|  | Chief Patrol Agent, El Centro, California.
|  | Deputy Chief Patrol Agent, Tucson.
|  | Joint Field Commander, State of Arizona, Joint Operations Directorate.
|  | Deputy Joint Field Commander.
|  | Executive Director, Programming.
|  | Executive Director, Joint Operations Directorate.
|  | Executive Director, Acquisition Management.
|  | Executive Director, Automated Commercial Environment Business Office.
|  | Assistant Commissioner, Office of Intelligence and Operations Coordination.
|  | Deputy Director, Procurement.
|  | Director, Field Operations, San Juan.
|  | Deputy Chief Patrol Agent, Rio Grande Valley.
|  | Assistant Commissioner, Technology Innovation and Acquisition.
|  | Deputy Chief Patrol Agent, El Paso.
|  | Port Director, JFK Airport.
|  | Executive Director, Planning, Program Analysis and Evaluation.
|  | Deputy Chief Counsel.
|  | Assistant Commissioner, Human Resources Management.
|  | Deputy Assistant Commissioner, Human Resources Management.
|  | Executive Director, Labor and Employee Relations.
|  | Executive Director, Facilities Management and Engineering.
|  | Assistant Commissioner, Training and Development.
|  | Assistant Commissioner, Office of International Trade.
|  | Executive Director, Regulatory Audit.
|  | Executive Director, Regulations and Rulings.
|  | Deputy Assistant Commissioner, Administration.
|  | Executive Director, Budget.
|  | Deputy Director, Procurement.
|  | Assistant Commissioner, Information and Technology.
|  | Director, Field Operations, Boston.
|  | Port Director, Los Angeles Airport.
|  | Executive Director, Laboratories and Scientific Services.
|  | Assistant Commissioner, Field Operations.
|  | Deputy Assistant Commissioner, Field Operations.
|  | Deputy Chief, Border Patrol.
|  | Executive Director, Operations.
|  | Director, Field Operations, Seattle.
|  | Director, Field Operations, Detroit.
|  | Director, Field Operations, Buffalo.
|  | Deputy Assistant Commissioner, Office of Training and Development.
|  | Director, Field Operations, New York.
|  | Principal Executive for the Management of Resources.
|  | Port Director, Newark.
|  | Port Director, Miami International Airport.
|  | Director, Field Operations, Miami.
|  | Director, Field Operations, Chicago.
|  | Director, Field Operations, Los Angeles.
|  | Director, Field Operations, Houston.
|  | Director, Field Operations, Laredo.
|  | Director, Field Operations, San Diego.
|  | Deputy Assistant Commissioner, Air and Marine.
|  | Chief, Border Patrol.
|  | Chief Patrol Agent—Laredo Sector.
|  | Director, Field Operations, San Francisco.
|  | Chief Patrol Agent, El Paso.
|  | Chief Patrol Agent, San Diego.
|  | Director, Field Operations, El Paso.
|  | Associate Chief Counsel, Enforcement.
|  | Associate Chief Counsel, Trade, Tariffs and Legislation.
|  | Associate Chief Counsel, Administration.
|  | Associate Chief Counsel, Southeast.
|  | Associate Chief Counsel, New York.
|  | Associate Chief Counsel, Chicago.
|  | Associate Chief Counsel, Houston.
|  | Associate Chief Counsel, Los Angeles.
|  | Executive Director, Customs and Border Protection Basic Training.
|  | Chief Patrol Agent, Tucson.
|  | Port Director, Los Angeles/Long Beach Seaport.
|  | Port Director, El Paso.
|  | Deputy Assistant Commissioner, Information and Technology.
|  | Assistant Commissioner, Internal Affairs.
|  | Deputy Assistant Commissioner, International Trade.
|  | Executive Director, National Targeting Center.
|  | Port Director, San Francisco.
| Federal Law Enforcement Training Center | Chief Counsel.
|  | Director, Federal Law Enforcement Training Center.
|  | Deputy Director, Federal Law Enforcement Training Center.
|  | Assistant Director, Administration.
|  | Assistant Director, Field Training.
|  | Assistant Director, Training Innovation and Management Directorate.
|  | Assistant Director (Training Directorate).
|  | Assistant Director, Chief Information Officer.
|  | Deputy Assistant Director, Office of Artesia Operations.
|  | Assistant Director, Washington Office.
| Federal Emergency Management Agency | Deputy Chief Financial Officer.
|  | Deputy Federal Insurance and Mitigation Administrator, Mitigation.
|  | Director, National Processing Service Center.
|  | Chief, Risk Reduction Branch (Mitigation).
|  | Chief Financial Officer.
|  | Deputy Chief Component Human Capital Officer.
|  | Director, Grants Management Division.
|  | Director, National Exercise Division.
|  | Chief Procurement Officer.
|  | Deputy Associate Administrator, Mission Support Bureau.
|  | Deputy Federal Insurance and Mitigation Administrator, Insurance.
|  | Deputy Chief Component Human Capital Officer.
|  | Director, National Training and Education Division.
|  | Director, Acquisition Programs and Planning Division.
|  | Director, Acquisition Operations Division.
|  | Director, Federal Coordinating Officer Operations.
|  | Deputy Assistant Administrator for Response.
|  | Deputy Executive Administrator, Mount Weathers Emergency Operations Center.
|  | Director, Emergency Communication Division.
|  | Executive Director for Readiness.
|  | Deputy Director, External Affairs.
|  | Director, National Preparedness Assessment Division.
|  | Deputy Chief Administrative Officer.
|  | Superintendent, Center for Domestic Preparedness.
|  | Deputy Chief Counsel.
|  | Deputy Assistant Administrator, Grants Program.
|  | Director, Financial Management Division.
|  | Director, Technological Hazards Division.
|  | Deputy Director, Policy and Program Analysis.
|  | Chief Administrative Officer.
|  | Senior Counselor to the Administrator and International Relations Officer.
|  | Chief Security Officer.
|  | Deputy Assistant Administrator for Long-Term Recovery.
| Office of Security | Chief Personnel Security Officer.
|  | Chief Security Officer.
|  | Chief, Counterintelligence and Investigations.
|  | Deputy Chief Security Officer.
| Office of the Chief Financial Officer | Director, Departmental General Accounting Office/Inspector General Liaison Office.
|  | Deputy Director, Financial Management.
|  | Director, Financial Management.
|  | Director, Program Analysis and Evaluation.
|  | Director, Resource Management Transformation Office.
|  | Director, Office of Budget.
|  | Director, Internal Control and Risk Management Division.
| Office of Procurement | Executive Director, Program Accountability and Risk Management Office.
|  | Executive Director, Office of Procurement Operations.
|  | Director, Strategic Initiatives (Acquisition).
|  | Senior Counselor.
|  | Director, Enterprise Acquisition and Information Technology.
|  | Director, Acquisition Program Management.
|  | Director, Procurement Policy and Oversight.
|  | Director, Oversight and Strategic Support.
|  | Chief Procurement Officer.
|  | Deputy Chief Procurement Officer.
| Office of the Chief Human Capital Officer | Executive Director, Policy and Programs.
|  | Deputy Chief Human Capital Officer.
|  | Executive Director, Diversity and Inclusion.
|  | Executive Director, Human Capital Business Systems.
|  | Executive Director, Human Resources Management and Services.
| Office of the Chief Information Officer | Executive Director, Customer Relationship Management Division.
|  | Director, Enterprise Business Management Office.
|  | Executive Director, Information Technology Services Office.
|  | Deputy Chief Information Officer.
|  | Deputy Executive Director, Information Technology Services Office.
|  | Director, Chief Information Security Office.
|  | Director, Office of Applied Technology.
|  | Executive Director, Information Sharing.
|  | Director, Enterprise System Development Office.
| Office of Administration | Director, Administrative Operations.
|  | Director of Asset and Logistics Management.
|  | Director, Safety and Environmental Programs.
|  | Deputy, Chief Administrative Services Officer.
|  | Director, Headquarters Management and Development.
| Office of the Under Secretary for Science and Technology | Director, Office of National Laboratories. Director, Explosives Division.
|  | Director, Infrastructure Protection and Disaster Management Division.
|  | Director, Finance and Budget Division.
|  | Director, Capstone Analysis and Requirements Office.
|  | Deputy Director, Homeland Security Advanced Research Projects Agency.
|  | Director, Human Factors/Behavioral Sciences Division.
|  | Director, Acquisition Support and Operations Analysis Division.
|  | Director, Interagency Office.
|  | Director, Chemical Biological Defense Division.
|  | Director, Borders and Maritime Security Division.
|  | Director, Test and Evaluations and Standards Office.
DEPARTMENT OF HOMELAND SECURITY OFFICE OF THE INSPECTOR GENERAL | Department of Homeland Security Office of the Inspector General | Deputy Assistant Inspector General, Investigations.
|  | Assistant Inspector General for Management.
|  | Assistant Inspector General, Audits.
|  | Counsel to the Inspector General.
|  | Assistant Inspector General, Investigations.
|  | Assistant Inspector General, Information Technology Audits.
|  | Deputy Assistant Inspector General, Audits.
|  | Assistant Inspector General for Emergency Management Oversight.
|  | Deputy Assistant Inspector General, Emergency Management Oversight.
|  | Deputy Assistant Inspector General, Audits.
|  | Deputy Inspector General.
|  | Deputy Assistant Inspector General, Investigations.
|  | Assistant Inspector General, Inspections.
DEPARTMENT OF HOUSING AND URBAN DEVELOPMENT | Office of the Secretary | Director, Office of Hearings and Appeals.
| Office of the Deputy Secretary | Chief Disaster and Emergency Operations Officer.
| Office of Strategic Planning and Management | Director, Grants Management Center.
| Office of the General Counsel | Director, Departmental Enforcement Center.
|  | Associate General Counsel for Program Enforcement.
|  | Deputy Director, Operations and Compliance.
|  | Senior Counsel (Appeals, ODSEEO Advice and Special Projects).
| Office of the Chief Financial Officer | Deputy Chief Financial Officer.
|  | Assistant Chief Financial Officer for Accounting.
|  | Assistant Chief Financial Officer for Financial Management.
|  | Assistant Chief Financial Officer for Budget.
| Office of the Administration | Chief Learning Officer.
| Office of the Chief Procurement Officer | Deputy Chief Procurement Officer.
| Office of Policy Development and Research | Chief of Staff to the Deputy Secretary.
|  | Associate Deputy Assistant Secretary for Policy Development.
| Office of Housing | Associate Deputy Assistant Secretary for Single Family Housing.
|  | Deputy Assistant Secretary for Finance and Budget.
|  | Director, Office of Program Systems Management.
|  | Housing Federal Housing Administration Deputy Comptroller.
|  | Housing Federal Housing Administration Comptroller.
| Office of Departmental Equal Employment Opportunity | Director, Office of Departmental Equal Employment Opportunity.
| Office of Community Planning and Development | Deputy Assistant Secretary for Special Needs Programs.
|  | Director, Office of Community Viability.
| Government National Mortgage Association | Senior Vice President and Chief Risk Officer.
|  | Senior Vice President, Office of Finance.
|  | Senior Vice President, Office of Capital Markets.
|  | Senior Vice President for Mortgage-Backed Securities.
|  | Senior Vice President, Office of Management Operations.
|  | Senior Vice President, Office of Program Operations.
| Office of Public and Indian Housing | Director, Office of Housing Voucher Programs.
|  | General Deputy Assistant Secretary for Public and Indian Housing.
|  | Deputy Assistant Secretary for the Real Estate Assessment Center.
DEPARTMENT OF HOUSING AND URBAN DEVELOPMENT OFFICE OF THE INSPECTOR GENERAL | Office of the Inspector General | Deputy Assistant Inspector General for Audit, Special Operations. Counsel to the Inspector General.
|  | Assistant Inspector General for Investigation.
|  | Assistant Inspector General for Audit.
|  | Deputy Inspector General.
|  | Deputy Assistant Inspector General for Audit (Field Operations).
|  | Deputy Assistant Inspector General for Investigation (Headquarters Operations).
|  | Deputy Assistant Inspector General for Audit (Headquarters Operations).
|  | Deputy Assistant Inspector General for Management and Policy.
|  | Deputy Assistant Inspector General for Investigation (Field Operations).
|  | Assistant Inspector General for Management and Policy.
DEPARTMENT OF THE INTERIOR | Office of the Solicitor | Associate Solicitor for Administration.
|  | Director, Office of Administration.
|  | Deputy Associate Solicitor, Division of Parks and Wildlife.
|  | Deputy Associate Solicitor, Mineral Resources.
|  | Director, Indian Trust Litigation Office.
|  | Deputy Associate Solicitor, General Law.
|  | Designated Agency Ethics Official.
|  | Deputy Associate Solicitor, Division of Land and Water Resources.
| Office of the Inspector General | Assistant Inspector General for Administrative Services and Information Management.
|  | Deputy Assistant Inspector General for Investigations.
|  | Deputy Assistant Inspector General for Administrative Services and Information Management.
|  | Chief Information Officer.
|  | Assistant Inspector General for Investigations.
|  | Deputy Inspector General.
|  | Assistant Inspector General for Auditing.
|  | Deputy Assistant Inspector General for Audits.
| Assistant Secretary—Policy, Management and Budget | Deputy Assistant Secretary, Budget and Business Management.
|  | Deputy Assistant Secretary, Law Enforcement, Security and Emergency Management.
|  | Geospatial Information Officer.
|  | Deputy Assistant Secretary, Human Capital and Diversity.
|  | Director, Office of Law Enforcement and Security.
|  | Deputy Chief Human Capital Officer.
|  | Deputy Director, Office of Financial Management.
|  | Associate Director for Financial Policy and Operations.
|  | Manager, Science and Engineering.
|  | Director, Office of Human Resources.
|  | Assistant Director for Economics.
|  | Chief Division of Budget and Program Review.
|  | Director, Office of Financial Management and Deputy Chief Financial Officer.
| Office of Hearings and Appeals | Director, Office of Hearings and Appeals.
| United States Fish and Wildlife Service | Chief, Office of Law Enforcement.
| National Park Service | Financial Advisor, Comptroller.
| Field Offices | Park Manager, Superintendent.
|  | Park Manager Everglades.
|  | Park Manager-Yosemite, Superintendent.
|  | Park Manager (2 positions).
|  | Superintendent (Park Manager), Everglades National Park.
|  | Director, Technical Services Center.
|  | Director, Management Services Office.
| United States Geological Survey | Chief, Geospatial Information, Integration and Analysis.
|  | Director, Office of Communications and Outreach.
|  | Deputy Director, United States Geological Survey.
|  | Associate Chief Biologist for Information.
|  | Associate Director for Natural Hazards.
|  | Associate Director for Human Capital.
|  | Associate Director for Water.
|  | Associate Director for Core Science Systems.
|  | Director, Office of Science Quality and Integrity.
|  | Associate Director for Ecosystems.
|  | Associate Director for Energy, Minerals and Environmental Health.
|  | Chief Scientist for Hydrology.
|  | Associate Director for Administrative Policy and Services.
|  | Associate Director for Climate Variability and Land Use Change.
|  | Chief Scientist for Biology.
|  | Chief, Office of Budget and Performance.
| Field Offices | Regional Executive, South Central.
|  | Regional Executive, Southeast.
|  | Regional Executive, Rocky Mountain.
|  | Regional Executive, North Central.
|  | Regional Executive, Midwest.
|  | Regional Executive, Northwest.
|  | Regional Executive, Southwest.
|  | Regional Executive, Alaska.
|  | Regional Executive, Northeast.
|  | Deputy Assistant Director, Fire and Aviation at National Interagency Fire Center.
|  | Regional Director.
|  | Regional Director.
| Bureau of Ocean Energy Management | Program Director for Financial and Program Management.
|  | Chief, Offshore Engineering and Operations Division.
|  | Associate Director for Policy and Management Improvement.
|  | Strategic Resources Chief.
| Field Offices | Regional Director, Alaska Outer Continental Shelf Region.
|  | Regional Director, Gulf of Mexico Outer Continental Shelf Region.
|  | Deputy Associate Director for Minerals Revenue Management.
|  | Program Director for Asset Management.
|  | Program Director for Audit and Compliance Management.
| Assistant Secretary—Indian Affairs | Director of Human Capital Management.
| Bureau of Indian Affairs | Deputy Director, Field Operations.
DEPARTMENT OF THE INTERIOR OFFICE OF THE INSPECTOR GENERAL | Office of the Inspector General | Chief of Staff. Chief of Staff.
|  | Deputy Inspector General.
| Office of General Counsel | General Counsel.
| Office of Recovery and Accountability | Assistant Inspector General for Recovery Oversight.
| Office of Investigations | Assistant Inspector General for Investigations.
| Office of Management | Deputy Assistant Inspector General for Management.
|  | Deputy Assistant Inspector General for Management.
|  | Assistant Inspector General for Management.
| Office of Information Technology | Assistant Inspector General for Information Technology.
| Office of Audits, Inspections, and Evaluations | Assistant Inspector General for Audits, Inspections and Evaluations.
|  | Deputy Assistant Inspector General for Compliance and Finance.
DEPARTMENT OF JUSTICE | Office of the Deputy Attorney General | Chief.
| Office of the Legal Counsel | Special Counsel.
|  | Special Counsel.
| Office of Professional Responsibility | Counsel on Professional Responsibility.
|  | Deputy Counsel on Professional Responsibility.
| Office of Dispute Resolution | Senior Counsel for Alternative Dispute Resolution.
| Justice Management Division | Special Assistant for Offices, Boards and Divisions, Information Technology Solutions.
|  | Director, Asset Forfeiture Management Staff.
|  | Deputy Chief Information Officer for Information Technology Security.
|  | Deputy Director, Budget Staff, Programs and Performance.
|  | Deputy Director, Auditing.
|  | Deputy Director, Human Resources.
|  | Assistant Attorney General for Administration.
|  | Deputy Assistant Attorney General, Policy, Management and Planning.
|  | Director, Human Resources.
|  | Director, Security and Emergency Planning Staff.
|  | Deputy Assistant Attorney General, Controller.
|  | Deputy Assistant Attorney General for Human Resources and Administration.
|  | Director Library Staff.
|  | Director, Facilities and Administrative Services Staff.
|  | Director, Office of Attorney Recruitment and Management.
|  | Deputy, Chief Information Officer for E-Government Services Staff.
|  | Director, Information Technology Policy and Planning Staff.
|  | Director, Operations Services Staff.
|  | Director, Management and Planning Staff.
|  | Director, Budget Staff.
|  | Director, Debt Collection Management Staff.
|  | Senior Policy Advisor.
|  | Chief Information Officer.
|  | Director, Procurement Services Staff.
|  | General Counsel.
|  | Director, Equal Employment Opportunity Staff.
|  | Director, Enterprise Solutions Staff.
|  | Director, Departmental Ethics Office.
|  | Deputy Director, Budget Staff, Operations and Funds Control.
|  | Director Finance Staff.
| Professional Responsibility Advisory Office | Director, Professional Responsibility Advisory Office.
| Office of Federal Detention Trustee | Director, JPATS.
|  | Federal Detention Trustee.
| Federal Bureau of Prisons | Warden, Federal Correctional Complex, Oakdale, Louisiana.
|  | Warden, Federal Medical Center, Carswell, Texas.
|  | Warden, Federal Correctional Complex, Allenwood, Pennsylvania.
|  | Warden, Federal Transfer Center, Oklahoma City, Oklahoma.
|  | Senior Deputy Assistant Director, Administration.
|  | Warden, Federal Correctional Institution, El Reno, Oklahoma.
|  | Warden, Federal Detention Center, Miami, Florida.
|  | Warden, Federal Correctional Institution, Fairton, New Jersey.
|  | Senior Deputy Assistant Director, Program Review Division.
|  | Warden, Federal Correctional Institution, Edgefield, South Carolina.
|  | Warden, Federal Correction Complex, Petersburg, Virginia.
|  | Warden, United States Penitentiary, Big Sandy, Kentucky.
|  | Senior Counsel, Office of General Counsel.
|  | Warden, United States Penitentiary, Lee, Virginia.
|  | Warden, United States Penitentiary, Atwater, California.
|  | Warden, Federal Correctional Complex, Coleman, Florida.
|  | Warden, Federal Correctional Institution, Beckley, West Virginia.
|  | Warden, Federal Correctional Institution, Jessup, Georgia.
|  | Warden, Federal Correctional Institution, Otisville, New York.
|  | Warden, Metropolitan Correctional Center, New York, New York.
|  | Deputy Assistant Director for Administration.
|  | Warden, Metropolitan Detention Center, Brooklyn, New York.
|  | Warden, United States Penitentiary, Pollock, Louisiana.
|  | Senior Deputy Assistant Director, Correctional Programs Division.
|  | Warden, Federal Correctional Complex, Beaumont, Texas.
|  | Regional Director, Southeast Region.
|  | Warden, USP, Thomson, Illinois.
|  | Warden, FCI, Mendota, California.
|  | Warden, FCI, McDowell, West Virginia.
|  | Senior Deputy Assistant Director, Industries, Education and Vocational Training.
|  | Senior Deputy Assistant Director, Health Services Division.
|  | Senior Deputy Assistant Director, Infrastructure, Policy and Public Affairs.
|  | Deputy General Counsel.
|  | Warden, Federal Correctional Institution, Berlin, New Hampshire.
|  | Warden, Federal Correctional Institution, Bennettsville, South Carolina.
|  | Warden, Federal Correctional Institution, Williamsburg, South Carolina.
|  | Warden, Federal Correctional Complex, Forrest City, Arkansas.
|  | Warden, Federal Correctional Institution, Ray Brook, New York.
|  | Warden, Federal Correctional Institution, Herlong, California.
|  | Warden, United States Penitentiary, Hazelton, West Virginia.
|  | Warden, Federal Correctional Complex, Yazoo City, Mississippi.
|  | Warden, United States Penitentiary, Canaan, Pennsylvania.
|  | Warden, Federal Correctional Institution Medium-I, Butner, North Carolina.
|  | Warden, United States Penitentiary Coleman-I, Coleman, Florida.
|  | Warden, United States Penitentiary, Tucson, Arizona.
|  | Warden, Federal Correctional Institution, Cumberland, Maryland.
|  | Warden, Federal Correctional Institution, Estill, South Carolina.
|  | Warden, Federal Correctional Institution, Greenville, Illinois.
|  | Warden, Federal Correctional Institution, McKean, Pennsylvania.
|  | Warden, Federal Correctional Institution, Oxford, Wisconsin.
|  | Warden, Federal Correctional Institution, Perkin, Illinois.
|  | Warden, Federal Correctional Institution, Schuylkill, Pennsylvania.
|  | Warden, Federal Correctional Institution, Three Rivers, Texas.
|  | Warden, Metropolitan Detention Center, Guaynabo, Puerto Rico.
|  | Warden, Federal Correctional Institution, Memphis, Tennessee.
|  | Warden, Federal Correctional Institution, Sheridan, Oregon.
|  | Warden, Federal Correctional Institution, Gilmer, West Virginia.
|  | Warden, Federal Correctional Institution, Manchester, Kentucky.
|  | Warden, United States Medical Center Federal Prisoners, Springfield, Missouri.
|  | Warden, Federal Medical Center, Lexington, Kentucky.
|  | Warden, United States Penitentiary, Marion, Illinois.
|  | Assistant Director, Industries, Education, and Vocational Training Division.
|  | Warden Federal Correctional Complex, Terre Haute, Indiana.
|  | Warden Federal Correctional Complex, Butner, North Carolina.
|  | Warden, Federal Correctional Institution, Marianna, Florida.
|  | Assistant Director for Human Resources Management.
|  | Warden, Federal Correctional Complex, Victorville, California.
|  | Warden, United States Penitentiary, McCrery, Kentucky.
|  | Warden, Federal Medical Center, Devens, Massachusetts.
|  | Warden, Metropolitan Detention Center, Los Angeles, California.
|  | Assistant Director for Administration.
|  | Assistant Director Correctional Programs Division.
|  | Assistant Director, Office of General Counsel.
|  | Regional Director, Northeast Region.
|  | Regional Director, North Central Region.
|  | Regional Director, Western Region.
|  | Regional Director, South Central Region.
|  | Warden, United States Penitentiary, Atlanta, Georgia.
|  | Warden, United States Penitentiary, Leavenworth, Kansas.
|  | Warden, United States Penitentiary, Lewisburg, Pennsylvania.
|  | Warden, Federal Correctional Complex, Lompoc, California.
|  | Senior Deputy Assistant Director, Correctional Programs Division.
|  | Warden, Federal Correctional Institution, Phoenix, Arizona.
|  | Warden, Federal Medical Center, Rochester, Minnesota.
|  | Regional Director, Middle Atlantic Region.
|  | Assistant Director, Information, Policy, and Public Affairs Division.
|  | Warden, Federal Correctional Institution, Talladega, Alabama.
|  | Warden, Federal Correctional Institution, Fort Dix, New Jersey.
|  | Warden, Federal Correctional Complex, Florence, Colorado.
|  | Warden, United States Penitentiary-High, Florence, Colorado.
| Executive Office for Immigration Review | Vice Chairman, Board of Immigration Appeals.
|  | Associate Director.
|  | Chief Immigration Judge.
|  | Chairman, Board of Immigration Appeals.
|  | General Counsel.
|  | Chief Administrator Hearing Officer.
| Criminal Division | Chief, Narcotic and Dangerous Drug Section.
|  | Senior Counsel to the Assistant Attorney General.
|  | Chief, Child Exploitation and Obscenity Section.
|  | Chief, Computer Crime and Intellectual Property Section.
|  | Chief, Domestic Security Section.
|  | Senior Litigation Counsel, Public Integrity Section.
|  | Senior Litigation Counsel, Public Integrity Section.
|  | Chief, Organized Crime and Racketeering Section.
|  | Chief, Appellate Section.
|  | Chief, Fraud Section.
|  | Deputy Chief, Asset Forfeiture and Money Laundering Section.
|  | Chief, Public Integrity Section.
|  | Deputy Chief for Litigation.
|  | Chief, Asset Forfeiture and Money Laundering Section.
|  | Deputy Chief, Public Integrity Section.
|  | Deputy Chief, Appellate Section.
|  | Executive Officer.
|  | Director, International Criminal Investigative Training Assistance Program.
|  | Deputy Chief, Computer Crime and Intellectual Property Section.
|  | Deputy Chief, Narcotic and Dangerous Drug Section.
|  | Director, Office of Overseas Prosecutorial Development, Assistance, and Training.
|  | Senior Counsel to the Assistant Attorney General.
|  | Deputy Chief for Public Integrity Section.
| National Security Division | Deputy Chief, Operations Section.
|  | Chief, Appellate Unit.
|  | Deputy Assistant Attorney General, FISA Operations and Intelligence Oversight.
|  | Chief, Operations Section.
|  | Chief, Oversight Section.
|  | Deputy Chief, Counterespionage Section.
|  | Deputy Chief, Counterterrorism Section.
|  | Deputy Counsel for Intelligence Law.
|  | Deputy Chief, Terrorism and Violent Crime, Counterterrorism Section.
| Executive Office for United States Attorneys | Chief, Information Officer.
|  | General Counsel.
|  | Counsel, Legal Programs and Policy.
|  | Deputy Director.
|  | Deputy Director for Administration and Management.
|  | Deputy Director for Operations.
|  | Associate Director, Office of Legal Education.
|  | Deputy Director, Financial Management Staff.
| United States Marshals Service | Deputy Director.
|  | Assistant Director, Financial Services.
|  | Associate Director, Operations.
|  | Associate Director, Administration.
|  | Assistant Director, Tactical Operations.
|  | Assistant Director for Prisoner Operations.
|  | Assistant Director, Information Technology.
|  | Assistant Director, Witness Security.
|  | Assistant Director, Management Support.
|  | Assistant Director, Asset Forfeiture.
|  | Assistant Director, Judicial Security.
|  | Assistant Director, Training.
|  | Assistant Director, Investigative Operations.
|  | Assistant Director, Justice Prisoner and Alien Transportation System.
|  | Assistant Director, Human Resources.
| Office of the Alcohol, Tobacco, Firearms and Explosives | Deputy Assistant Director, Field Operations, East.
|  | Deputy Director, Terrorist Explosive Device Analytical Center.
|  | Division Director, Special Agent In Charge, Columbus.
|  | Division Director, Special Agent In Charge, New Orleans.
|  | Division Director, Special Agent In Charge, Baltimore.
|  | Division Director, Special Agent In Charge, Newark.
|  | Division Director, Special Agent In Charge, Denver.
|  | Assistant Director, Training and Professional Development.
|  | Deputy Assistant Director, Management.
|  | Assistant Director, Management and Chief Financial Officer.
|  | Deputy Assistant Director, Field Operations, West.
|  | Deputy Assistant Director, Training and Professional Development.
|  | Deputy Assistant Director, Industry Operations.
|  | Division Director, Special Agent In Charge, Nashville.
|  | Division Director, Special Agent In Charge, Dallas.
|  | Assistant Director, Office of Strategic Intelligence and Information.
|  | Deputy Assistant Director, Office of Strategic Intelligence and Information.
|  | Assistant Director, Office of Public and Governmental Affairs.
|  | Deputy Assistant Director, Office of Public and Governmental Affairs.
|  | Division Director, Special Agent In Charge, Saint Paul.
|  | Division Director, Special Agent In Charge, Atlanta.
|  | Division Director, Special Agent In Charge, Boston.
|  | Division Director, Special Agent In Charge, Chicago.
|  | Division Director, Special Agent In Charge, Kansas City.
|  | Division Director, Special Agent In Charge, Philadelphia.
|  | Division Director, Special Agent In Charge, Phoenix.
|  | Division Director, Special Agent In Charge, San Francisco.
|  | Division Director, Special Agent In Charge, Miami.
|  | Division Director, Special Agent In Charge, Charlotte.
|  | Division Director, Special Agent In Charge, Detroit.
|  | Division Director, Special Agent In Charge, Louisville.
|  | Division Director, Special Agent In Charge, Seattle.
|  | Division Director, Special Agent In Charge, Tampa.
|  | Deputy Director.
|  | Assistant Director, Field Operations.
|  | Deputy Assistant Director, Field Operations, Central.
|  | Assistant Director, Enforcement Programs and Services.
|  | Deputy Assistant Director, Enforcement Programs and Services.
|  | Assistant Director, Office of Professional Responsibility and Security Operations.
|  | Deputy Assistant Director for Information Technology and Deputy Chief Information Officer.
|  | Assistant Director, Science and Technology.
|  | Director, Forensic Services.
|  | Associate Chief Counsel, Administration and Ethics.
|  | Division Director, Special Agent In Charge, Los Angeles.
|  | Division Director, Special Agent In Charge, New York.
|  | Division Director, Special Agent In Charge, Washington.
|  | Division Director, Special Agent In Charge, Houston.
|  | Deputy Assistant Director, Office of Professional Responsibility and Security Operations.
| Antitrust Division | Chief, Telecommunications and Media Section. Executive Officer.
|  | Director, Economic Enforcement.
| Civil Division | Deputy Branch Director.
| Office of the Assistant Attorney General | Director, Office of Management Programs.
| Appellate Staff | Deputy Director, Appellate Staff.
|  | Special Appellate Litigation Counsel.
| Commercial Litigation Branch, Corporate/Financial Section | Special Litigation Counsel, Corporate/Financial Section.
|  | Deputy Director, Corporate/Financial Section.
| Commercial Litigation Branch, Civil Fraud Section | Deputy Director, Civil Fraud Section. Deputy Director, Civil Fraud Section.
| Commercial Litigation Branch, Foreign Litigation Section | Director, Foreign Litigation Section.
| Federal Programs Branch | Deputy Branch Director, Federal Programs.
|  | Deputy Branch Director, Federal Programs.
|  | Deputy Branch Director, Federal Programs.
| Office of Consumer Litigation | Director, Office of Consumer Litigation.
| Torts Branch, Aviation and Admiralty Section | Special Litigation Counsel, Aviation and Admiralty Section.
| Office of Immigration Litigation, Appellate Section | Deputy Director, Appellate Section.
| Environment and Natural Resources Division | Chief, Indian Resources Section.
|  | Chief, Environmental Defense Section.
|  | Chief, Wildlife and Marine Resources Section.
|  | Chief, Environmental Crimes Section.
|  | Chief, Environmental Enforcement Section.
|  | Senior Litigation Counsel.
|  | Deputy Chief, Natural Resources Section.
|  | Deputy Section Chief, Environmental Defense Section.
|  | Deputy Section Chief, Natural Resources Section.
|  | Chief, Natural Resources Section.
|  | Chief, Land Acquisition Section.
|  | Chief, Appellate Section.
|  | Deputy Chief, Environmental Enforcement Section.
|  | Senior Litigation Counsel Attorney, Examiner.
|  | Deputy Chief, Environmental Enforcement Section.
|  | Executive Officer.
| Tax Division | Executive Officer.
|  | Chief, Criminal Enforcement Section, Western Region.
|  | Senior Litigation Counsel.
|  | Special Litigation Counsel.
|  | Chief, Civil Trial Section, Eastern Region.
|  | Chief, Criminal Appeals and Tax Enforcement Policy Section.
|  | Chief, Civil Trial Section, Southwestern Region.
|  | Chief, Criminal Enforcement Section, South Region.
|  | Chief, Criminal Enforcement Section, North Region.
|  | Chief, Office of Review.
|  | Chief, Appellate Section.
|  | Chief, Claims Court Section.
|  | Chief, Civil Trial Section, Western Region.
|  | Chief, Civil Trial Section, Southern Region.
|  | Chief, Civil Trial Section, Northern Region.
|  | Chief, Civil Trial Section, Central Region.
| Civil Rights Division | Counsel to the Special Litigation Section Chief.
|  | Executive Officer.
| Executive Office for Organized Crime Drug Enforcement Task Forces | Director, Organized Crime Drug Enforcement Task Forces.
|  | Executive Director, Organized Crime Drug Enforcement Task Forces.
| Office of Justice Programs | Director, Office of Audit, Assessment and Management.
|  | Deputy Director, Office for Victims of Crime.
|  | Director, Office of Administration.
|  | Deputy Chief Financial Officer.
|  | Chief Financial Officer.
| National Institute of Justice | Assistant Director, National Institute of Justice, Office of Science and Technology.
DEPARTMENT OF JUSTICE OFFICE OF THE INSPECTOR GENERAL | Office of the Inspector General | Deputy Assistant Inspector General for Investigation.
|  | Deputy Assistant Inspector General for Audit.
|  | Assistant Inspector General for Audit.
|  | Assistant Inspector General for Investigation.
|  | Assistant Inspector General, Evaluation and Inspections Division.
|  | Deputy Inspector General.
|  | General Counsel.
|  | Director, Office of Oversight and Review.
|  | Assistant Inspector General for Management and Planning.
DEPARTMENT OF LABOR | Office of the Secretary | Deputy National Director for Regional Operations.
|  | Deputy National Director for Regional Operations.
| Office of Public Affairs | Director, Division of Enterprise Communications.
| Bureau of International Labor Affairs | Director, Office of Trade and Labor Affairs.
| Office of the Assistant Secretary for Policy | Director, Office of Regulatory and Programmatic Policy.
| Office of the Solicitor | Regional Solicitor, Dallas.
|  | Regional Solicitor, Kansas City.
|  | Regional Solicitor, San Francisco.
|  | Deputy Solicitor, Regional Operations.
|  | Deputy Solicitor, National Operations.
|  | Associate Solicitor for Management and Administrative Legal Services.
|  | Associate Solicitor for Civil Rights and Labor Management.
|  | Associate Solicitor for Legal Counsel.
|  | Associate Solicitor for Black Lung and Longshore Legal Services.
|  | Associate Solicitor for Plan Benefits Security.
|  | Regional Solicitor, Chicago.
|  | Acting Deputy Assistant Secretary.
|  | Associate Solicitor for Occupational Safety and Health.
|  | Associate Solicitor for Mine Safety and Health.
|  | Associate Solicitor for Fair Labor Standards.
|  | Regional Solicitor, Atlanta.
|  | Associate Solicitor for Federal Employees' and Energy Workers' Compensation.
|  | Regional Solicitor, Boston.
|  | Regional Solicitor, New York.
|  | Regional Solicitor, Philadelphia.
| Office of Chief Financial Officer | Associate Deputy Chief Financial Officer for Financial Systems.
|  | Deputy Chief Financial Officer.
| Office of the Assistant Secretary for Administration and Management | Director, Office of Budget. Director, National Capital Service Center.
|  | Director of Civil Rights.
|  | Deputy Director, Information Technology Center.
|  | Deputy Assistant Secretary for Operations.
|  | Director, Business Operations Center.
|  | Director, Program Planning and Results Center.
|  | Deputy Assistant Secretary for Budget and Performance Planning.
|  | Deputy Assistant Secretary for Security and Emergency Management.
| Employment Standards Administration | Director, Office of Management, Administration and Planning.
|  | Deputy Assistant Secretary for Operations.
| Wage and Hour Division | Deputy Wage and Hour Administrator (Operations).
| Office of Workers' Compensation Programs | Director of Coal Mine Workers' Compensation.
|  | Director for Federal Employees' Compensation.
|  | Director, Energy Employees' Occupational Illness Compensation.
|  | Director, Office of Enforcement and International Union Audits.
| Office of Labor-Management Standards | Director, Office of Policy, Reports and Disclosure.
|  | Deputy Director, Office of Labor-Management Standards.
| Employee Benefits Security Administration | Director of Participant Assistance and Communications.
|  | Regional Director, New York.
|  | Director of Regulations and Interpretations.
|  | Director of Health Plan Standards Compliance and Assistance.
|  | Chief Accountant.
|  | Director of Enforcement.
|  | Director of Information Management.
|  | Senior Policy Advisor.
|  | Regional Director, Boston.
|  | Regional Director, Atlanta.
|  | Regional Director, Kansas City.
|  | Regional Director, San Francisco.
|  | Director of Exemption Determinations.
|  | Deputy Assistant Secretary for Program Operations.
| Bureau of Labor Statistics | Associate Commissioner, Productivity and Technology.
|  | Associate Commissioner for Prices and Living Conditions.
|  | Associate Commissioner for Administration.
|  | Associate Commissioner for Field Operations.
|  | Assistant Commissioner for Occupational Statistics and Employment Projections.
|  | Assistant Commissioner for Consumer Prices and Price Indexes.
|  | Associate Commissioner for Publications and Special Studies.
|  | Assistant Commissioner for International Prices.
|  | Associate Commissioner for Compensation and Working Conditions.
|  | Assistant Commissioner for Safety, Health and Working Conditions.
|  | Assistant Commissioner for Compensation Levels and Trends.
|  | Associate Commissioner for Technology and Survey Processing.
|  | Assistant Commissioner for Current Employment Analysis.
|  | Director of Technology and Computing Services.
|  | Director of Survey Processing.
|  | Associate Commissioner for Employment and Unemployment Statistics.
|  | Associate Commissioner for Survey Methods Research.
|  | Deputy Commissioner for Labor Statistics.
|  | Assistant Commissioner for Federal/State Cooperative Statistics Programs.
|  | Assistant Commissioner for Industrial Prices and Price Indexes.
| Employment and Training Administration | Administrator, Office of Performance and Technology.
|  | Administrator, Office of Financial and Administrative Management.
| Occupational Safety and Health Administration | Director, Directorate of Cooperative and State Programs.
|  | Director, Directorate of Standards and Guidance.
|  | Director, Administrative Programs.
|  | Director, Directorate of Evaluation and Analysis.
|  | Directorate of Technical Support and Emergency Management.
| Mine Safety and Health Administration | Director of Assessments.
|  | Director, Office of Accountability, Audit, and Program Policy Evaluation.
|  | Director of Administration and Management.
|  | Director of Program Evaluation and Information Resources.
|  | Director of Technical Support.
| Veterans Employment and Training Service | Deputy Assistant Secretary for Operations and Management.
|  | Director of Operations and Programs.
|  | Director, Department of Labor Homeless Assistance Program.
| Office of Disability Employment Policy | Director, Office of Operations.
DEPARTMENT OF LABOR OFFICE OF THE INSPECTOR GENERAL | Office of the Inspector General | Assistant Inspector General for Labor Racketeering.
|  | Counsel.
|  | Deputy Inspector General.
|  | Assistant Inspector General for Audit.
|  | Deputy Assistant Inspector General for Audit.
|  | Deputy Assistant Inspector General for Labor Racketeering.
|  | Assistant Inspector General for Management and Policy.
|  | Assistant Inspector General for Inspections and Special Investigations.
MERIT SYSTEMS PROTECTION BOARD | Office of the Clerk of the Board | Clerk of the Board.
| Office of Financial and Administrative Management | Director, Financial and Administrative Management.
| Office of Policy and Evaluation | Director, Office of Policy and Evaluation.
| Office of Information Resources Management | Director, Information Resources Management.
| Office of Regional Operations | Director, Office of Regional Operations.
| Atlanta Regional Office | Regional Director, Atlanta.
| Central Region, Chicago Regional Office | Regional Director, Chicago.
| Northeast Region, Philadelphia Regional Office | Regional Director, Philadelphia.
| Western Region, San Francisco Regional Office | Regional Director, San Francisco.
| Washington, DC Region, Washington Regional Office | Regional Director, Washington, DC.
| Dallas Regional Office | Regional Director, Dallas.
NATIONAL AERONAUTICS AND SPACE ADMINISTRATION | National Aeronautics and Space Administration | Senior Technical Advisor to the Director. Deputy Director for Science.
|  | Director for Ames International Space Station Office.
|  | Director, National Aeronautics and Space Administration Lunar Science Institute.
| Exploration Systems Mission Directorate | Manager, Advanced Space Technology Program.
|  | Director, Resources Management Office.
|  | Manager, Strategic Planning.
|  | Assistant Associate Administrator for Administration.
|  | Director, Advanced Capabilities Division.
|  | Director, Strategic Integration and Management Office.
|  | Assistant Associate Administrator for Human Exploration Capability.
|  | Director, Mission Integration Division.
|  | Director, Business Operations Division.
|  | Assistant Associate Administrator, Strategic Integration and Management.
|  | Director, Directorate Integration Office.
| Space Operations Mission Directorate | Assistant Associate Administrator for Space Shuttle Program.
|  | Deputy Assistant Administrator for Program Integration.
|  | Assistant Associate Administrator for Resources Management and Analysis Office.
|  | Space Operations Mission Directorate Transition Manager.
|  | Director, International Space Station and Space Shuttle Program Resource.
|  | Assistant Associate Administrator for Space Shuttle Program.
|  | Assistant Associate Administrator for International Space Station.
|  | Manager, Rocket Propulsion Test Program Office.
|  | Assistant Associate Administrator for Launch Services.
|  | Deputy Associate Administrator for Space Communications and Navigation.
| Science Mission Directorate | Deputy Director, Joint Agency Satellite Division.
|  | Director, Strategic Integration and Management Division.
|  | Director, Strategic Integration and Management Division.
|  | Director, Applications Division.
|  | Deputy Associate Administrator for Programs.
|  | Deputy Associate Administrator for Management.
|  | Senior Advisor.
|  | Deputy Director for Programs, Earth Science Division.
| Planetary Science Division | Deputy Director, Planetary Science Division.
|  | Director, Planetary Science Division.
|  | Mars Exploration Program Director.
| Astrophysics Division | Deputy Director, Astrophysics Division.
|  | Director, Astrophysics Division.
| Heliophysics Division | Program Director, Science Information and Telecommunications Systems.
|  | Deputy Director, Heliophyiscs Division.
|  | Director, Heliphysics Division.
| Earth Science Division | Program Director, Science Division.
|  | Program Director, Research and Analysis Program.
|  | Deputy Director, Earth Science.
| Aeronautics Research Mission Directorate | Director, Mission Support Office.
|  | Director, Integrated Systems Research Program Office.
|  | Director, Fundamental Aeronautics.
|  | Director, Mission Support Office.
|  | Director, Strategy Communications and Program Integration.
|  | Director, Aviation Safety Program Office.
|  | Director, Airspace Systems Program Office.
| Office of Program Analysis and Evaluation | Director, Cost Analysis Division.
|  | Deputy Director, Technical, Independent Program, Assessment.
|  | Deputy Associate Administrator.
|  | Director, Studies and Analysis Division.
|  | Deputy Director, Strategic Investment Division.
|  | Deputy Director, Strategic Investments Division.
|  | Director, Independent Program Assessment Office.
| Office of the Chief Financial Officer/Comptroller | Deputy Chief Financial Officer, Agency Budget, Strategy and Performance.
| Office of Education | Deputy Associate Administrator for Integration.
| Office of the Chief Information Officer | Associate Chief Information Officer for Capital Planning and Governance.
| Office of Agency Operations | Director, Program Operations Division.
|  | Director, Analysis Division.
|  | Director, Workforce Systems and Accountability Division.
|  | Assistant Administrator, Small and Disadvantaged Business Utilization.
|  | Director, Contract Management Division.
|  | Director, Environmental Management Division.
|  | Assistant Administrator for Security and Program Protection.
|  | Assistant Administrator for Agency Operations.
|  | Director, Facilities Engineering and Real Property Division.
|  | Assistant Administrator for Procurement.
|  | Director, Programs, Planning and Evaluation Division.
|  | Director, Headquarters Information Technology and Communications Division.
|  | Director, Strategic Capability Asset Program.
|  | Director, Workforce Management and Development Division.
|  | Deputy Assistant Administrator for Human Capital Management.
|  | Deputy Assistant Administrator for Policy.
|  | Director, Human Resource Management Division.
|  | Assistant Administrator for Human Capital Management.
|  | Director, Workforce Strategy Division.
| Office of Safety and Mission Assurance | Director, Safety and Assurance Requirements Division.
|  | Director, Mission Support Division.
|  | Chief, Safety and Mission Assurance Office.
|  | Deputy Chief Safety and Mission Assurance Officer.
| Office of the Chief Financial Officer/Comptroller | Director, Budget Division.
|  | Senior Advisor to the Deputy Chief Financial Officer.
|  | Deputy Chief Financial Officer.
|  | Director, Quality Assurance.
|  | Director, Financial Management.
|  | Director for Performance Reporting.
|  | Director, Business Integration.
|  | Director, Strategic Management and Planning.
| Office of the Chief Information Officer | Deputy Chief Information Officer for Information Technology Security.
| Office of the Chief Engineer | Exploration Systems Mission Directorate Chief Engineer.
|  | Senior Advisor.
|  | Science Mission Chief Engineer.
|  | Chief Engineer, ARMD.
| Office of Communications | Director, Media Services Division.
|  | Deputy Associate Administrator for Legislative Affairs.
|  | Deputy Assistant Administrator for Legislative Affairs.
|  | Assistant Administrator for Legislative and Intergovernmental Affairs.
| Office of Program and Institutional Integrator | Deputy Director of the Office of Program and Institutional Integration.
|  | Director of Program and Institutional Integration Office.
| Office of Legislative and Intergovernmental Affairs | Director, Space Operations Division. Manager, International Technology Transfer Policy.
|  | Director, Space Science and Aeronautics Division.
| National Aeronautics and Space Administration Shared Service Center | Executive Director of National Aeronautics and Space Administration Shared Service Center.
|  | Director, Business and Administration.
|  | Deputy Director, National Aeronautics and Space Administration Shared Services Center.
| Johnson Space Center | Assistant to the Director, Engineering.
|  | Associate Director (Technical).
|  | Director of Human Resources.
|  | Chief Financial Officer.
|  | Director, External Relations.
|  | Associate Director, Management.
|  | Assistant to the Director, Innovation and Partnerships.
|  | Director, Astromaterials Research and Exploration Science.
|  | Associate Director for Strategic Capabilities.
|  | Deputy Associate Administrator, Strategic Program Planning.
|  | Chief Knowledge Officer.
|  | Chief of Staff, Office of the Director.
|  | Manager, Advanced Planning.
| Space Station Program Office | Manager, Program Planning and Control Office, International Space Station.
|  | Manager, Mission Integration and Operations Office.
|  | Manager, International Space Station Payloads Office.
|  | Manager, Operations Integration.
|  | Manager, Avionics and Software Office.
|  | Manager, Safety and Mission Assurance/Program Risk Office, ISSP.
|  | Manager, International Space Station Program.
|  | Deputy Manager, International Space Station Program.
|  | Manager, Vehicle Office.
|  | Director, Human Space Flight Program—Russia.
|  | Senior Advisor, Exploration and Space Operations.
| Space Shuttle Program | Associate Manager, Space Shuttle Program.
|  | Manager, Safety and Mission Assurance Office.
|  | Deputy Manager, Space Shuttle Program.
|  | Manager, Space Shuttle Business Office.
|  | Deputy Space Shuttle Program Manager for Kennedy Space Center.
|  | Manager, Space Shuttle Systems Engineering and Integration Office.
|  | Manager, Orbiter Project Office.
|  | Manager, Space Shuttle Program.
|  | Manager Launch Integration, Kennedy Space Center.
| Mission Operations | Chief Flight Director Office.
|  | Deputy Director, Mission Operations.
|  | Chief, Engineering Projects.
|  | Director, Mission Operations.
| Constellation Program Office | Deputy Manager, Orbiter Project Office.
|  | Director, Systems Engineering and Integration, Constellation.
|  | Director, Program Planning and Control, Constellation.
|  | Director, Operation Integration, Constellation Program.
|  | Director, Safety Reliability and Quality Assurance, Constellation.
|  | Manager, Constellation Program.
|  | Deputy Manager, Constellation Office.
|  | Associate Program Manager for Lunar Formulation.
|  | Constellation Program Deputy for the Orion Project.
|  | Deputy Manager, Orion Project.
|  | Transition Manager, Operations and Test Integration Office, CX Program.
|  | Assistant Orion Project Manager, Program Planning and Control, Constellation.
|  | Assistant to the Director for Constellation.
| Flight Crew Operations | Director, Flight Crew Operations.
|  | Chief Astronaut Office.
|  | Chief, Aircraft Operations Division.
|  | Deputy Director, Flight Crew Operations.
|  | Assistant Director, Flight Crew Operations.
| Engineering | Deputy Director, Engineering.
|  | Chief, Crew and Thermal Systems Division.
|  | Manager, Engineering Services and Management Integration Office.
|  | Manager, Program Engineering Integration Office.
|  | Manager, Systems Architecture and Integration Office.
|  | Director, Engineering.
|  | Chief, Structural Engineering Division.
| Space and Life Sciences | Manager, Human Research Program.
|  | Deputy Director, Space and Life Sciences.
|  | Director, Space Life Sciences.
| Information Resources | Director, Information Resources.
| Office of Procurement | Director, Office of Procurement.
| Center Operations | Director Center Operations.
| Safety and Mission Assurance | Director, Safety and Mission Assurance.
|  | Deputy Director, Safety and Mission Assurance.
|  | Assistant to the Director, Safety and Mission Assurance.
| White Sands Test Facility | Manager, National Aeronautics and Space Administration White Sands Test Facility.
| EVA Project Office | Manager, EVA Project Office.
| Kennedy Space Center | Deputy Director, Management, Constellation Project Office.
|  | Deputy Director, Constellation Project Office.
|  | Director, Constellation Project Office.
|  | Director, Center Operations.
|  | Deputy Director, Technical, Engineering and Technology Directorate.
|  | Director, Engineering and Technology Directorate.
|  | Deputy Director, Management, Engineering and Technology Directorate.
|  | Chief, Mechanical Division, Engineering Directorate.
|  | Deputy Director, International Space Station and Spacecraft Processing Directorate.
|  | Director, John F Kennedy Space Center.
|  | Associate Director for Business Operations, John F Kennedy Space Center.
|  | Special Assistant to the Director.
|  | Chief Financial Officer.
|  | Associate Director for Engineering and Technical Operations.
|  | Special Assistant for Engineering and Technical Operations.
|  | Special Assistant to the Deputy Director.
|  | Special Assistant to the Deputy Director.
|  | Associate Director, International Space Station and Spacecraft Processing.
|  | Chief Medical Officer.
|  | Director, Constellation Space Transportation Planning Office.
|  | Deputy Director, Constellation Space Transportation Planning Office.
|  | Manager, Spacecraft Flight Hardware Project.
|  | Manager, Launch Vehicle Project, Constellation Space Transportation Planning Office.
|  | Manager, Flight and Ground Project Office, Constellation Space Transportation Planning Office.
|  | Chairperson, Engineering Services Contract Source Evaluation Board.
|  | Director, Public Affairs.
|  | Director, Launch Vehicle Processing Directorate.
|  | Deputy Director, Launch Vehicle Processing Directorate.
|  | Director, International Space Station and Spacecraft Processing Directorate.
|  | Deputy Director, Design and Development, Engineering and Technology Directorate.
|  | Director, Operational Systems Engineering Office, Engineering Directorate.
|  | Manager, Constellation Ground System Project Office, Constellation Project Office.
| Office of Procurement | Director, Procurement Office.
| Office of Human Resources | Director, Human Resources Office.
| Office of Information Technology and Communications Services | Director, Information Technology and Communications Services.
| Shuttle Processing | Deputy Director, Shuttle Processing.
| Safety and Mission Assurance | Deputy Director, Safety and Mission Assurance.
|  | Director, Safety and Mission Assurance.
| Office of External Relations | Director, External Relations.
|  | Deputy Director, External Relations and Business Development.
| Launch Services Program | Manager, Launch Services Program.
|  | Deputy Manager, Launch Services Program.
|  | Director, Expendable Launch Vehicle Launch Services.
| Marshall Space Flight Center | Deputy Director, Flight Projects Office.
|  | Assistant for Project Management and Development.
| Office of the Director | Deputy Manager, Constellation Program.
|  | Special Assistant to the Director.
| Office of the Deputy Director | Senior Executive for Technology and Integration.
|  | Associate Program Manager, Constellation Program.
| Office of the Associate Director | Associate Director, George C Marshall Space Flight Center.
| Michaud Assembly Facility | Chief Operating Officer, Michaud Assembly Facility.
|  | Director.
| Engineering Directorate | Director, Mission Operations Laboratory.
|  | Associate Director for Technical Management.
|  | Assistant to the Chief Engineer.
|  | Deputy Chief Engineer.
|  | Chief Engineer.
|  | Deputy Director, Engineering Directorate.
|  | Deputy Director, Space Systems Department.
|  | Director, Space Systems Department.
|  | Director, Materials and Processes Laboratory.
|  | Director, Propulsion Systems Department.
|  | Deputy Director, Propulsion Systems Department.
|  | Director, Test Laboratory.
|  | Director, Spacecraft and Vehicle Systems Department.
|  | Deputy Director, Spacecraft and Vehicle Systems Department.
|  | Associate Director for Operations.
| Office of the Chief Financial Officer | Chief Financial Officer (2 positions).
|  | Deputy Chief Financial Officer.
| Office of Center Operations | Director, Office of Center Operations.
|  | Deputy Director, Office of Center Operations.
| Office of Procurement | Director, Office of Procurement.
| Shuttle Propulsion Office | Manager, Propulsion Systems Engineering and Integration Office.
|  | Manager, Shuttle Propulsion Office.
|  | Deputy Manager, Shuttle Propulsion Office.
|  | Manager, Reusable Solid Rocket Booster Project.
|  | Manager, Space Shuttle Main Engine Project, Shuttle Propulsion Office.
|  | Manager, External Tank Project.
| Safety and Mission Assurance Directorate | Deputy Director, Safety and Mission Assurance Directorate.
|  | Chief Safety Officer.
|  | Deputy Director for Program Assurance.
|  | Director, Safety and Mission Assurance Directorate.
| Science and Mission Systems Office | Manager, Science and Mission Systems Office.
|  | Manager, Lunar Program and Projects Office.
|  | Deputy Manager, Science and Mission Systems Office.
|  | Manager, Science Programs and Projects Office.
|  | Chief Scientist, Aerospace Technology and Science Program Management.
| Office of Strategic Analysis and Communications | Director, Office of Strategic Analysis and Communications.
| ARES Projects Office | Manager, Vehicle Integration Office.
|  | Manager, Ares Projects Office.
|  | Manager, Upper Stage Office.
|  | Manager, First Stage Office.
|  | Deputy Manager, Ares Projects Office.
|  | Manager, Upper Stage Engine Office.
| Space Launch System Program Office | Manager, Program Planning and Control Office.
|  | Manager, Engines Office.
|  | Manager, Stages Office.
|  | Deputy Manager.
|  | Manager.
|  | Manager, Boosters Office.
| Science and Technology Office | Senior Science Advisor.
|  | Deputy Manager.
|  | Manager.
| Shuttle-ARES Transition Office | Manager.
| Office of Chief Information Officer | Deputy Chief Information Officer.
| Flight Programs and Partnerships Office | Manager.
|  | Deputy Manager.
| Office of Human Capital | Director, Office of Human Capital.
|  | Special Assistant to Director, Office of Human Capital.
| Stennis Space Center | Director, Center Operations Directorate.
|  | Director, Business Management Directorate.
|  | Director, Engineering and Science Directorate.
|  | Deputy Director, Stennis Space Center.
|  | Associate Director.
|  | Director, Projects Directorate.
|  | Deputy Director, Engineering and Science Directorate.
|  | Chief Financial Officer.
|  | Chair, Source Evaluation Board.
| Chief of Strategic Communications | Director, Business and Administration Operations.
| AMES Research Center | Deputy Director of Aeronautics.
|  | Deputy Director, Center Operations.
|  | Chief Counsel.
|  | Chief, Aviation Systems Division.
|  | Director, Office of Safety, Environment and Mission Assurance.
|  | Chief, Computational Sciences Division.
|  | Deputy Director, AMES Research Center.
|  | Deputy Director for Research.
|  | Special Assistant to the Director.
|  | Chief Financial Officer.
|  | Director of Center Operations.
|  | Associate Director for Institutional Management and Engineering.
|  | Chief, Space Technology Division.
|  | Human Capital Director.
|  | Director, Exploration Technology Directorate.
|  | Deputy Associate Director for Institutions and Research.
|  | Procurement Officer.
|  | AMES Research Center Liaison for University Affiliated Research Center.
|  | Chief Information Officer.
|  | Chief, Intelligent Systems Division.
|  | Director, National Aeronautics and Space Administration Astrobiology Institute.
|  | Director, Programs and Projects Directorate.
|  | Director, Aeronautics Test Program.
|  | Director, New Ventures and Communications Directorate.
|  | Associate Director for Institutions and Research.
|  | Deputy Director, Exploration Technology.
|  | Director of Engineering.
|  | Chief, Flight Vehicle Research and Tech Division.
| Astrobiology and Space Research | Director of Science.
|  | Chief, Life Sciences Division.
| Dryden Flight Research Center | Director, Flight Operations Directorate.
|  | Chief Financial Officer (Financial Manager).
|  | Director for Safety and Mission Assurance.
|  | Chief Counsel.
|  | Associate Director for Operations.
|  | Deputy Associate Director for Operations.
|  | Associate Director for Programs.
|  | Deputy Associate Director for Programs.
|  | Director of Mission Information and Test Systems.
|  | Program Manager for SOFIA.
| Langley Research Center | Chief Financial Officer.
|  | Director, Exploration and Space Operations Directorate.
|  | Director, Flight Projects Directorate.
|  | Deputy Director for Programs.
|  | Deputy Director for Safety.
|  | Director, Ground Facilities and Testing Directorate.
|  | Deputy Director, Research and Technology Test Operations.
|  | Deputy Director, Research and Technology Program Implementation.
|  | Associate Director for Special Programs.
|  | Director, Advanced Planning and Partnership Office.
|  | Associate Director, Langley Research Center.
|  | Deputy Director, Safety and Mission Assurance Office.
|  | Deputy Director for Advanced Projects.
|  | Chief Information Officer.
|  | Director, Safety and Mission Assurance Office.
|  | Director, Office of Procurement.
|  | Deputy Director, National Aeronautics and Space Administration Engineering and Safety Center.
|  | Director, Flight Research Services Directorate.
|  | Director, Systems Analysis and Advanced Concepts Directorate.
|  | Director, Science Directorate.
|  | Director, Aeronautics Research Directorate.
|  | Director, Center Operations Directorate.
|  | Deputy Director, Research and Technology Directorate.
|  | Director, Research and Technology Directorate.
|  | Deputy Director, Systems Engineering Directorate.
|  | Director, Systems Engineering Directorate.
|  | Manager, Systems Engineering Office.
|  | Director, Earth System Science Pathfinder Program Office.
|  | Special Assistant to the Director.
|  | Director, National Aeronautics and Space Administration Engineering and Safety Center.
|  | Manager, Management and Technical Support Office.
|  | Director, Office of Human Resources.
| Glenn Research Center | Chief, Office of Acquisition.
|  | Plum Brook Station Manager.
|  | Director, Systems Management Office.
|  | Director of Center Operations.
|  | Associate Director for Technical Planning, Policy, Analysis and Evaluation.
|  | Chief Financial Officer.
| Facilities and Test Directorate | Deputy Director of Facilities and Test.
|  | Chief Facilities and Test Engineering Division.
|  | Director of Facilities and Test.
|  | Associate Director for Infrastructure Assessment.
| Research and Technology Directorate | Chief, New Business and Partnership Office.
|  | Chief, Communications, Instrumentation and Controls Division.
|  | Chief, Power and On-Board Propulsion Division.
|  | Chief, Aero Propulsion Division.
|  | Chief, Structures and Materials Division.
| Space Flight Systems Directorate | Deputy Director, Space Flight Systems.
|  | Chief, Advanced Flight Projects Office.
| Engineering Directorate | Chief, Chief Engineer Office.
|  | Chief, Systems Engineering and Analysis Division.
|  | Chief, Mechanical and Fluid Systems Division.
|  | Deputy Director of Engineering and Technical Services.
|  | Chief, Power and Avionics Division.
|  | Director of Engineering.
| Office of the Chief Information Officer | Chief, Computer Services Division.
| Safety and Mission Assurance Directorate | Director, Office of Safety, Environmental and Mission Assurance.
| National Aeronautics and Space Administration's Safety Center | Director, Audits and Assessments. Director, Technical Excellence.
| Goddard Space Flight Center | Assistant Director for Advanced Concepts.
|  | Special Assistant to Deputy Director.
|  | Special Assistant to the Director.
| Office of Human Resources | Director of Human Capital Management.
| Office of the Comptroller | Deputy Chief Financial Officer.
|  | Chief Financial Officer/Comptroller.
| Office of Management Operations | Associate Director for Acquisition.
|  | Deputy Director of Management Operations.
| Flight Assurance | Director of Systems Safety and Mission Assurance.
|  | Deputy Director of Systems Safety and Mission Assurance.
| Flight Projects | Associate Director for Earth Science Projects Division.
|  | Deputy Associate Director for Earth Science Projects Division.
|  | Associate Director for Joint Polar Satellite System (JPSS) Program.
|  | Associate Director for Earth Science Technology Office (ESTO).
|  | Deputy Director for Planning and Business Management.
|  | Deputy Associate Director for Joint Polar Satellite System (JPSS) Program.
|  | Associate Director for Astrophysics Projects Division.
|  | Deputy Associate Director for Explorers and Heliophysics Science Projects Division.
|  | Associate Director for Space Servicing Capabilities Project.
|  | Associate Director for Landsat Data Continuity Mission Project.
|  | Director of Flight Projects.
|  | Deputy Director of Flight Projects.
|  | Associate Director for Exploration and Space Communications Projects Division.
|  | Associate Director for Explorers and Heliophysics Projects Division.
| Applied Engineering and Technology Directorate | Chief, Mechanical Systems Division. Chief, Mission Engineering and Systems Analysis Division.
|  | Chief, Instrument Systems and Technology Division.
|  | Chief, Information Systems Division.
|  | Chief, Electrical Systems Division.
|  | Deputy Director of Applied Engineering and Technology.
|  | Deputy Director of Applied Engineering and Technology for Planning and Business Management.
| Sciences and Exploration | Deputy Director of Sciences and Exploration for Planning and Business Management.
|  | Director of Sciences and Exploration.
|  | Deputy Director, Solar System Exploration Division.
|  | Director, Astrophysics Science Division.
|  | Chief, Goddard Institute for Space Studies.
|  | Deputy Director of Sciences and Exploration.
|  | Director, Earth Sciences Division.
|  | Director, Solar System Exploration Division.
|  | Deputy Director, Earth Sciences Division.
|  | Chief, Laboratory for Atmospheres.
|  | Director, Heliophysics Science Division.
|  | Associate Director for Advanced Concepts and Planning.
| Information Technology | Deputy Director for Operations.
| Suborbital Projects and Operations | Special Assistant for Project Management Training.
| Office of Security Management and Safeguards | Deputy Assistant Administrator for Security and Program Protection.
| Office of Chief Education Officer | Director, Elementary and Secondary Education Division.
|  | Deputy Chief Education Officer.
| Office of Security Management and Safeguards | Deputy Assistant Administrator for Security Management and Safeguards.
|  | Assistant Administrator for Security Management.
NATIONAL AERONAUTICS AND SPACE ADMINISTRATION OFFICE OF THE INSPECTOR GENERAL | Office of the Inspector General | Deputy Inspector General. Assistant Inspector General for Investigations. Counsel to the Inspector General.
|  | Assistant Inspector General for Management and Planning.
|  | Assistant Inspector General for Auditing.
NATIONAL ARCHIVES AND RECORDS ADMINISTRATION | Archivist of United States and Deputy Archivist of the United States | Deputy Archivist of the United States.
| Office of Administration | Assistant Archivist for Administration.
| Office of Regional Records Services | Assistant Archivist for Regional Records Services.
| Office of Records Services, Washington, DC | Assistant Archivist for Records Services.
| Office of the Chief Operating Officer | Chief Operating Officer.
| Agency Services | Chief Records Officer.
|  | Agency Services Executive.
| Business Support Services | Business Support Services Executive.
|  | Chief Financial Officer.
| Research Services | Research Services Executive.
| Office of the Federal Register | Director of the Federal Register.
| Information Services | Information Services Executive/Chief Information Officer.
| Legislative Archives, Presidential Libraries and Museum Services | Legislative Archives, Presidential Libraries and Museum Services Executive.
| Office of Presidential Libraries | Deputy for Presidential Libraries.
| Office of Human Capital | Chief Human Capital Officer.
| Office of Strategy and Communications | Chief Strategy and Communications Officer.
NATIONAL ARCHIVES AND RECORDS ADMINISTRATION OFFICE OF THE INSPECTOR GENERAL | Office of the Inspector General | Inspector General.
NATIONAL CAPITAL PLANNING COMMISSION | National Capital Planning Commission Staff | General Counsel. Executive Director.
|  | Deputy Executive Director.
|  | Chief Operating Officer.
NATIONAL ENDOWMENT FOR THE ARTS | Office of the Chief Information Officer | Chief Information Officer.
|  | Deputy Chairman for Programs and Partnerships.
|  | Director, Research and Analysis.
|  | Deputy Chairman for Management and Budget.
NATIONAL ENDOWMENT FOR THE ARTS OFFICE OF THE INSPECTOR GENERAL | Office of the Inspector General | Inspector General.
NATIONAL ENDOWMENT FOR THE HUMANITIES | Office of the Assistant Chairman for Planning and Operations | Assistant Chairman for Planning and Operations.
NATIONAL LABOR RELATIONS BOARD | Office of the Deputy Associate General Counsel, Litigation | Deputy Associate General Counsel, Division of Enforcement Litigation.
| Office of the Board Members | Executive Secretary.
|  | Chief Information Officer.
|  | Deputy Executive Secretary.
|  | Inspector General.
| Division of Enforcement Litigation | Director, Office of Appeals.
|  | Deputy Associate General Counsel, Appellate Court Branch.
| Division of Advice | Deputy Associate General Counsel, Division of Advice.
|  | Associate General Counsel, Division of Advice.
| Division of Administration | Director, Division of Administration.
|  | Deputy Director, Division of Administration.
| Division of Operations Management | Associate General Counsel, Division of Operation-Management.
|  | Deputy Associate General Counsel, Division of Operations-Management.
|  | Assistant General Counsel (3 positions).
|  | Assistant to General Counsel.
| Regional Offices | Regional Director, Region 13, Chicago, Illinois.
|  | Regional Director, Region 14, Saint Louis, Missouri.
|  | Regional Director, Region 15, New Orleans, Louisiana.
|  | Regional Director, Region 16, Fort Worth, Texas.
|  | Regional Director, Region 17, Kansas City, Kansas.
|  | Regional Director, Region 18, Minneapolis, Minnesota.
|  | Regional Director, Region 19, Seattle, Washington.
|  | Regional Director, Region 20, San Francisco, California.
|  | Regional Director, Region 21, Los Angeles, California.
|  | Regional Director, Region 22, Newark, New Jersey.
|  | Regional Director, Region 24, HATO Rey, Puerto Rico.
|  | Regional Director, Region 25, Indianapolis, Indiana.
|  | Regional Director, Region 26, Memphis, Tennessee.
|  | Regional Director, Region 27, Denver, Colorado.
|  | Regional Director, Region 28, Phoenix, Arizona.
|  | Regional Director, Region 29, Brooklyn, New York.
|  | Regional Director, Region 30, Milwaukee, Wisconsin.
|  | Regional Director, Region 32, Oakland, California.
|  | Regional Director, Region 31, Los Angeles, California.
|  | Regional Director, Region 34, Hartford, Connecticut.
|  | Regional Director, Region 3, Buffalo, New York.
|  | Regional Director Region 2, New York.
|  | Regional Director, Region 1, Boston, Massachusetts.
|  | Regional Director, Region 12, Tampa, Florida.
|  | Regional Director, Region 11, Winston Salem, North Carolina.
|  | Regional Director, Region 10, Atlanta, Georgia.
|  | Regional Director, Region 9, Cincinnati, Ohio.
|  | Regional Director, Region 8, Cleveland, Ohio.
|  | Regional Director, Region 7, Detroit, Michigan.
|  | Regional Director, Region 4, Philadelphia, Pennsylvania.
|  | Regional Director, Region 5, Baltimore, Maryland.
|  | Regional Director, Region 6, Pittsburgh, Pennsylvania.
NATIONAL SCIENCE FOUNDATION | Office of the Director | Chief Technology Officer.
| Office of Integrative Activities | Senior Advisor (2 positions).
|  | Senior Scientist.
|  | Senior Advisor (Level -II).
| Office of Diversity and Inclusion | Office Head, Office of Diversity and Inclusion.
| Office of the General Counsel | Deputy General Counsel.
| Antarctic Infrastructure and Logistics Division | Division Director, Antarctic Infrastructure and Logistics.
| Office of International Science and Engineering | Deputy Office Head. Senior Staff Associate.
| Office of the Inspector General | Inspector General.
|  | Assistant Inspector General for Audit.
|  | Associate Inspector General for Investigations.
|  | Deputy Inspector General.
| Directorate for Geosciences | Senior Facilities Advisor.
| Division of Atmospheric and Geospace Sciences | Section Head NCAR/Facilities Section.
| Division of Earth Sciences | Head, Deep Earth Processes Section.
| Division of Ocean Sciences | Section Head, Integrative Programs Section.
| Directorate for Engineering | Senior Advisor.
| Division of Engineering Education and Centers | Senior Staff Associate. Deputy Division Director (Education).
| Division of Civil, Mechanical, and Manufacturing Innovation | Deputy Division Director.
| Division of Industrial Innovation and Partnerships | Senior Advisor.
| Division of Chemical, Bioengineering, Environmental, and Transport Systems | Senior Advisor. Deputy Division Director.
| Directorate for Biological Sciences | Deputy Assistant Director.
|  | Executive Officer.
| Division of Environmental Biology | Deputy Division Director.
| Division of Integrative Organismal Systems | Deputy Division Director.
| Directorate for Mathematical and Physical Sciences | Senior Science Associate. Senior Advisor.
|  | Executive Officer.
|  | Deputy Assistant Director.
|  | Senior Advisor.
| Division of Mathematical Sciences | Deputy Division Director.
| Division of Materials Research | Deputy Division Director.
| Directorate for Education and Human Resources | Deputy Assistant Director for Integrative Activities.
| Division of Research on Learning In Formal and Informal Settings | Senior Advisor for Research.
| Directorate for Social, Behavioral and Economic Sciences | Deputy Assistant Director.
|  | Deputy Assistant Director.
| Directorate for Computer and Information Science and Engineering | Executive Officer. Deputy Assistant Director.
|  | Senior Staff Associate.
| Office of Budget, Finance and Award Management | Deputy Director, Planning, Coordination and Analysis.
|  | Deputy Director, Management, Operations and Policy.
|  | Director, Budget, Finance, Award and Chief Financial Officer.
| Budget Division | Division Director.
|  | Deputy Director.
| Division of Financial Management | Deputy Division Director, Division of Financial Management.
|  | Division Director and Deputy Chief Financial Officer.
| Division of Grants and Agreements | Division Director.
| Division of Acquisition and Cooperative Support | Division Director.
| Division of Institutional and Award Support | Deputy Division Director.
|  | Division Director.
| Office of Information and Resource Management | Senior Advisor. Director.
|  | Deputy Director.
|  | Senior Staff Associate.
| Division of Information Systems | Deputy Division Director.
| Division of Human Resource Management | Division Director.
|  | Deputy Division Director (2 positions).
| Division of Administrative Services | Deputy Division Director (2 positions).
|  | Division Director (2 positions).
NATIONAL SCIENCE FOUNDATION OFFICE OF THE INSPECTOR GENERAL | Office of the Inspector General | Inspector General. Assistant Inspector General for Audit.
|  | Assistant Inspector General for Investigations.
|  | Deputy Inspector General.
NATIONAL TRANSPORTATION SAFETY BOARD | Office of Management | Deputy Managing Director. Managing Director.
| Office of Administration | Director, Office of Administration.
| Office of Aviation Safety | Deputy Director, Office of Aviation Safety.
|  | Director Bureau of Accident Investigation.
|  | Deputy Director, Regional Operations.
| Office of Research and Engineering | Deputy Director, Office of Research and Engineering.
|  | Director, Office of Research and Engineering.
| Office of Chief Financial Officer | Chief Financial Officer.
| Office of Railroad, Pipeline and Hazardous Materials Investigations | Deputy Director, Office of Railroad, Pipeline and Hazardous Materials Safety.
|  | Director, Office of Railroad, Pipeline and Hazardous Materials Investigations.
| Office of Communications | Deputy Director, Office of Communications.
| Office of Highway Safety | Director, Office of Highway Safety.
| Office of Chief Information Officer | Chief Information Officer.
| Office of Marine Safety | Director, Office of Marine Safety.
NUCLEAR REGULATORY COMMISSION | Office of the Chief Financial Officer | Deputy Director, Division of Planning, Budget, and Analysis.
|  | Controller.
|  | Deputy Chief Financial Officer.
|  | Budget Director.
| Office of Commission Appellate Adjudication | Director, Office of Commission Appellate Adjudication.
| Office of Information Services | Director, Program Management, Policy Development and Analysis Staff.
|  | Director, Business Process Improvement and Applications Division.
|  | Director, Information and Records Services Division (2 positions).
|  | Director, Infrastructure and Computer Operations Division.
|  | Deputy Director, Office of Information Services.
| Computer Security Office | Chief Information Security Officer/Director, Computer Security Office.
| Office of Administration | Director, Division of Facilities and Security.
|  | Director, Division of Administrative Services.
|  | Director, Division of Contracts.
|  | Deputy Director, Office of Administration.
|  | Associate Director for Space Planning and Consolidation.
|  | Associate Director for Strategic Acquisitions.
| Office of Nuclear Security and Incident Response | Deputy Director, Office of Nuclear Security and Incident Response.
|  | Director, Program Management, Policy Development, and Analysis Staff.
| Division of Security Policy | Deputy Director, Division of Security Policy.
|  | Deputy Director for Reactor Security and Rulemaking.
|  | Director, Division of Security Policy.
|  | Deputy Director for Material Security.
|  | Director, Division of Security Policy.
| Division of Preparedness and Response | Deputy Director for Incident Response.
|  | Deputy Director for Emergency Preparedness.
|  | Director, Division of Preparedness and Response.
|  | Deputy Director for Emergency Preparedness.
| Division of Security Operations | Deputy Director for Security Oversight.
|  | Deputy Director for Security Programs.
|  | Director, Division of Security Operations.
| Office of Investigations | Deputy Director, Office of Investigations.
| Office of Small Business and Civil Rights | Director, Office of Small Business and Civil Rights.
| Office of New Reactors | Deputy Director, Office of New Reactors.
|  | Director, Division of Advanced Reactors and Rulemaking.
|  | Director, Division of Program Management, Policy Development and Analysis.
| Division of New Reactor Licensing | Director, Division of New Reactor Licensing.
|  | Deputy Director for Licensing Operations.
|  | Deputy Director for Infrastructure and Policy.
| Division of Site Safety and Environmental Analysis | Director, Division of Site Safety and Environmental Analysis.
|  | Director, Division of Site Safety and Environmental Analysis.
| Division of Safety Systems and Risk Assessment | Deputy Director, Division of Safety Systems and Risk Assessment.
|  | Director, Division of Safety Systems and Risk Assessment.
| Division of Engineering | Director, Division of Engineering.
|  | Deputy Director, Division of Engineering.
| Division of Construction Inspection and Operational Programs | Deputy Director, Division of Construction Inspection and Operational Programs.
|  | Director, Division of Construction Inspection and Operational Programs.
| Office of Nuclear Reactor Regulation | Director, Japan Lessons Learned Project Directorate.
|  | Deputy Director for Engineering and Corporate Support.
|  | Director, Program Management, Policy Development and Planning Staff.
| Division of Safety Systems | Deputy Director, Division of Safety Systems.
|  | Director, Division of Safety Systems.
| Division of Component Integrity | Deputy Director, Division of Component Integrity.
|  | Director, Division of Component Integrity.
| Division of Engineering | Deputy Director, Division of Engineering.
|  | Director, Division of Engineering.
| Division of Risk Assessment | Director, Division of Risk Assessment.
|  | Deputy Director, Division of Risk Assessment.
| Deputy Director for Reactor Safety Programs | Deputy Director for Reactor Safety Programs.
| Division of License Renewal | Director, Division of License Renewal.
|  | Deputy Director, Division of License Renewal.
| Division of Operating Reactor Licensing | Director, Division of Operating Reactor Licensing.
|  | Deputy Director, Division of Operating Reactor Licensing.
|  | Deputy Director, Division of Operating Reactor Licensing.
| Division of Inspection and Regional Support | Deputy Director, Division of Inspection and Regional Support.
|  | Deputy Director, Division of Inspection and Regional Support.
|  | Director, Division of Inspection and Regional Support.
| Division of Policy and Rulemaking | Deputy Director, Division of Policy and Rulemaking.
|  | Deputy Director, Division of Policy and Rulemaking.
|  | Director, Division of Policy and Rulemaking.
| Office of Nuclear Material Safety and Safeguards | Director, Program Planning, Budgeting, and Program Analysis Staff.
| Division of Fuel Cycle Safety and Safeguards | Deputy Director, Fuel Facility Licensing Directorate.
|  | Director, Division of Fuel Cycle Safety and Safeguards.
|  | Deputy Director, Special Projects and Technical Support Directorate.
| Division of Spent Fuel Alternative Strategies | Deputy Director, Division of Spent Fuel Alternative Strategies.
|  | Deputy Director, Technical Review Directorate.
|  | Director, Division of Spent Fuel Alternative Strategies.
|  | Deputy Director, Licensing and Inspection Directorate.
| Division of Spent Fuel Storage and Transportation | Director, Division of Spent Fuel Storage and Transportation.
|  | Deputy Director, Technical Review Directorate.
|  | Deputy Director, Licensing and Inspection Directorate.
| Office of Federal and State Materials and Environmental Management Programs | Director, Program Planning, Budgeting and Program Analysis Staff.
|  | Deputy Director, Office of Federal and State Materials and Environmental Management Programs.
| Division of Materials Safety and State Agreements | Director, Division of Materials Safety and State Agreements (2 positions).
|  | Deputy Director, Division of Materials Safety and State Agreements.
|  | Deputy Director, National Materials Program Directorate.
| Division of Intergovernmental Liaison and Rulemaking | Director, Division of Intergovernmental Liaison and Rulemaking.
|  | Deputy Director, Division of Intergovernmental Liaison and Rulemaking.
| Division of Waste Management and Environmental Protection | Director, Division of Waste Management and Environmental Protection.
|  | Deputy Director, Environmental Protection and Performance Assessment Directorate.
|  | Deputy Director, Decommissioning and Uranium Recovery Licensing Directorate.
| Office of Nuclear Regulatory Research | Director, Program Management, Policy Development and Analysis Staff.
| Division of Engineering | Director, Division of Engineering.
|  | Deputy Director, Division of Engineering.
| Division of Systems Analysis | Director, Division of Systems Analysis.
|  | Deputy Director, Division of Systems Analysis.
| Division of Risk Analysis | Deputy Director, Division of Risk Analysis.
|  | Director, Division of Risk Analysis.
| Region I | Director, Division of Nuclear Materials Safety.
|  | Deputy Director, Division of Reactor Projects.
|  | Deputy Regional Administrator.
|  | Deputy Director, Division of Reactor Safety.
|  | Director, Division of Reactor Safety.
|  | Director, Division of Reactor Projects.
| Region II | Deputy Regional Administrator for Operations.
|  | Deputy Director, Division of Reactor Safety.
|  | Director, Division of Reactor Safety.
|  | Deputy Director, Division of Fuel Facility Inspection.
|  | Deputy Director, Division of Construction Inspection.
|  | Director, Division of Construction Inspection.
|  | Deputy Director, Division of Construction Projects.
|  | Director, Division of Construction Projects.
|  | Deputy Regional Administrator for Construction.
|  | Director, Division of Fuel Facility Inspection.
|  | Deputy Director, Division of Reactor Projects.
|  | Director, Division of Reactor Projects.
| Region III | Deputy Director, Division of Reactor Projects.
|  | Director, Division of Nuclear Materials Safety.
|  | Director, Division of Reactor Safety.
|  | Deputy Director, Division of Reactor Safety.
|  | Director, Division of Reactor Projects.
|  | Deputy Regional Administrator.
|  | Director, Division of Nuclear Materials Safety.
| Region IV | Director, Division of Nuclear Materials Safety.
|  | Director, Division of Reactor Projects.
|  | Director, Division of Reactor Safety.
|  | Deputy Director, Division of Reactor Projects.
|  | Deputy Regional Administrator.
|  | Deputy Director, Division of Reactor Safety.
NUCLEAR REGULATORY COMMISSION OFFICE OF THE INSPECTOR GENERAL | Office of the Inspector General | Deputy Inspector General.
| Office of the Assistant Inspector General for Audits | Assistant Inspector General for Audits.
| Office of the Assistant Inspector General for Investigations | Assistant Inspector General for Investigations.
OCCUPATIONAL SAFETY AND HEALTH REVIEW COMMISSION | Office of the Executive Director | Executive Director.
OFFICE OF GOVERNMENT ETHICS | Office of Government Ethics | Deputy Director for Agency Programs.
|  | Deputy Director for Government Relations and Special Projects.
|  | Deputy General Counsel.
|  | Deputy Director for Administration.
|  | Deputy Director for Administration and Information Management.
OFFICE OF MANAGEMENT AND BUDGET | Office of the Director | Deputy Assistant Director for Management.
|  | Deputy Associate Director for Economic Policy.
|  | Assistant Director for Management and Operations.
|  | Senior Advisor to the Deputy Director for Management.
| Legislative Reference Division | Chief, Resources-Defense-International Branch.
|  | Chief, Labor, Welfare, Personnel Branch.
|  | Chief, Economics, Science and Government Branch.
|  | Assistant Director, Legislative Reference.
| Office of Federal Procurement Policy | Associate Administrator, Acquisition Policy.
|  | Deputy Administrator for Federal Procurement Policy.
|  | Associate Administrator.
|  | Associate Administrator for Procurement Law and Legislation.
|  | Associate Administrator for Acquisition Implementation.
|  | Associate Administrator.
| Office of the General Counsel | Associate General Counsel for Budget.
| Office of Information and Regulatory Affairs | Chief Statistical Policy Branch.
|  | Senior Advisor.
|  | Chief, Food, Health and Labor Branch.
|  | Chief, Information Policy and Technology Branch.
|  | Senior Advisor.
|  | Chief, Health, Transportation and General Government.
|  | Chief, Natural Resources and Environment Branch.
| Office of E-Government and Information Technology | Chief Architect.
| Office of Federal Financial Management | Senior Advisor to the Director.
|  | Chief, Financial Standards and Grants Branch.
|  | Chief Federal Financial Systems Branch.
|  | Chief, Financial Integrity and Analysis Branch.
| Office of Budget Review | Deputy Chief, Budget Review Branch.
|  | Deputy Assistant Director for Budget Review and Concepts.
|  | Deputy Chief, Budget Analysis Branch.
|  | Chief, Budget Analysis Branch.
|  | Assistant Director for Budget Review.
|  | Deputy Assistant Director for Budget Analysis and Systems.
|  | Chief, Budget Concepts Branch.
|  | Chief, Budget Systems Branch.
|  | Chief, Budget Review Branch.
| International Affairs Division | Chief, Economic Affairs Branch.
|  | Deputy Associate Director for International Affairs.
|  | Chief, United States International Affairs Branch.
| National Security Division | Chief Operations and Support Branch.
|  | Chief, Veterans Affairs and Defense Health Branch.
|  | Chief, Force Structure and Investment Branch.
|  | Chief, Command, Control, Communications, and Intelligence Branch.
|  | Chief Veteran Affairs Branch.
|  | Deputy Associate Director for National Security.
| Human Resource Programs | Senior Advisor.
|  | Chief, Personnel Policy Branch.
|  | Deputy Associate Director, Education and Human Resources Division.
|  | Chief, Income Maintenance Branch.
|  | Deputy Associate Director for Education, Income Maintenance and Labor.
|  | Chief, Education Branch.
|  | Chief, Labor Branch.
| Health Division | Chief, Medicare Branch.
|  | Chief, Public Health Branch.
|  | Chief, Medicaid Branch.
|  | Chief Health and Financing Branch.
|  | Chief, Health and Human Services Branch.
|  | Deputy Associate Director for Health.
| Transportation, Homeland, Justice and Services Division | Chief Transportation Branch. Chief, Homeland Security.
|  | Chief, Transportation/General Services Administration Branch.
|  | Chief, Justice Branch.
|  | Deputy Associate Director, Transportation, Homeland, Justice and Services.
| Housing, Treasury and Commerce Division | Chief, Treasury Branch.
|  | Deputy Associate Director for Housing, Treasury and Commerce.
|  | Chief, Commerce Branch.
|  | Chief, Housing Branch.
| Natural Resource Programs | Senior Advisor.
| Natural Resources Division | Chief, Agricultural Branch.
|  | Deputy Associate Director for Natural Resources.
|  | Chief, Interior Branch.
|  | Chief, Environment Branch.
| Energy, Science and Water Division | Chief, Energy Branch.
|  | Chief, Water and Power Branch.
|  | Chief, Science and Space Programs Branch.
|  | Deputy Associate Director for Energy and Science Division.
OFFICE OF NATIONAL DRUG CONTROL POLICY | Office of Supply Reduction | Assistant Deputy Director of Supply Reduction.
|  | Associate Director for Intelligence.
| National Youth Anti-Drug Media Campaign | Associate Deputy Director for State, Local and Tribal Affairs (National Youth Anti-Drug Media Campaign).
OFFICE OF PERSONNEL MANAGEMENT | Planning and Policy Analysis | Deputy Director, Actuary.
| Facilities, Security and Contracting | Deputy Director, Facilities, Security and Contracting.
|  | Director, Facilities, Security and Contracting.
| Healthcare and Insurance | Assistant Director, Federal Employee Insurance Operations.
| Retirement Services | Deputy Associate Director, Retirement Operations.
|  | Associate Director, Retirement Services.
|  | Deputy Associate Director, Retirement Services.
| Merit System Audit and Compliance | Deputy Associate Director, Merit System Audit and Compliance.
| Federal Investigative Services | Deputy Associate Director, Operations.
| Office of the Chief Financial Officer | Associate Chief Financial Officer, Financial Services.
|  | Chief Financial Officer.
|  | Deputy Chief Financial Officer.
| Office of the Chief Information Officer | Chief Information Officer.
OFFICE OF PERSONNEL MANAGEMENT OFFICE OF THE INSPECTOR GENERAL | Office of the Inspector General | Deputy Inspector General.
| Office of Investigations | Deputy Assistant Inspector General for Investigations.
|  | Assistant Inspector General for Investigations.
| Office of Audits | Assistant Inspector General for Audits.
|  | Deputy Assistant Inspector General for Audits.
|  | Deputy Assistant Inspector General for Audits.
| Office of Legal Affairs | Assistant Inspector General for Legal Affairs.
| Office of Policy, Resources Management, and Oversight | Assistant Inspector General for Management.
OFFICE OF SPECIAL COUNSEL | Office of Special Counsel, Headquarters | Chief Financial Officer and Director of Administrative Services.
|  | Associate Special Counsel, Planning and Oversight.
|  | Associate Special Counsel for Legal Counsel and Policy.
|  | Director, Office of Planning and Analysis.
|  | Senior Associate Special Counsel for Investigation and Prosecution.
|  | Director of Management and Budget.
|  | Associate Special Counsel for Investigation and Prosecution (3 positions).
OFFICE OF THE UNITED STATES TRADE REPRESENTATIVE | Office of Trade Representative for Labor | Assistant United States Trade Representative for Labor.
| Industry, Market Access and Telecommunications | Assistant United States Trade Representative for Industry, Market Access and Telecommunications.
| South Asian Affairs | Assistant United States Trade Representative for South Asian Affairs.
RAILROAD RETIREMENT BOARD | Office of the Board Staff | Director of Fiscal Operations.
|  | Director of Policy and Systems.
|  | Chief of Technology Service.
|  | Director of Hearings and Appeals.
|  | Chief Actuary.
|  | Director of Field Service.
|  | Director of Administration.
|  | Deputy General Counsel.
|  | Assistant Inspector General for Investigations.
|  | Chief Financial Officer.
|  | Assistant Inspector General for Audit.
|  | General Counsel.
|  | Director of Programs.
|  | Director of Operations.
|  | Chief Information Officer.
SELECTIVE SERVICE SYSTEM | Selective Service System | Associate Director for Operations.
| Office of the Director | Associate Director for Operations.
|  | Senior Advisor to the Director.
SMALL BUSINESS ADMINISTRATION | Office of the Inspector General | Counsel to the Inspector General.
|  | Deputy Inspector General.
| Management and Policy Division | Assistant Inspector General for Management and Policy.
| Auditing Division | Assistant Inspector General for Auditing.
| Investigations Division | Assistant Inspector General for Investigations.
| Office of the General Counsel | Associate General Counsel for General Law.
|  | Associate General Counsel for Procurement Law.
|  | Associate General Counsel for Financial Law and Lender Oversight.
|  | Associate General Counsel Litigation.
| Office of Field Operations | District Director.
|  | Senior Advisor to the Deputy Associate Administrator for Field Operations.
|  | District Director (5 positions).
| Office of Equal Employment Opportunity and Civil Rights Compliance | Assistant Administrator for Equal Employment Opportunity and Civil Rights Compliance.
| Office of Hearings and Appeals | Assistant Administrator for Hearings and Appeals.
| Office of the Chief Financial Officer | Deputy Chief Financial Officer.
|  | Associate Administrator for Performance Management and Chief Financial Officer.
| Office of Capital Access | Deputy Associate Administrator for Capital Access.
| Office of Financial Assistance | Director of Financial Assistance.
|  | Deputy Associate Administrator for Financial Assistance.
|  | Assistant Administrator for Portfolio Management.
| Office of Surety Guarantees | Director for Surety Bonds and Guarantees Programs.
| Office of Entrepreneurial Development | Deputy Associate Administrator for Entrepreneurial Development.
| Office of Human Capital Management | Chief Human Capital Officer.
| Office of Government Contracting and Business Development | Director of Business Development.
| Office of Business Development | Associate Administrator for Business Development.
| Office of Policy, Planning and Liaison | Associate Administrator for Procurement Policy and Liaison.
SMALL BUSINESS ADMINISTRATION OFFICE OF THE INSPECTOR GENERAL | Office of the Inspector General | Deputy Inspector General. Assistant Inspector General for Investigations.
|  | Assistant Inspector General for Management and Policy.
|  | Counsel to the Inspector General.
|  | Assistant Inspector General for Auditing Division.
SOCIAL SECURITY ADMINISTRATION | Office of the Chief Information Officer | Deputy Chief Information Officer.
|  | Associate Chief Information Officer for Information Technology Investment Management.
| Office of Quality Performance | Deputy Commissioner for Quality Performance.
|  | Assistant Deputy Commissioner for Quality Performance.
| Office of Disability Adjudication and Review | Deputy Commissioner for Disability Adjudication and Review.
|  | Assistant Deputy Commissioner for Disability Adjudication and Review.
| Office of Federal Reviewing Official | Chief Federal Reviewing Official.
| Office of Appellate Operations | Deputy Executive Director, Office of Appellate Operations.
|  | Executive Director, Office of Appellate Operations.
| Office of the Inspector General | Counsel to the Inspector General.
|  | Deputy Inspector General.
|  | Assistant Inspector General for External Relations.
| Office of Investigations | Deputy Assistant Inspector General for Investigations (National Investigative Operations).
|  | Deputy Assistant Inspector General for Investigations (Field Operations).
|  | Assistant Inspector General for Investigations.
| Office of Audit | Deputy Assistant Inspector General for Audit, Program Audits and Evaluations.
|  | Assistant Inspector General for Audit.
|  | Deputy Assistant Inspector General for Audit.
| Office of Technology and Resource Management | Assistant Inspector General for Technology and Resource Management.
|  | Deputy Assistant Inspector General for Technology and Resource Management.
| Office of Medical and Vocational Expertise | Associate Commissioner for Medical and Vocational Expertise.
| Office of the Chief Actuary | Deputy Chief Actuary, Short-Range.
|  | Deputy Chief Actuary, Long-Range.
|  | Chief Actuary.
| Office of Disability Determinations | Associate Commissioner for Disability Determinations.
| Office of Personnel | Associate Commissioner for Personnel.
|  | Deputy Associate Commissioner for Personnel.
| Office of Civil Rights and Equal Opportunity | Associate Commissioner for Civil Rights and Equal Opportunity.
| Office of Labor-Management and Employee Relations | Deputy Associate Commissioner for Labor-Management and Employee Relations.
|  | Associate Commissioner for Labor-Management and Employee Relations.
| Office of Budget, Finance and Management | Assistant Deputy Commissioner for Budget, Finance and Management.
| Office of Financial Policy and Operations | Deputy Associate Commissioner Financial Policy and Operations.
|  | Deputy Associate Commissioner for Financial Policy and Operations, Payments, Conference Management and Travel.
|  | Associate Commissioner, Office of Finance Policy and Operations.
| Office of Budget | Associate Commissioner for Budget.
|  | Deputy Associate Commissioner for Budget.
| Office of Acquisition and Grants | Associate Commissioner for Acquisition and Grants.
|  | Deputy Associate Commissioner for Acquisition and Grants.
| Office of Telecommunications and Systems Operations | Deputy Associate Commissioner for Telecommunications and Systems Operations.
|  | Assistant Associate Commissioner for Enterprise Information Technology Services Management.
|  | Associate Commissioner for Telecommunications and Systems Operations.
|  | Deputy Associate Commissioner for Telecommunications and Systems Operations (Telecommunications).
|  | Deputy Associate Commissioner for Telecommunications and Systems Operations (Systems Operations).
| Office of General Law | Deputy Associate General Counsel for General Law.
|  | Associate General Counsel for General Law.
| Office of Program Law | Deputy Associate General Counsel for Program Law.
| Office of Public Disclosure | Executive Director for Public Disclosure.
SOCIAL SECURITY ADMINISTRATION OFFICE OF THE INSPECTOR GENERAL | Office of the Inspector General | Deputy Inspector General.
| Office of Counsel to the Inspector General | Counsel to the Inspector General.
| Office of External Relations | Assistant Inspector General for External Relations.
|  | Assistant Inspector General for External Relations.
| Office of Audit | Assistant Inspector General for Audit.
|  | Deputy Assistant Inspector General for Audit (Program Audit and Evaluations).
|  | Deputy Assistant Inspector General for Audit (Financial Systems and Operations Audits).
| Office of Investigations | Deputy Assistant Inspector General for Investigations (NIO).
|  | Assistant Inspector General for Investigations.
|  | Deputy Assistant Inspector General for Investigations (FO).
| Office of Technology and Resource Management | Assistant Inspector General for Technology and Resource Management.
|  | Deputy Assistant Inspector General for Technology and Resource Management.
DEPARTMENT OF STATE | Office of the Legal Adviser | Assistant Legal Adviser.
| Office of the Inspector General | Deputy Inspector General.
|  | Deputy Assistant Inspector General for Investigations.
|  | Deputy Assistant Inspector General for Audits.
|  | Deputy Inspector General.
|  | Assistant Inspector General for Management.
|  | Assistant Inspector General for Audits.
|  | General Counsel to the Inspector General.
|  | Deputy Inspector General.
|  | Assistant Inspector General for Investigations.
| Bureau of Intelligence and Research | Executive Director.
| Bureau of Administration | Director, Office of Acquisitions.
| Bureau of Human Resources | Principal Deputy Assistant Secretary.
|  | Human Resources Officer.
| Bureau of Consular Affairs | Director for Consular Technology.
| Bureau of International Security and Nonproliferation | Office Director. Office Director.
| Bureau of Political and Military Affairs | Political Advisor.
|  | Managing Director.
| Bureau of Arms Control, Verification, and Compliance | Director, Office of Strategic Negotiations and Implementation.
TRADE AND DEVELOPMENT AGENCY | Office of the Director | Assistant Director for Policy and Programs.
DEPARTMENT OF TRANSPORTATION | Office of Intelligence, Security and Emergency Response | Deputy Director. Director, Office of Intelligence, Security and Emergency Response.
| Office of Safety, Energy and Environment | Director.
| Assistant Secretary for Budget and Programs | Deputy Chief Financial Officer.
|  | Chief Financial Officer.
| Assistant Secretary for Administration | Assistant Secretary for Administration.
| Office of the Senior Procurement Executive | Senior Procurement Executive.
| Administrator | Executive Director.
| Associate Administrator for Administration and Finance | Director, Office of Financial Management/Deputy Chief Financial Officer.
| Associate Administrator for Railroad Safety | Associate Administrator for Railroad Safety and Chief Safety Officer.
| Associate Administrator for Environment and Compliance | Associate Administrator for Environment and Compliance.
|  | Deputy Associate Administrator for Environment and Compliance.
| Office of the Administrator | Director of Innovative Program Delivery.
|  | Executive Director.
| Office of the Chief Financial Officer | Chief Financial Officer.
|  | Deputy Chief Financial Officer and Chief Budget Officer.
| Office of Real Estate Services | Director, Office of Real Estate Services.
| Associate Administrator for Safety | Associate Administrator for Safety.
| Office of Acquisition Management | Director, Office of Acquisition Management.
| Office of Safety Research and Development | Director, Office of Safety Research, Development and Technology.
| Office of the Administrator | Chief Financial Officer.
|  | Assistant Administrator and Chief Safety Officer.
| Office of Bus and Truck Standards and Operations | Director, Office of Bus and Truck Standards and Operations.
| Office of Enforcement and Compliance | Director, Office of Enforcement and Compliance.
| Associate Administrator for Enforcement | Director, Office of Defects Investigation.
|  | Director, Office of Vehicle Safety Compliance.
|  | Associate Administrator for Enforcement.
| Proceedings | Deputy Director, Legal Analysis.
| Office of Economic, Environmental Analysis and Administration | Director of Economic, Environmental Analysis and Administration.
| Office of Chief Safety Officer | Assistant Administrator and Chief Safety Officer.
| Office of Pipeline Safety | Deputy Associate Administrator for Policy and Programs.
|  | Deputy Associate Administrator for Field Operations.
|  | Associate Administrator for Pipeline Safety.
DEPARTMENT OF TRANSPORTATION OFFICE OF THE INSPECTOR GENERAL | Office of the Deputy Inspector General | Deputy Inspector General.
| Principal Assistant Inspector General for Auditing and Evaluation | Principal Assistant Inspector General for Auditing and Evaluation.
|  | Assistant Inspector General for Financial and Information Technology Audits.
| Assistant Inspector General for Acquisition and Procurement Audits | Assistant Inspector General for Acquisition and Procurement Audits.
| Assistant Inspector General for Aviation and Special Program Audits | Assistant Inspector General for Aviation and Special Program Audits.
| Assistant Inspector General for Surface and Maritime Program Audits | Assistant Inspector General for Highway and Transit Audits.
| Assistant Inspector General for Amtrak, High Speed Rail and Economic Analysis | Assistant Inspector General for Amtrak, High Speed Rail and Economic Analysis.
| Deputy Assistant Inspector General for Aviation and Special Program Audits | Deputy Assistant Inspector General for Aviation and Special Program Audits.
| Deputy Assistant Inspector General for Surface and Maritime Program Audits | Deputy Assistant Inspector General for Highway and Transit Audits.
| Principal Assistant Inspector General for Investigations | Principal Assistant Inspector General for Investigations.
| Assistant Inspector General for Investigations | Deputy Assistant Inspector General for Investigations.
| Assistant Inspector General for Administration | Assistant Inspector General for Administration.
| Assistant Inspector General for Legal, Legislative and External Affairs | Assistant Inspector General for Legal, Legislative and External Affairs.
DEPARTMENT OF THE TREASURY | Office of the Assistant Secretary | Fiscal Assistant Secretary.
|  | Deputy Assistant Secretary for Fiscal Operations and Policy.
|  | Deputy Assistant Secretary (Accounting Policy).
| Financial Management Service | Director, Regional Financial Center, Austin.
|  | Director, Regional Financial Center, Kansas City.
|  | Director, Regional Financial Center, Philadelphia.
|  | Assistant Commissioner, Governmentwide Accounting.
|  | Assistant Commissioner, Financial Operations.
|  | Director, Birmingham Debt Management Operations Center.
|  | Assistant Commissioner, Business Architecture.
|  | Comptroller and Deputy Chief Financial Officer.
|  | Assistant Commissioner, Payment Management.
|  | Director, Cash Management Infrastructure Group.
|  | Deputy Assistant Commissioner, Payment Management.
|  | Director, Cash Management Enterprise Architecture.
|  | Deputy Assistant Commissioner, Governmentwide Accounting.
|  | Director, Information Services Directorate.
|  | Deputy Chief Information Officer.
|  | Assistant Commissioner, Governmentwide Accounting Operations.
|  | Assistant Commissioner, Debt Management Services.
|  | Director, Revenue Collection Group.
|  | Assistant Commissioner, Regional Operations.
|  | Assistant Commissioner, Management (Chief Financial Officer).
|  | Commissioner, Financial Management Service.
|  | Assistant Commissioner, Information Resources.
|  | Assistant Commissioner, Federal Finance.
|  | Deputy Commissioner, Financial Management Service.
|  | Director, Regional Financial Center, San Francisco.
| Bureau of the Public Debt | Commissioner of the Public Debt.
|  | Executive Director, Government Securities Regulations.
|  | Assistant Commissioner, Office of Information Technology.
|  | Assistant Commissioner, Public Debt Accounting.
|  | Assistant Commissioner, Office of Management Services.
|  | Assistant Commissioner, Office of Retail Securities.
|  | Senior Advisor.
|  | Deputy Executive Director, Administrative Resources Center.
|  | Deputy Assistant Commissioner, Financing.
|  | Deputy Assistant Commissioner, Office of Information Technology.
|  | Deputy Assistant Commissioner, Office of Retail Securities.
|  | Executive Director, Administrative Resource Center.
|  | Assistant Commissioner, Financing.
|  | Deputy Commissioner of the Public Debt.
| Office of the Assistant Secretary for Financial Institutions | Director, Federal Insurance Office. Deputy Director, Federal Insurance Office.
| Office of the Assistant Secretary for Terrorist Financing | Director, Executive Office for Asset Forfeiture.
| Office of Financial Crimes Enforcement Network | Associate Director, Analysis and Liaison Division.
|  | Associate Director, Technology Solutions and Services Division/Chief Information Officer.
|  | Associate Director, Regulatory Policy and Programs Division.
|  | Deputy Director.
|  | Associate Director, Management Programs Division.
|  | Chief Counsel, Financial Crimes Enforcement Network.
|  | Executive Advisor.
|  | Deputy Associate Director, Compliance and Enforcement Programs.
|  | Associate Director (International).
|  | Director, Financial Crimes Enforcement Network.
| Assistant Secretary for Intelligence and Analysis | Deputy Assistant Secretary for Security.
| Inspector General | Deputy Assistant Inspector General for Audit (Program Audits).
|  | Assistant Inspector General for Investigations.
|  | Assistant Inspector General for Management Services.
|  | Counsel to the Inspector General.
|  | Assistant Inspector General for Audit.
|  | Deputy Assistant Inspector General for Audit (Financial Management).
|  | Senior Technical Advisor to the Inspector General.
|  | Deputy Assistant Inspector General for Investigations.
| Treasury Inspector General for Tax Administration | Deputy Inspector General. Associate Inspector General for Mission Support.
|  | Deputy Inspector General for Inspections and Evaluations.
|  | Assistant Inspector General for Investigations (Field Operations).
|  | Counsel to the Treasury Inspector General for Tax Administration.
|  | Assistant Inspector General for Audit, Wage and Investment.
|  | Deputy Inspector General for Audit.
|  | Assistant Inspector General for Investigation.
|  | Assistant Inspector General for Audit, Headquarters Operations.
|  | Assistant Inspector General for Audit, Small Business and Corporate Entities.
|  | Deputy Inspector General for Investigations.
|  | Assistant Inspector General for Audit, Information Systems Programs.
|  | Deputy Assistant Inspector General for Investigations.
| Office of the Assistant Secretary, Tax Policy | Director, Economic Modeling and Computer Applications.
|  | Deputy Director and Chief Economist.
| Alcohol and Tobacco Tax and Trade Bureau | Deputy Administrator, Alcohol and Tobacco Tax and Trade Bureau.
|  | Assistant Administrator, Headquarters Operations.
|  | Administrator, Alcohol and Tobacco Tax and Trade Bureau.
|  | Assistant Administrator, Field Operations.
|  | Assistant Administrator, Management and Chief Financial Officer.
|  | Assistant Administrator, Information Resources/Chief Information Officer.
| Office of the Assistant Secretary for Management | Director, Office of Procurement. Deputy Chief Financial Officer.
|  | Director, Office of Minority and Women Inclusion.
| Internal Revenue Service | Area Director, Field Assistance, Area 2.
|  | Area Director, Field Assistance, Area 1.
|  | Executive Director, Systems Advocacy.
|  | Director, Real Estate and Facilities Operations.
|  | Director, Portfolio Control and Performance.
|  | Director, Business Services and Management.
|  | Deputy Associate Chief Financial Officer for Financial Management.
|  | Project Director.
|  | Director, Customer Service and Stakeholders.
|  | Director, Tax Forms and Publications.
|  | Director, Filing and Payment Compliance.
|  | Deputy Commissioner for Support, Wage and Investment.
|  | Director, Compliance Campus Operations.
|  | Deputy Director, Return Preparer Office.
|  | Accounts Management Field Director.
|  | Director, Field Operations, International Business Compliance.
|  | Director, Filing and Premium Tax Credit.
|  | Project Director.
|  | Assistant Deputy Commissioner, International.
|  | Director, Information Technology Transition Initiatives.
|  | Field Director, Submission Processing.
|  | Director, Field Operations, Natural Resources.
|  | Director, Collection Area.
|  | Director, Campus Compliance Operations.
|  | Accounts Management Field Director.
|  | Director, Examination Area.
|  | Deputy Director, Office of Professional Responsibility Operations.
|  | Director, Abusive Transactions and Technical Issues.
|  | Director, Customer Service Support.
|  | Director, International Individual Compliance.
|  | Associate Chief Financial Officer, Corporate Planning and Internal Control.
|  | Director, Server, Middleware and Test Systems Infrastructure Division.
|  | Area Director, Field Assistance.
|  | Director, Examination Area.
|  | Director, Telecommunications Center of Excellence.
|  | Director, Customer Service.
|  | Accounts Management Field Director.
|  | Director, Real Estate and Facilities Operations.
|  | Director, E-File Systems.
|  | Director, Earned Income Tax Credit.
|  | Director, Business Performance Solutions.
|  | Director, Large Systems and Storage Infrastructure Division.
|  | Director, Filing and Payment Compliance.
|  | Deputy Director, Portal Program Management.
|  | Director, Accounts Management Services.
|  | Director, CADE 2 Database.
|  | Director, Field Operations, Field Specialists, West.
|  | Deputy Associate Chief Information Officer for Enterprise Services.
|  | Director, Collection Area.
|  | Director, International Business Compliance.
|  | Director, Field Operations, Retail, Food, Pharmaceuticals, and Healthcare.
|  | Director, Program Strategy and Integration.
|  | Deputy Director, Research, Analysis, and Statistics.
|  | Director, International Operations.
|  | Director, Transfer Pricing Operations.
|  | Project Director.
|  | Project Director.
|  | Area Director, Field Assistance.
|  | Director, Refund Crimes.
|  | Project Director.
|  | Area Director, Stakeholder Partnership, Education, and Communication.
|  | Area Director, Stakeholder Partnership, Education, and Communication.
|  | Director, Examination Policy.
|  | Deputy Associate Chief Information Officer for Enterprise Networks.
|  | Deputy Associate Chief Information Officer for Applications.
|  | Chief Engineer.
|  | Associate Chief Information Officer, Affordable Care Act, Program Management Office.
|  | Deputy Commissioner, Operations Support.
|  | Director, Operations Service Support.
|  | Director, Examination Operations Support.
|  | Deputy Director, Strategy and Finance.
|  | Deputy Director, Pre-Filing and Technical Guidance.
|  | Director, Return Preparer Office.
|  | Compliance Services Field Director.
|  | Director, Field Operations, Field Specialists, East.
|  | Director, Field Operations, International Business Compliance, West.
|  | Director, Transition State 2 Program Management.
|  | Director, Enterprise Collection Strategy.
|  | Director, Examination Area.
|  | Director, Campus Compliance Operations.
|  | Director, Information Technology Technical Director.
|  | Director, Implementation Oversight.
|  | Director, Examination Area.
|  | Director, Business Modernization.
|  | Director, Program Management.
|  | Director, Enforcement.
|  | Director, Network Engineering.
|  | Deputy Associate Chief Information Officer for Cybersecurity.
|  | Director, Appeals Policy and Valuation.
|  | Senior Advisor to the Deputy Commissioner (Operations Support).
|  | Director, Strategy and Capital Planning.
|  | Director, Individual Master Files.
|  | Deputy Commissioner for Operations, Wage and Investment.
|  | Project Director.
|  | Associate Chief Information Officer, Strategy and Planning.
|  | Deputy Director, Employment, Talent, and Security.
|  | Project Director.
|  | Deputy Director, Enterprise Systems Testing.
|  | Director, Compliance Campus Operations.
|  | Director, Business Systems Planning.
|  | Project Director.
|  | Director, Management Services.
|  | Associate Chief Information Officer for Enterprise Operations.
|  | Director, Global High Wealth Industry.
|  | Project Director.
|  | Deputy Commissioner for Support, Wage and Investment.
|  | Deputy Director, Customer Relationships and Integration.
|  | Senior Advisor to the Deputy Commissioner for Services and Enforcement.
|  | Director, Delivery Management.
|  | Deputy Chief of Staff.
|  | Director, Abusive Transactions and Technical Issues.
|  | Director, Collection Area, Gulf States.
|  | Field Director, Compliance Services, Atlanta.
|  | Deputy Director, Enterprise Architecture.
|  | Director, Headquarters Operations.
|  | Field Director, Compliance Services.
|  | Director, Requirements and Demand Management.
|  | Director, Collection Area.
|  | Director, Enforcement.
|  | Submission Processing Field Director.
|  | Director, Filing and Payment Compliance.
|  | Deputy Chief of Staff.
|  | Special Assistant to the Deputy Commissioner for Services and Enforcement.
|  | Deputy Director, Electronic Tax Administration and Refund Credits.
|  | Project Director.
|  | Director, Continuity Operations.
|  | Director, Enterprise Voice Networks.
|  | Project Director, Workforce of Tomorrow.
|  | Deputy Associate Chief Information Officer.
|  | Director, Program Integration.
|  | Project Director, Taxpayer Communication.
|  | Director, Service Delivery Management.
|  | Deputy Division Counsel #2, Operations, Small Business and Self Employed.
|  | Director, Collection Policy.
|  | Deputy Director, Program Management.
|  | Special Assistant to the Associate Chief Information Officer for Applications Development.
|  | Deputy Director, Submission Processing.
|  | Director, Planning, Research and Analysis.
|  | Project Director, Customer Account Data Engine.
|  | Director, Capital Planning and Investment.
|  | Counselor.
|  | Director, Office of Program Evaluation and Risk Analysis.
|  | Project Director.
|  | Director, Treaty Administration and Tax Advisory Services.
|  | Project Director.
|  | Project Director.
|  | Director, Personnel Security.
|  | Director, Office of Taxpayer Burden.
|  | Project Director.
|  | Director, Earned Income and Health Coverage Tax Credits.
|  | Submission Processing Field Director.
|  | Associate Chief Information Officer, Cybersecurity.
|  | Project Director.
|  | Director, Enterprise Networks Operations.
|  | Senior Advisor, Operational Information.
|  | Director, Operational Security Program.
|  | Director, Office of Privacy, Information Protection and Data Security.
|  | Field Director, Accounts Management.
|  | Associate Chief Information Officer, Enterprise Networks.
|  | Project Director, Private Debt Collection.
|  | Project Director.
|  | Deputy Associate Chief Information Officer, End User Equipment and Services.
|  | Project Director.
|  | Director, Online Fraud Detection and Prevention.
|  | Project Director, Security and Law Enforcement.
|  | Director, Campus Compliance Services.
|  | Executive Director, Case Advocacy.
|  | Project Director.
|  | Deputy Commissioner (Operations).
|  | Project Director.
|  | Director, Electronic Tax Administration.
|  | Deputy Associate Chief Information Officer, Enterprise Operations.
|  | Project Director.
|  | Associate Chief Information Officer, End User Equipment and Services.
|  | Director, Cyber Security Policy and Programs.
|  | Director, Data Strategy Implementation.
|  | Director, Infrastructure Architecture and Engineering.
|  | Director, Reporting Compliance.
|  | Director, Stakeholder, Partnerships, Education, and Communications.
|  | Field Director, Accounts Management.
|  | Director, Development Services.
|  | Special Agent In Charge, Criminal Investigation.
|  | Project Director.
|  | Deputy Director, Customer Account Data Engine.
|  | Director, Retail, Food, Pharmaceutical and Health Care.
|  | Director, Field Operations, East.
|  | Deputy Chief Information Officer for Operations.
|  | Director, Business Rules and Requirements Management.
|  | Project Director.
|  | Senior Advisor to Associate Chief Information Officer (Enterprise Network).
|  | Project Director, Technology Operations and Investigative Services.
|  | Project Director.
|  | Director, Capital Planning and Investment.
|  | Director, Network Architecture, Engineering, and Voice.
|  | Director, Contact Center Support Division.
|  | Director, Field Operations.
|  | Deputy Commissioner, Large and Mid-Size Business, International.
|  | Accounts Management Field Director.
|  | Business Modernization Executive.
|  | Project Director.
|  | Deputy Director, Electronic Tax Administration.
|  | Director, Program Control and Process Management.
|  | Project Director.
|  | Project Director.
|  | Director, Centers of Excellence.
|  | Director, Earned Income and Health Coverage Tax Credits.
|  | Accounts Management Field Director.
|  | Director, Customer Applications Development.
|  | Director, Client Services Division.
|  | Deputy Director, Submission Processing.
|  | Director, Submission Processing.
|  | Director, Internal Management.
|  | Director, Project Services.
|  | Director, Individual Master File.
|  | Director, Corporate Data.
|  | Deputy Associate Chief Information Officer, Applications Development.
|  | Director, Enterprise Systems Testing.
|  | Deputy Commissioner, Services and Enforcement.
|  | Project Director.
|  | Project Director.
|  | Director, Management Services and Security.
|  | Director, International Compliance, Strategy, and Policy.
|  | Special Agent In Charge.
|  | Director, Business Systems Planning.
|  | Project Director.
|  | Director, Portal Program Management.
|  | Director, Product and Partnership Development.
|  | Director, Program Management and Technology.
|  | Director, Whistleblower Office.
|  | Director, Field Operations.
|  | Director, Office of Communications.
|  | Director, Office of Professional Responsibility.
|  | Supervisory Criminal Investigator, Project Director.
|  | Director, Field Operations.
|  | Associate Chief Information Officer, Applications Development.
|  | Director, Examination Area, Boston.
|  | Director, Information Technology Infrastructure.
|  | Director, Information Technology Security Engineering.
|  | Accounts Management Field Director.
|  | Director, Collection Area (2 positions).
|  | Director, Examination Area.
|  | Director, Examination Policy.
|  | Director, Abusive Transactions.
|  | Director, Examination Area (3 positions).
|  | Director, Technical Services.
|  | Director, Specialty Programs.
|  | Director, Campus Reporting Compliance.
|  | Director, Compliance Campus Operations (5 positions).
|  | Director, Strategy and Resource Management.
|  | Director, Special Programs and Oversight.
|  | Submission Processing Field Director.
|  | Accounts Management Field Director (4 positions).
|  | Director, Examination Area (3 positions).
|  | Director, Campus Collection Compliance.
|  | Director, Employee Plans, Rulings, and Agreements.
|  | Chief, Agency-Wide Shared Services.
|  | Deputy Director, Accounts Management.
|  | Director, Field Operations.
|  | Project Director, National Research Study Project.
|  | Area Director, Southeast.
|  | Director, Correspondence Production Services.
|  | Director, Communications, Liaison and Disclosure.
|  | Director, Research.
|  | Director, Stakeholder Liaison Field.
|  | Project Director, Collection.
|  | Director, Field Operations.
|  | Director, Strategy, Research and Program Planning.
|  | Special Agent In Charge.
|  | Director, Burden Reduction and Compliance Strategies.
|  | Director, Fraud/Bank Secrecy Act.
|  | Director, Emergency Management Programs.
|  | Director, Customer Relationship and Integration.
|  | Project Director.
|  | Director, Workforce Progression and Management.
|  | Deputy Chief, Mission Assurance and Security Services.
|  | Associate Chief Financial Officer for Corporate Performance Budgeting.
|  | Associate Chief Financial Officer for Corporate Planning and Internal Control.
|  | Director, Examination Planning and Delivery.
|  | Director, Field Operations.
|  | Deputy Director, Field Assistance.
|  | Director, Cyber Security Operations.
|  | Director, E-File Systems.
|  | Associate Chief Information Officer for Management and Finance.
|  | Director, Field Operations-Financial Services.
|  | Director, Field Operations-Natural Resources and Construction.
|  | Project Director.
|  | Compliance Service Field Director.
|  | Accounts Management Fielded Director.
|  | Submission Processing Field Director.
|  | Project Director (Small Business and Self Employed) Transition Executive).
|  | Compliance Service Field Director.
|  | Director, Product Assurance.
|  | Director, Field Operations-Heavy Manufacturing and Transportation.
|  | Deputy Director, Operation Standards.
|  | Deputy Director, Office of Professional Responsibility.
|  | Director, Internet Development Services.
|  | Special Agent In Charge.
|  | Deputy Director, Procurement.
|  | Director, Filing Systems.
|  | Accounts Management Field Director.
|  | Director, Leadership and Education.
|  | Deputy Director, Field Specialists.
|  | Deputy Division Commissioner.
|  | Director, Operational Assurance.
|  | Project Director, Business Requirements.
|  | Associate Chief Financial Officer for Revenue and Financial Management.
|  | Deputy Commissioner, Small Business/Self-Employed.
|  | Director, Employee Support Services.
|  | Director, Field Operations.
|  | Director, Advisory, Insolvency and Quality.
|  | Project Director.
|  | Director of Field Operations (2 positions).
|  | Director, Emergency Management Programs.
|  | Senior Advisor, Information Systems Current Processing Environment Security.
|  | Director, Examination Operations Support.
|  | Director, Joint Operations Center.
|  | Director, Filing and Payment Compliance.
|  | Accounts Management Field Director.
|  | Director, Refund Crimes.
|  | Director, Office of Privacy and Information Protection.
|  | Director, Media and Publications Distribution Division.
|  | Submission Processing Field Director.
|  | Area Director of Information Technology.
|  | Director, Compliance Services Campus Operations.
|  | Deputy Chief Human Capital Officer, Internal Revenue Service.
|  | Director, Collection Area.
|  | Submission Processing Field Director.
|  | Director, Workforce Relations.
|  | Director, Collection.
|  | Project Director.
|  | Director, Criminal Investigation Technology Operations and Investigative Services.
|  | Director, Taxpayer Education and Communication Field Operations.
|  | Modernization Executive.
|  | Director, Collection Policy.
|  | Director, Planning and Analysis.
|  | Director, Collection Business Reengineering.
|  | Director, Collection Area (4 positions).
|  | Director, Field Operations, East, Appeals.
|  | Director, Media and Publications Distribution Division.
|  | Director, Accounts Management, Wage and Investment.
|  | Deputy Director, Office of Professional Responsibility.
|  | Director, Reporting Compliance.
|  | Field Director, Accounts Management, Wage and Investment.
|  | Chief of Staff, Internal Revenue Service.
|  | Deputy Commissioner, Operations Support.
|  | Project Manager.
|  | Compliance Service Field Director.
|  | Commissioner, Small Business and Self Employed.
|  | Commissioner, Large and Mid-Sized Business Division.
|  | Chief Information Officer.
|  | Information Technology Manager, Policy and Planning.
|  | Assistant to Director, Real Estate and Facilities Management.
|  | Director, Strategy, Criminal Investigations.
|  | Director, Financial Management Services.
|  | Chief Human Capital Officer, Internal Revenue Service.
|  | Assistant Deputy Commissioner for Operations Support.
|  | Director, Competitive Sourcing.
|  | Director, Stakeholder, Partnership, Education and Communications.
|  | Director, Operations Policy and Support.
|  | Chief, Mission Assurance and Security Services.
|  | Chief Financial Officer, Internal Revenue Service.
|  | Director, Strategy, Program Management and Personnel Security.
|  | Chief, Criminal Investigation.
|  | Director, Regulatory Compliance.
|  | Director, Employee Plan Determination Letter Redesign.
|  | Director, Research.
|  | Director, Enterprise Operations Services.
|  | Area Director, Field Assistance.
|  | Project Director.
|  | Director, Technical Services.
|  | Director, Compliance Area.
|  | Director, Compliance Area.
|  | Director, Development Services.
|  | Director, Tax Forms and Publications.
|  | Director, Technical Systems Software.
|  | Project Director.
|  | Director, Operational Readiness.
|  | Director, Employment, Talent and Security.
|  | Associate Chief Information Officer for Information Technology Services.
|  | Director of Field Operations.
|  | Chief, Communications and Liaison.
|  | Project Director, Office of Professional Responsibility.
|  | Deputy Associate Chief Information Officer, Business Systems Development.
|  | Director, Business Systems Planning.
|  | Project Director, Employee Tax Compliance.
|  | Deputy Chief Financial Officer.
|  | Director, Internal Management Systems Development Division.
|  | Assistant Deputy Commissioner for Services and Enforcement.
|  | Director, Financial Management Services.
|  | Deputy Director, Enterprise Operations Services.
|  | Project Director.
|  | Director, Office of Information Technology Acquisition.
|  | Area Director, Field Assistance.
|  | National Director of Appeals.
|  | Area Director, Western.
|  | Director, Legislative Affairs Division.
|  | Executive Director, Equity, Diversity, and Inclusion.
|  | Accounts Management Field Director.
|  | Director, Field Operations.
|  | Director, Taxpayer Education Area—Los Angeles.
|  | Deputy Chief, Criminal Investigation.
|  | Deputy Director, Taxpayer Education and Communication.
|  | Director, Business Systems Planning.
|  | Area Director, Information Technology.
|  | Director, Field Operations West, Appeals.
|  | Director, Communication, Assistance, Research and Education.
|  | Director, Field Assistance Area, Wage and Investment, Phoenix.
|  | Director, Field Assistance, Wage and Investment.
|  | Director, Strategy and Finance, Wage and Investment.
|  | Director, Customer Account Services, Wage and Investment.
|  | Director, Submission Processing, Wage and Investment, Cincinnati.
|  | Director, Communications, Technology and Media Industry, Large and Mid-Size Business.
|  | Director, Personnel Services.
|  | Director, Field Operations, Financial Services, Laguna Niguel.
|  | Director, Tax Exempt Bonds.
|  | Director, Employee Plans.
|  | Deputy Division Commissioner, Tax Exempt and Government Entities.
|  | Chief, Management and Finance, Large and Mid-Size Business.
|  | Director, Heavy Manufacturing and Transportation.
|  | Director, Government Entities.
|  | Deputy Chief, Agencywide Shared Services.
|  | Commissioner, Tax Exempt and Government Entities Division.
|  | Deputy National Taxpayer Advocate.
|  | Director, Human Resources, Wage and Investment.
|  | Director of Compliance, Atlanta, Wage and Investment.
|  | Director, Portfolio Management.
|  | Director, Detroit Computing Center.
|  | Director, Compliance Area.
|  | Director, Program Analysis Customer Account Services, Wage and Investment.
|  | Director, Enterprise Computing Centers.
|  | Director, Exempt Organizations, Rulings and Agreements.
|  | Area Director, Field Assistance,Wage and Investment, San Francisco.
|  | Director, Field Operations, Special Wage and Investment.
|  | Director, Field Specialists, Large and Mid-Size Business.
|  | Director, Compliance Systems Division.
|  | Director of Research.
|  | Project Director.
|  | Director, Real Estate and Facilities Management.
|  | Division Information Officer, Large and Mid-Size Business.
|  | Senior Counselor to the Commissioner, Tax Administration, Practice and Professional Responsibility.
|  | Director, Human Resources, Small Business and Self Employed.
|  | Area Director, Stakeholder Partnership Education and Communication.
|  | Project Director, Small Business and Self Employed.
|  | Director, Research, Analysis and Statistics of Income.
|  | Accounts Management Field Director, Wage and Investment, Austin.
|  | Compliance Service Field Director,Wage and Investment, Austin.
|  | Commissioner, Wage and Investment.
|  | Director, Equal Employment Opportunity and Diversity.
|  | Special Agent In-Charge, Los Angeles.
|  | Director, Field Operations, Communications, Technology and Media, Large and Mid-Size Business.
|  | Director, Personnel Policy.
|  | Director, Exempt Organizations.
|  | Accounts Management Field Director, Fresno.
|  | Accounts Management Field Director, Andover.
|  | Submission Processing Field Director, Philadelphia.
|  | Deputy Director, Submission Processing.
|  | Submission Processing Field Director, Atlanta.
|  | Submission Processing Field Director, Andover.
|  | Compliance Service Field Director, Kansas City.
|  | Compliance Service Field Director, Philadelphia.
|  | Director, Taxpayer Education and Communication, Small Business and Self Employed.
|  | Director, Exempt Organizations Examinations.
|  | Director of Field Operations, Southeast Area, Criminal Investigation.
|  | Deputy Director, Prefilling and Technical Guidance.
|  | Director, Performance, Quality and Innovation, Large and Mid-Size Business.
|  | Industry Director, Financial Services, Large and Mid-Size Business.
|  | Project Director, Appeals.
|  | Director, Business Systems Planning, Large and Mid-Size Business.
|  | Director, Compliance, Detroit—Small Business and Self Employed.
|  | Area Director, Stakeholder, Partnership, Education and Communications, New Orleans.
|  | Director, Strategy, Research and Performance Management.
|  | Chief, Information Technology Services.
|  | Deputy Director, Submission Processing, Small Business and Self Employed, Cincinnati.
|  | Deputy Chief, Appeals.
|  | Submission Processing Field Director, Austin.
|  | Director, Product Assurance.
|  | Director, Management and Support.
|  | Director, Strategy and Finance.
|  | Compliance Service, Field Director, Atlanta.
|  | Director, Strategy and Finance, Appeals.
|  | Director, Professional Responsibility.
|  | Director, Change Management and Release Management.
|  | Director, Management Services.
|  | Deputy Director, Business Systems Development Division.
|  | Director, Corporate Data and Systems Management Division.
|  | Director, Enterprise Operations Services.
|  | Deputy Director, Enterprise Operations Services.
|  | Director, Safety and Security.
|  | Director, Customer Account Manager.
|  | Area Director, Stakeholder, Partnership, Education and Communication.
|  | Submission Processing Field Director, Fresno, California.
|  | Director, Compliance Area, Small Business and Self Employed, Denver.
|  | Director, Pre-Filing and Technical Guidance.
|  | Director, Strategic Planning and Program Management.
|  | Project Director.
|  | Associate Chief Financial Officer for Corporate Strategy.
|  | Director, Compliance Area.
|  | Director, Strategic Services.
|  | Director, Internet Development Services.
|  | Project Director.
|  | Director, Media and Publications.
|  | Executive Director, Systemic Advocacy, National Taxpayer Advocate.
|  | Director, Statistics of Income.
|  | Director, Compliance Area, Small Business and Self-Employed, Oakland.
|  | Project Director.
|  | Associate Chief Financial Officer for Internal Financial Management, National Headquarters.
|  | Director of Field Operations, Large and Mid-Size Business, New York.
|  | Accounts Management Field Director, Wage and Investment, Fresno.
|  | Director, Field Assistance Area.
|  | Director, Security Policy, Support and Oversight.
|  | Compliance Service Field Director, Andover—Wage and Investment.
|  | Director, Mission Assurance.
|  | Director, Compliance Area, Small Business and Self Employed, Dallas.
|  | Deputy Associate Commissioner, Systems Integration.
|  | Director, Taxpayer Education Area, Small Business and Self Employed, Chicago.
|  | Director, Procurement.
|  | Project Director.
|  | Director, Compliance Area, Small Business and Self Employed, Baltimore.
|  | Area Director, Stakeholder, Partnership, Education, and Communication, Wage and Investment, Dallas.
|  | Director, Taxpayer Education and Communication Area, Small Business and Self Employed, St Louis.
|  | Deputy Director, Procurement.
| Internal Revenue Service Chief Counsel | Division Counsel, Wage and Investment.
|  | Deputy Associate Chief Counsel, Strategic International Programs.
|  | Special Counsel to the Chief Counsel.
|  | Area Counsel, Small Business and Self Employed, Area 9.
|  | Deputy Division Counsel (Technical), Large Business and International.
|  | Deputy Associate Chief Counsel, International Field Service and Litigation.
|  | Senior Counsel to the Chief Counsel, Legislation.
|  | Director, Employee Plans Examinations.
|  | Special Counsel to the Chief Counsel.
|  | Associate Chief Counsel, International.
|  | Associate Chief Counsel, Finance and Management.
|  | Associate Chief Counsel, Financial Institutions and Products.
|  | Assistant Chief Counsel, International (Litigation).
|  | Deputy Associate Chief Counsel #2, Pass-through and Special Industries.
|  | Deputy Associate Chief Counsel, Corporate.
|  | Deputy Division Counsel, Large and Mid-Size Business.
|  | Associate Chief Counsel, Pass-through and Special Industries.
|  | Deputy Associate Chief Counsel, Procedure and Administration.
|  | Associate Chief Counsel, Income Tax and Accounting.
|  | Deputy Division Counsel/Deputy Assistant Chief Counsel, Criminal Tax.
|  | Assistant Chief Counsel, Collection, Bankruptcy and Summonses.
|  | Assistant Chief Counsel, Disclosure and Privacy Law.
|  | Associate Chief Counsel, Procedure and Administration.
|  | Associate Chief Counsel, Corporate.
|  | Assistant Chief Counsel, Administrative Provisions and Judicial Practice.
|  | Deputy Division Counsel/Deputy Associate Chief Counsel.
|  | Deputy Associate Chief Counsel, General Legal Services.
|  | Associate Chief Counsel, General Legal Services.
|  | Deputy Division Counsel and Deputy Associate Chief Counsel, Tax Exempt and Government Entities.
|  | Special Counsel to the National Taxpayer Advocate.
|  | Deputy Associate Chief Counsel (International Technical).
|  | Associate Chief Counsel/Operating Division Counsel, Tax Exempt and Government Entities.
|  | Deputy Chief Counsel, Operations.
|  | Deputy Chief Counsel, Technical.
|  | Assistant Chief Counsel, Employee Benefits.
|  | Deputy Associate Chief Counsel, General Legal Services (Labor and Personnel Law).
|  | Division Counsel, Small Business and Self Employed.
|  | Deputy Associate Chief Counsel, Finance and Management.
|  | Area Counsel, Large and Mid-Size Business (Area 2) Heavy Manufacturing, Construction and Transportation.
|  | Area Counsel, Large and Mid-Size Business(Area 4) Natural Resources.
|  | Area Counsel, Large and Mid-Size Business (Area 5) Communications, Technology, and Media.
|  | Deputy Division Counsel, Small Business and Self Employed.
|  | Area Counsel, Small Business and Self Employed, New York.
|  | Area Counsel, Small Business and Self Employed, Philadelphia.
|  | Area Counsel, Small Business and Self Employed, Jacksonville.
|  | Area Counsel, Small Business and Self Employed, Chicago.
|  | Area Counsel, Small Business and Self Employed, Dallas.
|  | Area Counsel, Small Business and Self Employed, Denver.
|  | Area Counsel, Small Business and Self Employed, Los Angeles.
|  | Area Counsel, Small Business and Self Employed (Area 7).
|  | Deputy Associate Chief Counsel #1, Income Tax and Accounting.
|  | Area Counsel (Large and Mid-Size Business)(Area 1) (Financial Services and Health Care).
|  | Deputy Associate Chief Counsel #1, Pass-through and Special Industries.
|  | Area Counsel, Large and Mid-Size Business (Area 3) Food, Mass Retailers, and Pharmaceuticals.
|  | Division Counsel/Associate Chief Counsel, Criminal Tax.
|  | Deputy Associate Chief Counsel #2, Income Tax and Accounting.
|  | Division Counsel, Large and Mid-Size Business.
|  | Deputy Associate Chief Counsel, Financial Institutions and Products.
| Office of the United States Mint | Associate Director for Workforce Solutions.
|  | Plant Manager, Philadelphia.
|  | Plant Manager.
|  | Associate Director for Information Technology, Chief Information Officer.
|  | Associate Director for Policy and Management/Chief Financial Officer.
|  | Associate Director for Sales and Marketing.
|  | Associate Director for Manufacturing.
|  | Senior Advisor.
DEPARTMENT OF THE TREASURY OFFICE OF THE INSPECTOR GENERAL | Office of the Inspector General | Deputy Inspector General. Special Deputy Inspector General for Small Business Lending Fund.
| Office of Counsel | Counsel to the Inspector General.
| Office of Management | Assistant Inspector General for Management.
| Office of Audit | Assistant Inspector General for Audit.
|  | Deputy Assistant Inspector General for Audit (Program Audits).
|  | Deputy Assistant Inspector General for Audit (Financial Management).
| Office of Investigations | Deputy Assistant Inspector General for Investigations.
DEPARTMENT OF THE TREASURY SPECIAL INSPECTOR GENERAL FOR THE TROUBLED ASSET RELIEF PROGRAM | Office of the Special Inspector General for the Troubled Asset Relief Program | Assistant Deputy Special Inspector General for Audit and Evaluation.
|  | Chief Investigative Counsel.
|  | Deputy Special Inspector General Operations.
|  | Chief Counsel for Special Inspector General for the Troubled Asset Relief Program.
|  | Deputy Special Inspector for General Audit.
|  | Assistant Deputy Special Inspector General for Investigations.
|  | Deputy Special Inspector General, Investigations.
DEPARTMENT OF THE TREASURY TAX ADMINISTRATION OFFICE OF THE INSPECTOR GENERAL | Office of the Inspector General | Deputy Counsel to the Inspector General.
|  | Assistant Inspector General for Compliance and Enforcement Operations.
|  | Assistant Inspector General for Investigations.
|  | Deputy Inspector General for Investigations.
|  | Assistant Inspector General for Investigations (3 positions).
|  | Chief Counsel.
|  | Associate Inspector General for Mission Support.
|  | Principal Deputy Inspector General.
|  | Deputy Inspector General for Inspections and Evaluations.
|  | Deputy Assistant Inspector General for Investigations.
|  | Assistant Inspector General for Audit.
|  | Chief Information Officer.
|  | Assistant Inspector General for Management, Planning and Workforce Development.
|  | Chief Information Officer.
|  | Deputy Inspector General for Audit.
|  | Assistant Inspector General for Management and Exempt Organizations.
|  | Assistant Inspector General for Returns Processing and Accounting Services.
|  | Assistant Inspector General for Management Planning and Workforce Development.
|  | Deputy Assistant Inspector General for Investigations.
UNITED STATES AGENCY FOR INTERNATIONAL DEVELOPMENT | Office of the Inspector General | Deputy Assistant Inspector General for Audit. Supervisory Criminal Investigator.
|  | Deputy Inspector General.
|  | Assistant Inspector General for Management.
|  | Counselor to the Inspector General.
|  | Assistant Inspector General for Millennium Challenge Corporation.
| Office of Security | Director, Office of Security.
| Office of Small and Disadvantaged Business Utilization | Director, Office of Small and Disadvantaged Business Utilization.
| Office of Civil Rights and Diversity | Equal Opportunity Officer.
| Bureau for Democracy, Conflict, and Humanitarian Assistance | Deputy Director, OMA. Deputy Assistant Administrator.
|  | Deputy Director, Office of Foreign Disaster Assistance.
| Bureau for Global Health | Deputy Assistant Administrator for Bureau of Global Health.
|  | Deputy Assistant Administrator.
| Bureau for Africa | Deputy Assistant Administrator, Bureau for Africa.
| Bureau for Management | Deputy Chief Financial Officer.
|  | Deputy Chief Financial Officer.
|  | Deputy Controller.
|  | Director, Office of Management, Policy, Budget and Performance.
|  | Deputy Director for OAA Policy, Support, and Evaluation.
|  | Deputy Director, OAA Operations.
|  | Director, Office of Administrative Services.
|  | Chief Information Officer.
|  | Deputy Assistant Administrator.
|  | Deputy Director, Office of Management, Policy, Budget and Performance.
| Bureau for Foreign Assistance | Senior Coordinator.
UNITED STATES AGENCY FOR INTERNATIONAL DEVELOPMENT OFFICE OF THE INSPECTOR GENERAL | Office of the Inspector General | Deputy Inspector General.
UNITED STATES INTERNATIONAL TRADE COMMISSION | Office of External Relations | Director, Office of External Relations.
| Office of Industries | Director, Office of Industries.
| Office of Investigations | Director, Office of Investigations.
DEPARTMENT OF VETERANS AFFAIRS | Office of the Secretary and Deputy | Director, Office of Employment Discrimination Complaint Adjudication.
|  | Executive Director.
| Office of Acquisitions, Logistics and Construction | Executive Director. Executive Director, Strategic Acquisition Center.
|  | Director, Facilities, Programs and Plans.
|  | Director, Facilities Acquisition Support.
|  | Director, Facilities Engineering Operations and Support.
|  | Associate Chief Facilities Management Officer for Service Delivery.
|  | Director, Construction and Facilities Management.
|  | Associate Chief Facilities Management Officer for Strategic Management.
|  | Associate Chief Facilities Management Officer for Resource Management.
| Office of Acquisition and Materiel Management | Associate Deputy Assistant Secretary for Acquisition Program Support.
|  | Deputy Assistant Secretary for Acquisition and Materiel Management.
|  | Executive Director, Center for Acquisition Innovation.
|  | Executive Director and Chief Operating Officer.
| Board of Veterans' Appeals | Director, Management, Planning and Analysis.
|  | Principal Deputy Vice Chairman.
|  | Vice Chairman.
| Office of the General Counsel | Regional Counsel (22 positions).
| Office of the Assistant Secretary for Management | Program Manager (Financial Systems).
|  | Deputy Program Manager, Financial Systems.
|  | Principal Deputy Assistant Secretary for Management.
| Office of Finance | Associate Deputy Assistant Secretary for Finance.
|  | Associate Deputy Assistant Secretary for Financial Business Operations.
|  | Director, Debt Management Center.
|  | Director, Financial Services Center.
| Office of Acquisition and Materiel Management | Associate Deputy Assistant Secretary for Acquisitions.
| Office of Asset Enterprise Management | Deputy Director, Asset Enterprise Management.
| Office of Business Oversight | Director, Office of Business Oversight.
| Office of Human Resources Management | Associate Deputy Assistant Secretary for Human Resources Policy and Planning.
| Office of the Assistant Secretary for Information and Technology | Associate Deputy Assistant Secretary for Privacy and Records Management.
|  | Associate Deputy Assistant Secretary for Policy, Portfolio Oversight and Execution.
|  | Executive Director, Budget and Finance.
|  | Executive Director for Business Operations.
|  | Executive Director.
|  | Associate Deputy Assistant Secretary for Information Technology Operations.
|  | Deputy Assistant Secretary for Information Technology Resource Management.
|  | Executive Director for Quality and Performance.
|  | Associate Deputy Assistant Secretary for Human Resources Career Development.
|  | Associate Deputy Assistant Secretary for Cyber Security.
| National Cemetery Administration | Director, Office of Finance and Planning.
| Veterans Benefits Administration | Chief Financial Officer.
|  | Deputy Chief Financial Officer.
|  | Deputy Director for Policy and Procedures.
|  | Deputy Director for Operations.
| Veterans Health Administration | Deputy Chief Procurement Officer.
|  | Chief Financial Officer.
|  | Director, Veterans Canteen Service.
|  | Director, Service Area Office.
|  | Director, Service Area Office.
|  | Associate Chief Financial Officer.
|  | Associate Chief Financial Officer for Core financial and Logistics System and Decision Support Systems.
|  | Associate Chief Information Officer Implementation and Training Services.
|  | Chief Procurement and Logistics Officer.
|  | Financial Manager.
|  | Chief Operating Officer.
|  | Deputy Chief Financial Officer.
|  | Chief Compliance and Business Integrity Officer.
| Office of Emergency Management | Deputy Assistant Secretary for Emergency Management.
| Office of Operations, Security and Preparedness | Director for Security and Law Enforcement.
DEPARTMENT OF VETERANS AFFAIRS OFFICE OF THE INSPECTOR GENERAL | Office of the Inspector General | Counselor to the Inspector General.
|  | Deputy Inspector General.
| Office of the Assistant Inspector General for Investigations | Assistant Inspector General for Investigations.
|  | Deputy Inspector General for Investigations, Field Operations.
|  | Deputy Assistant Inspector General for Investigations, Headquarters Operations.
| Office of the Assistant Inspector General for Audits and Evaluations | Assistant Inspector General for Audits and Evaluations.
|  | Deputy Assistant Inspector General for Auditing.
|  | Deputy Assistant Inspector General for Audits and Evaluations, Headquarters Management and Inspections.
| Office of the Assistant Inspector General for Management and Administration | Deputy Assistant Inspector General for Management and Administration.
|  | Assistant Inspector General for Management and Administration.
| Office of the Assistant Inspector General for Healthcare Inspections | Assistant Inspector General for Healthcare Inspections.
|  | Medical Officer, Deputy Director of Medical Consultation and Review.
|  | Medical Officer, Director of Medical Consultation and Review.
|  | Deputy Assistant Inspector General for Healthcare Inspections

Authority: 5 U.S.C. 3132.

Office of Personnel Management.
John Berry,
Director.

[FR Doc. 2012-17708 Filed 7-26-12; 8:45 am]

BILLING CODE 6325-39-P